ENVIRONMENTAL PROTECTION AGENCY

40 CFR Part 81

[EPA-HQ-OAR-2012-0918; FRL-9921-00-OAR]

RIN 2060-AR95

Air Quality Designations for the 2012 Primary Annual Fine Particle (PM2.5) National Ambient Air Quality Standards (NAAQS)

AGENCY: Environmental Protection Agency.

ACTION: Final rule.

SUMMARY: This rule establishes air quality designations for most areas in the United States (U.S.), including areas of Indian country, for the 2012 primary annual fine particle (PM2.5) National Ambient Air Quality Standards (NAAQS). Through these designations, the Environmental Protection Agency (EPA) is identifying as “nonattainment” those areas that are violating the 2012 PM2.5 NAAQS based on quality-assured, certified air quality monitoring data from 2011 to 2013 or those areas that are contributing to a violation of the NAAQS in a nearby area. The EPA is initially classifying all nonattainment areas as Moderate. Also, through this final rule, the EPA is designating several areas as “unclassifiable” where the EPA cannot determine based on available information whether the area is meeting or not meeting the NAAQS or where the EPA has not determined whether the area contributes to a nearby violation. Additionally, the EPA is deferring initial area designations for several areas where the EPA cannot determine using available data whether the areas are meeting or are not meeting the NAAQS, but for which forthcoming data will likely result in complete and valid data needed to determine a designation. The EPA will assess these data as they become available and promulgate initial area designations for the deferred areas through a separate rulemaking action. The EPA is designating as “unclassifiable/attainment” all remaining areas of the country.

DATES: The effective date of this rule is April 15, 2015.

ADDRESSES: The EPA has established a docket for this action under Docket ID No. EPA-HQ-OAR-2012-0918. All documents in the docket are listed in the www.regulations.gov index. Although listed in the index, some information is not publicly available, i.e., Confidential Business Information or other information whose disclosure is restricted by statute. Certain other material, such as copyrighted material, is not placed on the Internet and will be publicly available only in hard copy form. Publicly available docket materials are available either electronically in www.regulations.gov or in hard copy at the EPA Docket Center, William Jefferson Clinton West Building, Room 3334, 1301 Constitution Avenue NW., Washington, DC. The Public Reading Room is open from 8:30 a.m. to 4:30 p.m., Monday through Friday, excluding legal holidays. The telephone number for the Public Reading Room is (202) 566-1744 and the telephone number for the Air Docket is (202) 566-1742.

In addition, the EPA has established a Web site for this rulemaking at: http://www.epa.gov/pmdesignations/2012standards. The Web site includes the EPA's final PM2.5 designations, as well as state and tribal initial recommendation letters, the EPA's modification letters, technical support documents, responses to comments and other related technical information.

FOR FURTHER INFORMATION CONTACT: For general questions concerning this action, please contact Beth Palma, U.S. EPA, Office of Air Quality Planning and Standards, Air Quality Planning Division, C539-04, Research Triangle Park, NC 27711, telephone (919) 541-5432, email at palma.elizabeth@epa.gov.

SUPPLEMENTARY INFORMATION:

Regional Office Contacts

Region 1—Alison Simcox, (617) 918-1684, simcox.alison@epa.gov,

Region 2—Kenneth Fradkin, (212) 637-3702, fradkin.kenneth@epa.gov,

Region 3—Cristina Fernandez, (215) 814-2178, fernandez.cristina@epa.gov,

Region 4—Joel Huey, (404) 562-9104, huey.joel@epa.gov,

Region 5—Carolyn Persoon, (312) 353-8290, persoon.carolyn@epa.gov,

Region 6—John Walser, (214) 665-7128, walser.john@epa.gov,

Region 7—Andy Hawkins, (913) 551-7179, hawkins.andy@epa.gov,

Region 8—Crystal Ostigaard, (303) 312-6602, ostigaard.crystal@epa.gov,

Region 9—John J. Kelly, (415) 947-4151, kelly.johnj@epa.gov, and

Region 10—Justin Spenillo, (206) 553-6125, spenillo.justin@epa.gov

The public may inspect the rule and state-specific technical support information at the following locations:

Regional offices | States
Dave Conroy, Chief, Air Programs Branch, EPA Region 1, 5 Post Office Square—Suite 100, Mail Code OEP05-02, Boston, MA 02109-3912, (617) 918-1661 | Connecticut, Maine, Massachusetts, New Hampshire, Rhode Island and Vermont.
Richard Ruvo, Chief, Air Programs Branch, EPA Region 2, 290 Broadway, 25th Floor, New York, NY 10007-1866, (212) 637-4014 | New Jersey, New York, Puerto Rico and Virgin Islands.
Cristina Fernandez, Associate Director, Office of Air Program Planning, EPA Region 3, 1650 Arch Street, Philadelphia, PA 19103-2187, (215) 814-2178 | Delaware, District of Columbia, Maryland, Pennsylvania, Virginia and West Virginia.
R. Scott Davis, Branch Chief, Air Planning Branch, EPA Region 4, Sam Nunn Atlanta Federal Center, 61 Forsyth, Street, SW, 12th Floor, Atlanta, GA 30303-8960, (404) 562-9127 | Alabama, Florida, Georgia, Kentucky, Mississippi, North Carolina, South Carolina and Tennessee.
John Mooney, Chief, Air Programs Branch, EPA Region 5, Ralph Metcalfe Federal Building, 77 West Jackson Street, Chicago, IL 60604-3590, (312) 886-6043 | Illinois, Indiana, Michigan, Minnesota, Ohio and Wisconsin.
Guy Donaldson, Chief, Air Planning Section, EPA Region 6, 1445 Ross Avenue, Suite 1200, Dallas, TX 75202, (214) 665-7242 | Arkansas, Louisiana, New Mexico, Oklahoma and Texas.
Joshua A. Tapp, Chief, Air Programs Branch, EPA Region 7, 11201 Renner Blvd., Lenexa, Kansas 66219, (913) 551-7606 | Iowa, Kansas, Missouri and Nebraska.
Monica Morales, Leader, Air Quality Planning Unit, EPA Region 8, 1595 Wynkoop Street, Denver, CO 80202-1129, (303) 312-6936 | Colorado, Montana, North Dakota, South Dakota, Utah and Wyoming.
Matt Lakin, Air Planning Office, EPA Region 9, 75 Hawthorne Street, San Francisco, CA 94105, (415) 972-3851 | American Samoa, Arizona, California, Guam, Hawaii, Nevada and Northern Mariana Islands.
Debra Suzuki, Manager, State and Tribal Air Programs, EPA Region 10, 1200 Sixth Avenue, Suite 900, Seattle, WA 98101, (206) 553-0985 | Alaska, Idaho, Oregon and Washington.

Table of Contents

The following is an outline of the Preamble.

I. Background

II. Purpose

III. What is PM2.5 and how is it formed?

IV. What are the health and welfare concerns that the 2012 PM2.5 NAAQS address?

V. What are the CAA requirements for air quality designations and what action has the EPA taken to meet these requirements?

VI. What air quality data is the EPA using for these designations?

VII. How do designations affect areas of Indian country?

VIII. Where can I find information forming the basis for this rule and exchanges between the EPA, states and tribes related to this rule?

IX. Environmental Justice Considerations

X. Statutory and Executive Order Reviews

A. Executive Order 12866: Regulatory Planning and Review and Executive Order 13563: Improving Regulation and Regulatory Review

B. Paperwork Reduction Act (PRA)

C. Regulatory Flexibility Act (RFA)

D. Unfunded Mandates Reform Act (UMRA)

E. Executive Order 13132: Federalism

F. Executive Order 13175: Consultation and Coordination With Indian Tribal Governments

G. Executive Order 13045: Protection of Children From Environmental Health and Safety Risks

H. Executive Order 13211: Actions That Significantly Affect Energy Supply, Distribution or Use

I. National Technology Transfer and Advancement Act (NTTAA)

J. Executive Order 12898: Federal Actions To Address Environmental Justice in Minority Populations and Low-Income Populations

K. Congressional Review Act (CRA)

L. Judicial Review

I. Background

On December 14, 2012, the EPA promulgated a revised primary annual PM2.5 NAAQS to provide increased protection of public health and welfare from fine particle pollution (78 FR 3086; January 15, 2013). In that action, the EPA revised the primary annual PM2.5 standard, strengthening it from 15.0 micrograms per cubic meter (μg/m³) to 12.0 μg/m³, which is attained when the 3-year average of the annual arithmetic means does not exceed 12.0 μg/m³.

Section 107(d) of the Clean Air Act (CAA), 42 U.S.C. 7407(d), governs the process for initial area designations after the EPA establishes a new or revised NAAQS. Under section 107(d), each governor is required to, and each tribal leader may, if they so choose, recommend air quality designations, including the appropriate boundaries for nonattainment areas, to the EPA by a date which cannot be later than 1 year after the promulgation of a new or revised NAAQS. The EPA considers these recommendations as part of its duty to promulgate the formal area designations and boundaries for the new or revised NAAQS. If, after careful consideration of these recommendations, public input received and the EPA's own technical analyses, the EPA believes that it is necessary to modify a state's recommendation and to promulgate a designation different from a state's recommendation, then the EPA must notify the state at least 120 days prior to promulgating the final designation and the EPA must provide the state an opportunity to demonstrate why any proposed modification is inappropriate. These modifications may relate either to the designation of an area or to the boundaries of an area.

II. Purpose

The purpose of this action is to announce and promulgate initial area designations for most areas of the country with respect to the 2012 annual PM2.5 NAAQS in accordance with the requirements of CAA section 107(d). The EPA is designating areas as nonattainment, unclassifiable, or unclassifiable/attainment. In addition, the EPA is initially classifying all nonattainment areas as Moderate pursuant to the particulate matter-specific provisions of subpart 4 of Part D of Title I of the CAA. The tables at the end of this final rule (amendments to 40 CFR 81.301-356) list all areas that the EPA is designating in each state and in areas of Indian country.

In this action, the EPA is designating 14 areas in six states, including two multi-state areas, as nonattainment for the 2012 PM2.5 NAAQS. The EPA is designating three areas, including the entire state of Illinois, as unclassifiable because these areas have ambient air quality monitoring sites that lack complete data for the relevant period from 2011-2013. Therefore, the EPA cannot determine, based on available information, whether or not these areas are meeting or not meeting the NAAQS, and also has not determined whether these areas contribute to a nearby violation.

The EPA is deferring initial area designations for ten areas where available data, including air quality monitoring data, are insufficient to determine whether the areas are meeting or are not meeting the NAAQS. For these areas, the EPA believes that additional air quality monitoring data will result in complete and valid data sufficient to inform a designation determination. Accordingly, the EPA is deferring designations for these areas and using the additional time available as provided under section 107(d)(1)(B) of the CAA to assess relevant information and subsequently promulgate initial designations for the identified areas through a separate rulemaking action or actions. The ten deferred areas include eight areas in the state of Georgia, including two neighboring counties in the bordering states of Alabama and South Carolina, the entire state of Tennessee, excluding three counties in the Chattanooga area, and the entire state of Florida. The EPA is designating all the remaining state areas and areas of Indian country as unclassifiable/attainment.

Consistent with the EPA's “Policy for Establishing Separate Air Quality Designations for Areas of Indian Country” (December 20, 2011), the EPA is designating one area of Indian country separately from its adjacent/surrounding state areas.¹ The lands of the Pechanga Band of Luiseño Mission Indians in Southern California are being designated as a separate unclassifiable/attainment area.

¹ For more information, visit http://www.epa.gov/ttncaaa1/t1/memoranda/20120117indiancountry.pdf.

III. What is PM2.5 and how is it formed?

Ambient, or outdoor, air can contain a variety of pollutants, including particulate matter (PM). Airborne PM can be comprised of either solid or liquid particles, and can be a complex mixture of particles in both solid and liquid form. The most common constituents of airborne PM include sulfate (SO4); nitrate (NO3); ammonium; elemental carbon; organic mass; and inorganic material, generally referred to as “crustal” material, which can include metals, dust, sea salt and other trace elements. Airborne PM can be of different sizes, commonly referred to as “coarse” or “fine” particles. Fine particles, in general terms, are particulate matter with an aerodynamic diameter less than or equal to a nominal 2.5 micrometers (μm) in diameter. For this reason, particles of this size are referred to as PM2.5. PM2.5 commonly includes “primary” particles and “secondary” particles. Primary particles, or direct PM2.5, are emitted directly into the air as solid or liquid particles by a variety of sources (e.g., elemental carbon from diesel engines or wildfires, or condensable organic particles from gasoline engines). Secondary particles are formed in the atmosphere as a result of reactions between specific pollutants known as PM2.5 precursors (e.g., SO4 and NO3 from emissions of mobile and stationary sources of oxides of nitrogen and sulfur dioxide combined with ammonia).

IV. What are the health and welfare concerns that the 2012 PM2.5 NAAQS address?

The human health effects associated with long- or short-term exposure to PM2.5 are significant and include premature mortality, aggravation of respiratory and cardiovascular disease (as indicated by increased hospital admissions and emergency room visits) and development of chronic respiratory disease. In addition, welfare effects associated with elevated PM2.5 levels include visibility impairment as well as effects on sensitive ecosystems, materials damage and soiling, and climatic and radiative processes.²

² For a complete discussion of the human health and welfare effects associated with exposure to elevated concentrations of particulate matter, see generally “Integrated Science Assessment for Particulate Matter.” U.S. Environmental Protection Agency, Office of Research and Development, National Center for Environmental Assessment-RTP Division, February 10, 2010. EPA/600/R-08/139F. Available at: http://www.epa.gov/ncea/pdfs/partmatt/Dec2009/PM_ISA_full.pdf. See Chapter 2.

The revised 2012 primary annual PM2.5 standard will provide increased protection for children, older adults, persons with pre-existing heart and lung disease, and other at-risk populations against an array of PM2.5-related adverse health effects.

V. What are the CAA requirements for air quality designations and what action has the EPA taken to meet these requirements?

When the EPA promulgates a new or revised NAAQS, the EPA is required to designate areas as nonattainment, attainment, or unclassifiable, pursuant to section 107(d)(1) of the CAA. The CAA requires the EPA to complete the initial area designation process within 2 years of promulgating the NAAQS. However, if the Administrator has insufficient information to make these designations within that time frame, the EPA has the authority to extend the deadline for designation decisions by up to 1 additional year.

The initial area designations process is one of the first steps in the state and federal partnership to implement the NAAQS and improve air quality. By no later than 1 year after the promulgation of a new or revised NAAQS, each state governor is required to recommend air quality designations, including the appropriate boundaries for areas, to the EPA. The EPA reviews those state recommendations and accepts them unless the Administrator deems that a modification is necessary. The statute does not define the term “necessary,” but the EPA interprets this section of the CAA to authorize the Administrator to modify designations that do not meet the statutory requirements or are otherwise inconsistent with the facts or analysis deemed appropriate by the EPA. If the EPA is considering modifications to a state's initial recommendation, the EPA is required to notify the state of any such intended modifications to its recommendation not less than 120 days prior to the EPA's promulgation of the final designation. These notifications are commonly known as the “120-day letters.” If the state does not agree with the EPA's intended modification(s), it then has an opportunity to respond to the EPA to demonstrate why it believes the modification(s) is (are) inappropriate. In the event that a state fails to provide any recommendation for an area, in whole or in part, the EPA is still required to promulgate a designation that the Administrator deems appropriate, pursuant to section 107(d)(1)(B)(ii).

Section 107(d)(1)(A)(i) of the CAA defines a nonattainment area as “any area that does not meet (or that contributes to ambient air quality in a nearby area that does not meet) the national primary or secondary ambient air quality standard for the pollutant.” If an area meets either prong of this definition, then the EPA is obligated to designate the area as “nonattainment.” The EPA believes that section 107(d) provides the agency with discretion to determine how best to interpret the terms in the definition of a nonattainment area (e.g., “contributes to” and “nearby”) for a new or revised NAAQS, given considerations such as the nature of a specific pollutant, the types of sources that may contribute to violations, the form of the standards for the pollutant, and other relevant information. In particular, the EPA believes that the statute does not require the agency to establish bright line tests or thresholds for what constitutes “contribution” or “nearby” for purposes of designations.³ Similarly, the EPA believes that the statute permits the EPA to evaluate the appropriate application of the term “area” as may be appropriate for a particular NAAQS. The EPA believes that the statute permits the EPA to evaluate the appropriate application of the term “area” to include geographic areas based upon full or partial county boundaries, and contiguous or non-contiguous areas, as may be appropriate for a particular NAAQS. For example, section 107(d)(1)(B)(ii) explicitly provides that the EPA can make modifications to designation recommendations for an area “or portions thereof,” and under section 107(d)(1)(B)(iv) a designation remains in effect for an area “or portion thereof” until the EPA redesignates it.

³ This view was confirmed in Catawba County v. EPA, 571 F.3d 20 (D.C. Cir. 2009).

Section 107(d)(1)(A)(iii) provides that any area that the EPA cannot designate on the basis of available information as meeting or not meeting the standards should be designated as “unclassifiable.” Historically for PM2.5, the EPA designates the remaining areas as “unclassifiable/attainment” indicating that the areas either have attaining air quality monitoring data or that air quality information is not available because the areas are not monitored, and the EPA has not determined that the areas contribute to a violation in a nearby area.

Section 301(d) of the CAA authorizes the EPA to approve eligible, federally-recognized tribal governments to implement provisions of the CAA. Pursuant to section 301(d)(2), the EPA promulgated regulations, known as the Tribal Authority Rule (TAR), on February 12, 1999. 63 FR 7254, codified at 40 CFR part 49. That rule specifies those provisions of the CAA for which it is appropriate to treat tribes in a similar manner as states. Under the TAR, tribes may choose to develop and implement their own CAA programs, but are not required to do so. The TAR also establishes procedures and criteria by which tribes may request from the EPA a determination of eligibility for such treatment. The designations process contained in section 107(d) of the CAA is included among those provisions determined to be appropriate by the EPA for treatment of tribes in the same manner as states. Under the TAR, tribes generally are not subject to the same submission schedules imposed by the CAA on states. As authorized by the TAR, tribes may seek eligibility to submit designation recommendations to the EPA. In addition, CAA section 301(d)(4) gives the EPA discretionary authority, in cases where it determines that treatment of tribes as identical to states is “inappropriate or administratively infeasible,” to provide for direct administration by regulation to achieve the appropriate purpose.

Seven tribes are currently eligible to submit their own recommendations under section 107(d). Nonetheless, the EPA invited all tribes to submit recommendations and supporting documentation concerning designations for the 2012 annual PM2.5 NAAQS. Tribes could also comment on state recommendations and the EPA modifications. The EPA worked with all tribes that requested an opportunity to submit designation recommendations.

On April 16, 2013, the EPA issued a guidance memorandum to EPA Regional Administrators that provided information on the schedule and process for initially designating areas for the purpose of implementing the 2012 annual PM2.5 NAAQS.⁴ The Regional Offices were asked to share the memorandum with their state and tribal agencies. Within the memorandum, the EPA specified that consistent with the schedule in section 107(d)(1) of the CAA, as stated in the PM2.5 NAAQS final rule, state governors were required to submit, and tribes can choose to submit, their initial designation recommendations to the EPA no later than 1 year following promulgation of the revised NAAQS, or by December 13, 2013. The memorandum identified that the EPA would use the most recent air quality monitoring data and evaluate the following five factors in making final nonattainment area boundary decisions for the revised annual PM2.5 NAAQS: Air quality data, emissions and emissions-related data, meteorology, geography/topography, and jurisdictional boundaries.

⁴ Memorandum dated April 16, 2013, from Gina McCarthy, Assistant Administrator, US EPA, to Regional Administrators, Regions 1-10, titled, “Initial Area Designations for the 2012 Revised Primary Annual Fine Particle National Ambient Air Quality Standard.” Available at http://www.epa.gov/pmdesignations/2012standards/docs/april2013guidance.pdf.

Most states and several tribes submitted designation recommendations and supporting documentation to the EPA by December 13, 2013. On August 19, 2014, the EPA sent letters to governors and tribal leaders notifying them of the EPA's preliminary response to their designation recommendations for the 2012 primary annual PM2.5 NAAQS.⁵ These letters, commonly referred to as the “120-day letters,” conveyed the EPA's intended designations based on an evaluation of complete, certified, and quality-assured monitored air quality data for 2011-2013, including an evaluation of exceptional event claims. The letters also asked states to submit any additional information that they wanted the EPA to consider in its final designation decisions by October 29, 2014.

⁵ If the EPA believes it is necessary to make any modifications to a state's or tribe's initial recommendations, including area boundaries, then the EPA is required to notify the state or tribe of this fact by letter no later than 120 days prior to finalizing the designation.

Although not required by section 107(d) of the CAA, the EPA also provided an opportunity for members of the public to comment on the EPA's August 2014 response letters to states and tribes. The EPA announced a 30-day public comment period in the Federal Register on August 29, 2014 (79 FR 51517). In this announcement, the EPA requested that interested parties submit their comments to the regulatory docket on or before September 29, 2014. The EPA received several requests from stakeholders for additional time to prepare their comments. Some of the requesters noted that the 30-day comment period being offered by the EPA was insufficient time to review the EPA's responses to states' and tribes' recommended designations and to compile meaningful responses due to the complexity of the issues impacting certain areas. Due to the EPA's statutory obligation to finalize the initial area designations in December 2014, the EPA did not extend the public comment period. State and tribal initial recommendations and the EPA's responses, including modifications, were posted on a publically accessible Web site (http://www.epa.gov/pmdesignations/2012standards/regs.htm). Timely comments from the public and the EPA's responses to significant comments are in the docket for this action.

State areas designated as nonattainment are subject to planning and emission reduction requirements as specified in the CAA. As noted previously, the EPA is classifying all nonattainment areas as Moderate, which is the initial nonattainment area classification for all areas pursuant to CAA section 188.⁶ In accordance with CAA section 188(c), the attainment date for each Moderate area shall be as expeditiously as practicable, but no later than the end of the sixth calendar year after the designation. Within the next several months, the EPA intends to propose an implementation rule to assist states in the development of state implementation plans for attaining the PM2.5 standards.

⁶ See Natural Resources Defense Council and Sierra Club v. EPA, No. 08-1250 (D.C. Cir. January 4, 2013), indicating that the provisions in subpart 4 (sections 188-190) apply to implementation of PM2.5 NAAQS.

VI. What air quality data is the EPA using for these designations?

The final PM2.5 designation decisions announced in this action are based on air quality monitoring data for calendar years 2011—2013, including an evaluation of exceptional event claims.⁷ During the designations process, several states commented that the agency should delay designations to consider additional air quality data from 2014 in the designations decisions. As discussed earlier, the EPA must by law make final designation decisions within 2 years of promulgating a new or revised NAAQS, or in December 2014 based on the December 2012 promulgation of the revised annual PM2.5 NAAQS, unless the EPA lacks sufficient information. This statutory deadline and the practical difficulties of obtaining complete, quality-assured, certified PM2.5 data for the entirety of calendar year 2014 in December 2014 preclude the EPA from using 2014 data for this action. Under normal circumstances, such data would not be available for some time following the end of the calendar year, and, under the applicable regulations, states would not be required to certify such data until May 1, 2015. However, because designations are being promulgated near the end of calendar year 2014, and, because complete, quality-assured, certified 2014 data may become available for some areas quickly, the EPA is providing a process by which a full year of 2014 data that becomes available early in 2015 could be used in the designation process. We have provided that the final PM2.5 designation decisions announced in this action will be effective on the date 90 days following the date of publication of this action in the Federal Register. If any state submits complete, quality-assured, certified 2014 data to the EPA by February 27, 2015, that suggest that a change of designation status is appropriate for any area within that state, and the EPA agrees that a change of designation status is appropriate, then we will withdraw the designation announced in this action for such area and issue another designation that reflects the inclusion of 2014 data. We emphasize that we will conduct this process only for those states that submit the necessary complete, quality-assured, certified data by the deadline and in those instances where we can complete the analysis and effect the change of designation status before the original effective date established by this final action.

⁷ Exceptional event claims influenced the EPA's designation decisions for areas in the state of Hawaii and for Lemhi County, Idaho.

If inclusion of 2014 data submitted by a state or tribal air agency causes an area to change from nonattainment to attainment, the EPA will change the designation for the area where it is neither monitoring a violation of the standards nor contributing to a violation of the standards in another nearby area. If inclusion of 2014 data submitted by a state or tribal air agency results in nonattainment in an area that was designated attainment, we will evaluate the reasons for the violation in the area and determine the appropriate course of action, which could include actions to change the designation to nonattainment for the area and any nearby areas that contribute to the violation. Also, the EPA commits to evaluate 2014 data for deferred areas when it receives complete, quality-assured, certified data from the state, which is due no later than May 1, 2015. At that time, the EPA will evaluate appropriate designations for such affected areas.

VII. How do designations affect areas of Indian country?

Following the EPA Policy on Consultation and Coordination with Indian Tribes, the EPA offered consultation to tribal officials early in the initial area designations process to permit them to have meaningful and timely input. The EPA subsequently consulted with all tribes who requested consultation.

In this document, all areas of Indian country are being designated as part of their surrounding state areas, with the exception of areas of Indian country for the Pechanga Band of Luiseño Mission Indians, which is being designated as a separate unclassifiable/attainment area, consistent with the EPA's Tribal Designations Policy.⁸

⁸ See http://www.epa.gov/ozonedesignations/2008standards/documents/20120117indiancountry.pdf for “Policy for Establishing Separate Air Quality Designations for Areas of Indian Country” (December 20, 2011).

VIII. Where can I find information forming the basis for this rule and exchanges between the EPA, states and tribes related to this rule?

Information providing the basis for this action are provided in several technical support documents (TSDs), a response to comments document (RTC) and other information in the docket. The TSDs, RTC, the EPA's guidance memorandum, copies of correspondence regarding this designations process between the EPA and the states, tribes and other parties, are available for review at the EPA Docket Center listed above in the ADDRESSES section of this document and on the agency's PM2.5 Designations Web site at http://www.epa.gov/pmdesignations/2012standards/regs.htm. State-specific and area-specific information is available from the EPA Regional Offices.

IX. Environmental Justice Considerations

The CAA requires that the EPA designate as nonattainment “any area that does not meet (or that contributes to ambient air quality in a nearby area that does not meet) the national primary or secondary ambient air quality standard for the pollutant.” By designating as nonattainment areas where available information indicates a violation of the 2012 annual PM2.5 NAAQS or a contribution to a nearby violation, this action protects all those residing, working, attending school, or otherwise present in those areas regardless of minority or economic status.

X. Statutory and Executive Order Reviews

A. Executive Order 12866: Regulatory Planning and Review and Executive Order 13563: Improving Regulation and Regulatory Review

This action is exempt from review by the Office of Management and Budget because it will respond to the CAA requirement to promulgate air quality designations after promulgation of a new or revised NAAQS.

B. Paperwork Reduction Act (PRA)

This action does not impose an information collection burden under the PRA. This action fulfills the non-discretionary duty for the EPA to promulgate air quality designations after promulgation of a new or revised NAAQS, and does not contain any information collection activities.

C. Regulatory Flexibility Act (RFA)

This action is not subject to the RFA. The RFA applies only to rules subject to notice and comment rulemaking requirements under the Administrative Procedure Act (APA), 5 U.S.C. 553, or any other statute. This rule is not subject to the APA but is subject to CAA section 107(d)(2)(B), which does not require notice and comment rulemaking to take this action.

D. Unfunded Mandates Reform Act (UMRA)

This action does not contain any unfunded mandate as described in UMRA, 2 U.S.C. 1531-1538, and does not significantly or uniquely affect small governments. The action implements mandates specifically and explicitly set forth in the CAA and fine particulate matter NAAQS (40 CFR 50.18). The CAA establishes the process whereby states take primary responsibility in developing plans to meet the PM2.5 NAAQS.

E. Executive Order 13132: Federalism

This action does not have federalism implications. It will not have substantial direct effects on the states, on the relationship between the national government and the states, or on the distribution of power and responsibilities among the various levels of government.

F. Executive Order 13175: Consultation and Coordination With Indian Tribal Governments

This action has tribal implications. However, it will neither impose substantial direct compliance costs on federally recognized tribal governments, nor preempt tribal law. Areas of Indian country are being designated as part of this action.

The EPA offered consultation to tribal officials under the EPA Policy on Consultation and Coordination with Indian Tribes early in the process of developing this regulation to permit them to have meaningful and timely input into its development. During the designations process, the EPA consulted with all tribes who requested consultation. A summary of that consultation is provided in the docket supporting this rulemaking.

G. Executive Order 13045: Protection of Children From Environmental Health and Safety Risks

The EPA interprets Executive Order 13045 as applying to those regulatory actions that concern environmental health or safety risks that the EPA has reason to believe may disproportionately affect children, per the definition of “covered regulatory action” in section 2-202 of the Executive Order. This action is not subject to Executive Order 13045 because it does not establish an environmental standard intended to mitigate health or safety risks.

H. Executive Order 13211: Actions That Significantly Affect Energy Supply, Distribution, or Use

This action is not subject to Executive Order 13211, because it is not a significant regulatory action under Executive Order 12866.

I. National Technology Transfer and Advancement Act (NTTAA)

This rulemaking does not involve technical standards.

J. Executive Order 12898: Federal Actions to Address Environmental Justice in Minority Populations and Low-Income Populations

The EPA believes the human health or environmental risk addressed by this action will not have potential disproportionately high and adverse human health or environmental effects on any population, including any minority, low-income or indigenous populations because it does not affect the level of protection provided to human health or the environment. The results of this evaluation of environmental justice considerations is contained in section X of this preamble titled, “Environmental Justice Considerations”.

K. Congressional Review Act (CRA)

This action is subject to the CRA, and the EPA will submit a rule report to each House of the Congress and to the Comptroller General of the United States. This action is not a “major rule” as defined by 5 U.S.C. 804(2).

L. Judicial Review

Section 307(b)(1) of the CAA indicates which Federal Courts of Appeal have venue for petitions of review of final actions by the EPA. This section provides, in part, that petitions for review must be filed in the Court of Appeals for the District of Columbia Circuit: (i) When the agency action consists of “nationally applicable regulations promulgated, or final actions taken, by the Administrator,” or (ii) when such action is locally or regionally applicable, if “such action is based on a determination of nationwide scope or effect and if in taking such action the Administrator finds and publishes that such action is based on such a determination.”

This final action designating areas for the 2012 annual PM2.5 NAAQS is “nationally applicable” within the meaning of section 307(b)(1). This final action establishes designations for areas across the U.S. for the 2012 annual PM2.5 NAAQS. At the core of this final action is the EPA's interpretations of the definitions of nonattainment, attainment, and unclassifiable under section 107(d)(1) of the CAA, and its application of those interpretations to areas across the country. For the same reasons, the Administrator is also determining that the final designations are of nationwide scope and effect for the purposes of section 307(b)(1). This is particularly appropriate because, in the report on the 1977 Amendments that revised section 307(b)(1) of the CAA, Congress noted that the Administrator's determination that an action is of “nationwide scope or effect” would be appropriate for any action that has a scope or effect beyond a single judicial circuit. H.R. Rep. No. 95-294 at 323, 324, reprinted in 1977 U.S.C.C.A.N. 1402-03. Here, the scope and effect of this final action extends to numerous judicial circuits since the designations apply to areas across the country. In these circumstances, section 307(b)(1) and its legislative history calls for the Administrator to find the action to be of “nationwide scope or effect” and for venue to be in the D.C. Circuit.

Thus, any petitions for review of final designations must be filed in the Court of Appeals for the District of Columbia Circuit within 60 days from the date final action is published in the Federal Register.

List of Subjects in 40 CFR Part 81

Environmental protection, Air pollution control, National parks, Wilderness areas.

Dated: December 18, 2014.
Gina McCarthy,
Administrator.

For the reasons set forth in the preamble, 40 CFR part 81 is amended as follows:

PART 81—DESIGNATIONS OF AREAS FOR AIR QUALITY PLANNING PURPOSES

1. The authority citation for part 81 continues to read as follows:

Authority: 42 U.S.C. 7401, et seq.

Subpart C—Section 107 Attainment Status Designations

2. Section 81.301 is amended by adding a table entitled “Alabama—2012 Annual PM2.5 NAAQS (Primary)” following the table “Alabama—1997 Annual PM2.5 NAAQS [Primary and secondary]” to read as follows:

§ 81.301 Alabama.

* * * * *

Alabama—2012 Annual PM2.5 NAAQS
[Primary]
Designated area ¹ | Designation: Date ² | Designation: Type | Classification: Date ² | Classification: Type
Statewide:
Autauga County |  | Unclassifiable/Attainment
Baldwin County |  | Unclassifiable/Attainment
Barbour County |  | Unclassifiable/Attainment
Bibb County |  | Unclassifiable/Attainment
Blount County |  | Unclassifiable/Attainment
Bullock County |  | Unclassifiable/Attainment
Butler County |  | Unclassifiable/Attainment
Calhoun County |  | Unclassifiable/Attainment
Chambers County |  | Unclassifiable/Attainment
Cherokee County |  | Unclassifiable/Attainment
Chilton County |  | Unclassifiable/Attainment
Choctaw County |  | Unclassifiable/Attainment
Clarke County |  | Unclassifiable/Attainment
Clay County |  | Unclassifiable/Attainment
Cleburne County |  | Unclassifiable/Attainment
Coffee County |  | Unclassifiable/Attainment
Colbert County |  | Unclassifiable/Attainment
Conecuh County |  | Unclassifiable/Attainment
Coosa County |  | Unclassifiable/Attainment
Covington County |  | Unclassifiable/Attainment
Crenshaw County |  | Unclassifiable/Attainment
Cullman County |  | Unclassifiable/Attainment
Dale County |  | Unclassifiable/Attainment
Dallas County |  | Unclassifiable/Attainment
DeKalb County |  | Unclassifiable/Attainment
Elmore County |  | Unclassifiable/Attainment
Escambia County |  | Unclassifiable/Attainment
Etowah County |  | Unclassifiable/Attainment
Fayette County |  | Unclassifiable/Attainment
Franklin County |  | Unclassifiable/Attainment
Geneva County |  | Unclassifiable/Attainment
Greene County |  | Unclassifiable/Attainment
Hale County |  | Unclassifiable/Attainment
Henry County |  | Unclassifiable/Attainment
Houston County |  | Unclassifiable/Attainment
Jackson County |  | Unclassifiable/Attainment
Jefferson County |  | Unclassifiable/Attainment
Lamar County |  | Unclassifiable/Attainment
Lauderdale County |  | Unclassifiable/Attainment
Lawrence County |  | Unclassifiable/Attainment
Lee County |  | Unclassifiable/Attainment
Limestone County |  | Unclassifiable/Attainment
Lowndes County |  | Unclassifiable/Attainment
Macon County |  | Unclassifiable/Attainment
Madison County |  | Unclassifiable/Attainment
Marengo County |  | Unclassifiable/Attainment
Marion County |  | Unclassifiable/Attainment
Marshall County |  | Unclassifiable/Attainment
Mobile County |  | Unclassifiable/Attainment
Monroe County |  | Unclassifiable/Attainment
Montgomery County |  | Unclassifiable/Attainment
Morgan County |  | Unclassifiable/Attainment
Perry County |  | Unclassifiable/Attainment
Pickens County |  | Unclassifiable/Attainment
Pike County |  | Unclassifiable/Attainment
Randolph County |  | Unclassifiable/Attainment
Russell County
Shelby County |  | Unclassifiable/Attainment
St. Clair County |  | Unclassifiable/Attainment
Sumter County |  | Unclassifiable/Attainment
Talladega County |  | Unclassifiable/Attainment
Tallapoosa County |  | Unclassifiable/Attainment
Tuscaloosa County |  | Unclassifiable/Attainment
Walker County |  | Unclassifiable/Attainment
Washington County |  | Unclassifiable/Attainment
Wilcox County |  | Unclassifiable/Attainment
Winston County |  | Unclassifiable/Attainment
¹ Includes areas of Indian country located in each county or area, except as otherwise specified.
² This date is April 15, 2015, unless otherwise noted.

* * * * *

3. Section 81.302 is amended by adding a table entitled “Alaska—2012 Annual PM2.5 NAAQS (Primary)” following the table “Alaska—1997 Annual PM2.5 NAAQS [Primary and secondary]” to read as follows:

§ 81.302 Alaska.

* * * * *

Alaska—2012 Annual PM2.5 NAAQS
[Primary]
Designated area ¹ | Designation: Date ² | Designation: Type | Classification: Date ² | Classification: Type
AQCR 08 Cook Inlet Intrastate:
Anchorage Borough |  | Unclassifiable/Attainment
Kenai Peninsula Borough |  | Unclassifiable/Attainment
Matanuska-Susitna Borough |  | Unclassifiable/Attainment
AQCR 09 Northern Alaska Intrastate:
Denali Borough |  | Unclassifiable/Attainment
Fairbanks North Star Borough |  | Unclassifiable/Attainment
Nome Census Area |  | Unclassifiable/Attainment
North Slope Borough |  | Unclassifiable/Attainment
Northwest Arctic Borough |  | Unclassifiable/Attainment
Southeast Fairbanks Census Area |  | Unclassifiable/Attainment
Yukon-Koyukuk Census Area |  | Unclassifiable/Attainment
AQCR 10 South Central Alaska Intrastate:
Aleutians East Borough |  | Unclassifiable/Attainment
Aleutians West Census Area |  | Unclassifiable/Attainment
Bethel Census Area |  | Unclassifiable/Attainment
Bristol Bay Borough |  | Unclassifiable/Attainment
Dillingham Census Area |  | Unclassifiable/Attainment
Kodiak Island Borough |  | Unclassifiable/Attainment
Lake and Peninsula Borough |  | Unclassifiable/Attainment
Valdez-Cordova Census Area |  | Unclassifiable/Attainment
Wade Hampton Census Area |  | Unclassifiable/Attainment
AQCR 11 Southeastern Alaska Intrastate:
Haines Borough |  | Unclassifiable/Attainment
Juneau Borough |  | Unclassifiable/Attainment
Ketchikan Gateway Borough |  | Unclassifiable/Attainment
Prince of Wales-Outer Ketchikan Census |  | Unclassifiable/Attainment
Sitka Borough |  | Unclassifiable/Attainment
Skagway-Hoonah-Angoon Census Area |  | Unclassifiable/Attainment
Wrangell-Petersburg Census Area |  | Unclassifiable/Attainment
Yakutat Borough |  | Unclassifiable/Attainment
¹ Includes areas of Indian country located in each county or area, except as otherwise specified.
² This date is April 15, 2015, unless otherwise noted.

* * * * *

4. Section 81.303 is amended by adding a table entitled “Arizona—2012 Annual PM2.5 NAAQS (Primary)” following the table “Arizona—1997 Annual PM2.5 NAAQS [Primary and secondary]” to read as follows:

§ 81.303 Arizona.

* * * * *

Arizona—2012 Annual PM2.5 NAAQS
[Primary]
Designated area ¹ | Designation: Date ² | Designation: Type | Classification: Date ² | Classification: Type
Statewide:
Apache County |  | Unclassifiable/Attainment
Cochise County |  | Unclassifiable/Attainment
Coconino County |  | Unclassifiable/Attainment
Gila County |  | Unclassifiable/Attainment
Graham County |  | Unclassifiable/Attainment
Greenlee County |  | Unclassifiable/Attainment
La Paz County |  | Unclassifiable/Attainment
Maricopa County |  | Unclassifiable/Attainment
Mohave County |  | Unclassifiable/Attainment
Navajo County |  | Unclassifiable/Attainment
Pima County |  | Unclassifiable/Attainment
Pinal County |  | Unclassifiable/Attainment
Santa Cruz County |  | Unclassifiable/Attainment
Yavapai County |  | Unclassifiable/Attainment
Yuma County |  | Unclassifiable/Attainment
¹ Includes areas of Indian country located in each county or area, except as otherwise specified.
² This date is April 15, 2015, unless otherwise noted.

* * * * *

5. Section 81.304 is amended by adding a table entitled “Arkansas—2012 Annual PM2.5 NAAQS (Primary)” following the table “Arkansas—1997 Annual PM2.5 NAAQS [Primary and secondary]” to read as follows:

§ 81.304 Arkansas.

* * * * *

Arkansas—2012 Annual PM2.5 NAAQS
[Primary]
Designated area ¹ | Designation: Date ² | Designation: Type | Classification: Date ² | Classification: Type
AQCR 016 Central Arkansas Intrastate:
Chicot County |  | Unclassifiable/Attainment
Clark County |  | Unclassifiable/Attainment
Cleveland County |  | Unclassifiable/Attainment
Conway County |  | Unclassifiable/Attainment
Dallas County |  | Unclassifiable/Attainment
Desha County |  | Unclassifiable/Attainment
Drew County |  | Unclassifiable/Attainment
Faulkner County |  | Unclassifiable/Attainment
Garland County |  | Unclassifiable/Attainment
Grant County |  | Unclassifiable/Attainment
Hot Spring County |  | Unclassifiable/Attainment
Jefferson County |  | Unclassifiable/Attainment
Lincoln County |  | Unclassifiable/Attainment
Lonoke County |  | Unclassifiable/Attainment
Perry County |  | Unclassifiable/Attainment
Pope County |  | Unclassifiable/Attainment
Pulaski County |  | Unclassifiable/Attainment
Saline County |  | Unclassifiable/Attainment
Yell County |  | Unclassifiable/Attainment
AQCR 017 Metropolitan Fort Smith Interstate:
Benton County |  | Unclassifiable/Attainment
Crawford County |  | Unclassifiable/Attainment
Sebastian County |  | Unclassifiable/Attainment
Washington County |  | Unclassifiable/Attainment
AQCR 018 Metropolitan Memphis Interstate: Crittenden County |  | Unclassifiable/Attainment
AQCR 019 Monroe-El Dorado Interstate:
Ashley County |  | Unclassifiable/Attainment
Bradley County |  | Unclassifiable/Attainment
Calhoun County |  | Unclassifiable/Attainment
Nevada County |  | Unclassifiable/Attainment
Ouachita County |  | Unclassifiable/Attainment
Union County |  | Unclassifiable/Attainment
AQCR 020 Northeast Arkansas Intrastate:
Arkansas County |  | Unclassifiable/Attainment
Clay County |  | Unclassifiable/Attainment
Craighead County |  | Unclassifiable/Attainment
Cross County |  | Unclassifiable/Attainment
Greene County |  | Unclassifiable/Attainment
Independence County |  | Unclassifiable/Attainment
Jackson County |  | Unclassifiable/Attainment
Lawrence County |  | Unclassifiable/Attainment
Lee County |  | Unclassifiable/Attainment
Mississippi County |  | Unclassifiable/Attainment
Monroe County |  | Unclassifiable/Attainment
Phillips County |  | Unclassifiable/Attainment
Poinsett County |  | Unclassifiable/Attainment
Prairie County |  | Unclassifiable/Attainment
Randolph County |  | Unclassifiable/Attainment
St. Francis County |  | Unclassifiable/Attainment
Sharp County |  | Unclassifiable/Attainment
White County |  | Unclassifiable/Attainment
Woodruff County |  | Unclassifiable/Attainment
AQCR 021 Northwest Arkansas Intrastate:
Baxter County |  | Unclassifiable/Attainment
Boone County |  | Unclassifiable/Attainment
Carroll County |  | Unclassifiable/Attainment
Cleburne County |  | Unclassifiable/Attainment
Franklin County |  | Unclassifiable/Attainment
Fulton County |  | Unclassifiable/Attainment
Izard County |  | Unclassifiable/Attainment
Johnson County |  | Unclassifiable/Attainment
Logan County |  | Unclassifiable/Attainment
Madison County |  | Unclassifiable/Attainment
Marion County |  | Unclassifiable/Attainment
Montgomery County |  | Unclassifiable/Attainment
Newton County |  | Unclassifiable/Attainment
Pike County |  | Unclassifiable/Attainment
Polk County |  | Unclassifiable/Attainment
Scott County |  | Unclassifiable/Attainment
Searcy County |  | Unclassifiable/Attainment
Stone County |  | Unclassifiable/Attainment
Van Buren County |  | Unclassifiable/Attainment
AQCR 022 Shreveport-Texarkana-Tyler Interstate:
Columbia County |  | Unclassifiable/Attainment
Hempstead County |  | Unclassifiable/Attainment
Howard County |  | Unclassifiable/Attainment
Lafayette County |  | Unclassifiable/Attainment
Little River County |  | Unclassifiable/Attainment
Miller County |  | Unclassifiable/Attainment
Sevier County |  | Unclassifiable/Attainment
¹ Includes areas of Indian country located in each county or area, except as otherwise specified.
² This date is April 15, 2015, unless otherwise noted.

* * * * *

6. Section 81.305 is amended by adding a table entitled “California—2012 Annual PM2.5 NAAQS (Primary)” following the table “California—1997 Annual PM2.5 NAAQS [Primary and secondary]” to read as follows:

§ 81.305 California.

* * * * *

California—2012 Annual PM2.5 NAAQS
[Primary]
Designated area ¹ | Designation: Date ² | Designation: Type | Classification: Date ² | Classification: Type
Los Angeles-South Coast Air Basin, CA:
Los Angeles County (part) |  | Nonattainment |  | Moderate.
That portion of Los Angeles County which lies south and west of a line described as follows: Beginning at the Los Angeles-San Bernardino County boundary and running west along the Township line common to Township 3 North and Township 2 North, San Bernardino Base and Meridian; then north along the range line common to Range 8 West and Range 9 West; then west along the Township line common to Township 4 North and Township 3 North; then north along the range line common to Range 12 West and Range 13 West to the southeast corner of Section 12, Township 5 North and Range 13 West; then west along the south boundaries of Sections 12, 11, 10, 9, 8, and 7, Township 5 North and Range 13 West to the boundary of the Angeles National Forest which is collinear with the range line common to Range 13 West and Range 14 West; then north and west along the Angeles National Forest boundary to the point of intersection with the Township line common to Township 7 North and Township 6 North (point is at the northwest corner of Section 4 in Township 6 North and Range 14 West); then west along the Township line common to Township 7 North and Township 6 North; then north along the range line common to Range 15 West and Range 16 West to the southeast corner of Section 13, Township 7 North and Range 16 West; then along the south boundaries of Sections 13, 14, 15, 16, 17, and 18, Township 7 North and Range 16 West; then north along the range line common to Range 16 West and Range 17 West to the north boundary of the Angeles National Forest (collinear with the Township line common to Township 8 North and Township 7 North); then west and north along the Angeles National Forest boundary to the point of intersection with the south boundary of the Rancho La Liebre Land Grant; then west and north along this land grant boundary to the Los Angeles-Kern County boundary
Orange County |  | Nonattainment |  | Moderate.
Riverside County (part) |  | Nonattainment |  | Moderate.
That portion of Riverside County which lies to the west of a line described as follows: Beginning at the Riverside-San Diego County boundary and running north along the range line common to Range 4 East and Range 3 East, San Bernardino Base and Meridian; then east along the Township line common to Township 8 South and Township 7 South; then north along the range line common to Range 5 East and Range 4 East; then west along the Township line common to Township 6 South and Township 7 South to the southwest corner of Section 34, Township 6 South, Range 4 East; then north along the west boundaries of Sections 34, 27, 22, 15, 10, and 3, Township 6 South, Range 4 East; then west along the Township line common to Township 5 South and Township 6 South; then north along the range line common to Range 4 East and Range 3 East; then west along the south boundaries of Sections 13, 14, 15, 16, 17, and 18, Township 5 South, Range 3 East; then north along the range line common to Range 2 East and Range 3 East; to the Riverside-San Bernardino County Line (excluding the lands of the Santa Rosa Band of Cahuilla Mission Indians, and excluding the lands of the Pechanga Band of Luiseño Mission Indians of the Pechanga Reservation)
San Bernardino County (part) |  | Nonattainment |  | Moderate.
That portion of San Bernardino County which lies south and west of a line described as follows: Beginning at the San Bernardino-Riverside County boundary and running north along the range line common to Range 3 East and Range 2 East, San Bernardino Base and Meridian; then west along the Township line common to Township 3 North and Township 2 North to the San Bernardino-Los Angeles County boundary
Imperial County, CA:
Imperial County (part) |  | Nonattainment |  | Moderate.
That portion of Imperial County which lies within the line described as follows: (San Bernardino Base and Meridian) Beginning at the intersection of the United States-Mexico border and the southeast corner of Township 17 South, Range 11 East, then north along the range line of the eastern edge of Range 11 East, then east along the township line of the southern edge of Township 12 South to the northeast corner of Township 13 South, Range 15 East, then south along the range line common to Range 15 East and Range 16 East, to the United States-Mexico border
San Joaquin Valley, CA:
Fresno County |  | Nonattainment |  | Moderate.
Kern County (part) |  | Nonattainment |  | Moderate.
That portion of Kern County which lies west and north of a line described as follows: Beginning at the Kern-Los Angeles County boundary and running north and east along the northwest boundary of the Rancho La Libre Land Grant to the point of intersection with the range line common to Range 16 West and Range 17 West, San Bernardino Base and Meridian; north along the range line to the point of intersection with the Rancho El Tejon Land Grant boundary; then southeast, northeast, and northwest along the boundary of the Rancho El Tejon Land Grant to the northwest corner of Section 3, Township 11 North, Range 17 West; then west 1.2 miles; then north to the Rancho El Tejon Land Grant boundary; then northwest along the Rancho El Tejon Land Grant boundary line to the southeast corner of Section 34, Township 32 South, Range 30 East, Mount Diablo Base and Meridian; then north to the northwest corner of Section 35, Township 31 South, Range 30 East; then northeast along the boundary of the Rancho El Tejon Land Grant to the southwest corner of Section 18, Township 31 South, Range 31 East; then east to the southeast corner of Section 13, Township 31 South, Range 31 East; then north along the range line common to Range 31 East and Range 32 East, Mount Diablo Base and Meridian, to the northwest corner of Section 6, Township 29 South, Range 32 East; then east to the southwest corner of Section 31, Township 28 South, Range 32 East; then north along the range line common to Range 31 East and Range 32 East to the northwest corner of Section 6, Township 28 South, Range 32 East, then west to the southeast corner of Section 36, Township 27 South, Range 31 East, then north along the range line common to Range 31 East and Range 32 East to the Kern-Tulare County boundary
Kings County |  | Nonattainment |  | Moderate.
Madera County |  | Nonattainment |  | Moderate.
Merced County |  | Nonattainment |  | Moderate.
San Joaquin County |  | Nonattainment |  | Moderate.
Stanislaus County |  | Nonattainment |  | Moderate.
Tulare County |  | Nonattainment |  | Moderate.
Plumas County, CA:
Plumas County (part) |  | Nonattainment |  | Moderate.
That portion of Plumas County within the following Super Planning Watersheds (SPWS), as defined by the State of California's Department of Conservation Statewide Watershed Program: Humbug Valley (#55183301), Sulpher Creek (#55183302), Frazier Creek (#55183303), and Eureka Lake (#55183304)
San Diego Air Basin, CA:
San Diego County (excluding the lands of the Pechanga Band of Luiseño Mission Indians of the Pechanga Reservation) |  | Unclassifiable/Attainment
North Coast Air Basin:
Del Norte County |  | Unclassifiable/Attainment
Humboldt County |  | Unclassifiable/Attainment
Mendocino County |  | Unclassifiable/Attainment
Sonoma County (part) |  | Unclassifiable/Attainment
That portion of Sonoma County which lies north and west of a line described as follows: Beginning at the southeast corner of the Rancho Estero Americano Land Grant on the boundary line between Marin and Sonoma Counties; then running north along the east boundary line of Rancho Estero Americano Land Grant to the northeast corner thereof, being an angle corner in the westerly boundary line of the Rancho Canada de Jonive Land Grant, then running along the boundary of the Rancho Canada de Jonive Land Grant west, north and east to its intersection with the eastern line of Graton Road; then running along the east and south line of Graton Road north and east to its intersection with the east line of Sullivan Road; then running north along the east line of Sullivan Road to the southern line of Green Valley Road; then running east along the southern line of Green Valley Road and east along the southern line of State Highway 116, to the west and north line of Vine Hill Road; then running along the west and north line of Vine Hill Road, north and east to its intersection with the west line of Laguna Road; then running north along the west line of Laguna Road and the north projection thereof to the north line of Trenton Road; then running west along the north line of Trenton Road to the east line of Trenton-Healdsburg Road to the east line of Eastside Road; then running north along the east line of Eastside Road to its intersection with the southern line of Rancho Sotoyome Land Grant; then running east along the southern line of Rancho Sotoyome Land Grant to its intersection with the Township line common to Townships 8 and 9 North, Mount Diablo Base and Meridian; then running east along the township line to its intersection with the boundary line between Sonoma and Napa Counties
Trinity County |  | Unclassifiable/Attainment
Northeast Plateau Air Basin, CA:
Lassen County |  | Unclassifiable/Attainment
Modoc County |  | Unclassifiable/Attainment
Siskiyou County |  | Unclassifiable/Attainment
Lake County Air Basin, CA:
Lake County |  | Unclassifiable/Attainment
Sacramento Valley Air Basin, CA:
Butte County |  | Unclassifiable/Attainment
Colusa County |  | Unclassifiable/Attainment
Glenn County |  | Unclassifiable/Attainment
Placer County (part) |  | Unclassifiable/Attainment
That portion of Placer County which lies west of the line described as follows: (Mount Diablo Base and Meridian) Beginning at the intersection of the Placer-El Dorado County line and the township line common to Township 12 North, Range 9 East and Township 13 North, Range 9 East, then running west along the township line common to Township 12 North, Range 9 East and Township 13 North, Range 9 East, then north along the range line common to Range 8 East and Range 9 East, to the Placer-Nevada County boundary
Sacramento County |  | Unclassifiable/Attainment
Shasta County |  | Unclassifiable/Attainment
Solano County (part) |  | Unclassifiable/Attainment
That portion of Solano County which lies north and east of a line described as follows: Beginning at the intersection of the westerly boundary of Solano County and the ¼ section line running east and west through the center of Section 34, Township 6 North, Range 2 West, Mount Diablo Base and Meridian, then east along said ¼ section line to the east boundary of Section 36, Township 6 North, Range 2 West, then south ½ mile and east 2 miles, more or less, along the west and south boundary of Los Putos Rancho to the northwest corner of Section 4, Township 5 North, Range 1 West, then east along a line common to Township 5 North and Township 6 North to the northeast corner of Section 3, Township 5 North, Range 1 East, then south along section lines to the southeast corner of Section 10, Township 3 North, Range 1 East, then east along section lines to the south ¼ corner of Section 8, Township 3 North, Range 2 East, then east to the boundary between Solano and Sacramento Counties
Sutter County |  | Unclassifiable/Attainment
Tehama County |  | Unclassifiable/Attainment
Yolo County |  | Unclassifiable/Attainment
Yuba County |  | Unclassifiable/Attainment
Mountain Counties:
Amador County |  | Unclassifiable/Attainment
Calaveras County |  | Unclassifiable/Attainment
El Dorado (part) |  | Unclassifiable/Attainment
All portions of the county except that portion of El Dorado County within the drainage area naturally tributary to Lake Tahoe including said Lake
Mariposa County |  | Unclassifiable/Attainment
Nevada County |  | Unclassifiable/Attainment
Placer (part) |  | Unclassifiable/Attainment
That portion of Placer County which is contained inside the two boundaries described as follows: 1. That portion of the county that lies east of the line described as follows: (Mount Diablo Base and Meridian) Beginning at the intersection of the Placer-El Dorado County line and the township line common to Township 12 North, Range 9 East and Township 13 North, Range 9 East, then running west along the township line common to Township 12 North, Range 9 East and Township 13 North, Range 9 East, then north along the range line common to Range 8 East and Range 9 East, to the Placer-Nevada County boundary. 2. That portion of the county that lies west of the drainage area naturally tributary to Lake Tahoe including said Lake, plus west of the boundary of that area in the vicinity of the head of the Truckee River described as follows: Commencing at the point common to the aforementioned drainage area crestline and the line common to Townships 15 North and 16 North, Mount Diablo Base and Meridian, and following that line in a westerly direction to the northwest corner of Section 3, Township 15 North, Range 16 East Mount Diablo Base and Meridian, thence south along the west line of Sections 3 and 10, Township 15 North, Range 16 East, Mount Diablo Base and Meridian, to the intersection with the said drainage area crestline, thence following the said drainage area boundary in a southeasterly, then northeasterly direction to and along the Lake Tahoe Dam, thence following the said drainage area crestline in a northeasterly, then northwesterly direction to the point of beginning
Plumas County (remainder) |  | Unclassifiable/Attainment
Sierra County |  | Unclassifiable/Attainment
Tuolumne County |  | Unclassifiable/Attainment
Lake Tahoe Air Basin:
El Dorado County (part) |  | Unclassifiable/Attainment
That portion of El Dorado County within the drainage area naturally tributary to Lake Tahoe including said Lake
Placer County (part) |  | Unclassifiable/Attainment
That portion of Placer County within the drainage area naturally tributary to Lake Tahoe including said Lake, plus that area in the vicinity of the head of the Truckee River described as follows: commencing at the point common to the aforementioned drainage area crestline and the line common to Township 15 North and Township 16 North, Mount Diablo Base and Meridian, and following that line in a westerly direction to the northwest corner of Section 3, Township 15 North, Range 16 East, Mount Diablo Base and Meridian, then south along the west line of Sections 3 and 10, Township 15 North, Range 16 East, Mount Diablo Base and Meridian, to the intersection with the said drainage area crestline, then following the said drainage area boundary in a southeasterly, then northeasterly direction to and along the Lake Tahoe Dam, then following the said drainage area crestline in a northeasterly, then northwesterly direction to the point of beginning
San Francisco Bay Area Air Basin:
Alameda County |  | Unclassifiable/Attainment
Contra Costa County |  | Unclassifiable/Attainment
Marin County |  | Unclassifiable/Attainment
Napa County |  | Unclassifiable/Attainment
San Francisco County |  | Unclassifiable/Attainment
San Mateo County |  | Unclassifiable/Attainment
Santa Clara County |  | Unclassifiable/Attainment
Solano County (part) |  | Unclassifiable/Attainment
That portion of Solano County which lies south and west of a line described as follows: Beginning at the intersection of the westerly boundary of Solano County and the ¼ section line running east and west through the center of Section 34, Township 6 North, Range 2 West, Mount Diablo Base and Meridian, then east along said ¼ section line to the east boundary of Section 36, Township 6 North, Range 2 West, then south ½ mile and east 2 miles, more or less, along the west and south boundary of Los Putos Rancho to the northwest corner of Section 4, Township 5 North, Range 1 West, then east along a line common to Township 5 North and Township 6 North to the northeast corner of Section 3, Township 5 North, Range 1 East, then south along section lines to the southeast corner of Section 10, Township 3 North, Range 1 East, then east along section lines to the south ¼ corner of Section 8, Township 3 North, Range 2 East, then east to the boundary between Solano and Sacramento Counties
Sonoma County (part) |  | Unclassifiable/Attainment
That portion of Sonoma County which lies south and east of a line described as follows: Beginning at the southeast corner of the Rancho Estero Americano Land Grant on the boundary line between Marin and Sonoma Counties; then running north along the east boundary line of Rancho Estero Americano Land Grant to the northeast corner thereof, being an angle corner in the westerly boundary line of Rancho Canada de Jonive Land Grant, then running along the boundary of Rancho Canada de Jonive Land Grant west, north and east to its intersection with the eastern line of Graton Road; then running along the east and south line of Graton Road north and east to its intersection with the east line of Sullivan Road; then running north along the east line of Sullivan Road to the southern line of Green Valley Road; then running east along the southern line of Green Valley Road and east along the southern line of State Highway 116, to the west and north line of Vine Hill Road; then running along the west and north line of Vine Hill Road, north and east to its intersection with the west line of Laguna Road; then running north along the west line of Laguna Road and the north projection thereof to the north line of Trenton Road; then running west along the north line of Trenton Road to the east line of Trenton-Healdsburg Road to the east line of Eastside Road; then running north along the east line of Eastside Road to its intersection with the southern line of Rancho Sotoyome Land Grant; then running east along the southern line of Rancho Sotoyome Land Grant to its intersection with the Township line common to Townships 8 and 9 North, Mount Diablo Base and Meridian; then running east along the township line to its intersection with the boundary line between Sonoma and Napa Counties
North Central Coast Air Basin:
Monterey County |  | Unclassifiable/Attainment
San Benito County |  | Unclassifiable/Attainment
Santa Cruz County |  | Unclassifiable/Attainment
South Central Coast Air Basin:
San Luis Obispo County |  | Unclassifiable/Attainment
Santa Barbara County |  | Unclassifiable/Attainment
Ventura County |  | Unclassifiable/Attainment
Great Basin Valleys Air Basin:
Alpine County |  | Unclassifiable/Attainment
Inyo County |  | Unclassifiable/Attainment
Mono County |  | Unclassifiable/Attainment
Mojave Desert Air Basin:
Kern County (part) |  | Unclassifiable/Attainment
That portion of Kern County east and south of a line described as follows: Beginning at the Kern-Los Angeles County boundary and running north and east along the northwest boundary of the Rancho La Liebre Land Grant to the point of intersection with the range line common to Range 16 West and Range 17 West, San Bernardino Base and Meridian; north along the range line to the point of intersection with the Rancho El Tejon Land Grant boundary; then southeast, northeast, and northwest along the boundary of the Rancho El Tejon Land Grant to the northwest corner of Section 3, Township 11 North, Range 17 West; then west 1.2 miles; then north to the Rancho El Tejon Land Grant boundary; then northwest along the Rancho El Tejon Land Grant boundary line to the southeast corner of Section 34, Township 32 South, Range 30 East, Mount Diablo Base and Meridian; then north to the northwest corner of Section 35, Township 31 South, Range 30 East; then northeast along the boundary of the Rancho El Tejon Land Grant to the southwest corner of Section 18, Township 31 South, Range 31 East; then east to the southeast corner of Section 13, Township 31 South, Range 31 East; then north along the range line common to Range 31 East and Range 32 East, Mount Diablo Base and Meridian, to the northwest corner of Section 6, Township 29 South, Range 32 East; then east to the southwest corner of Section 31, Township 28 South, Range 32 East; then north along the range line common to Range 31 East and Range 32 East to the northwest corner of Section 6, Township 28 South, Range 32 East, then west to the southeast corner of Section 36, Township 27 South, Range 31 East, then north along the range line common to Range 31 East and Range 32 East to the Kern-Tulare County boundary
Los Angeles County (remainder) |  | Unclassifiable/Attainment
Riverside County (part) |  | Unclassifiable/Attainment
That portion of Riverside County which lies to the east of a line described as follows: That segment of the southwestern boundary line of Hydrologic Unit Number 18100100 within Riverside County, further described as follows: Beginning at the Riverside-Imperial County boundary and running north along the range line common to Range 17 East and Range 16 East, San Bernardino Base and Meridian; then northwest along the ridge line of the Chuckwalla Mountains, through Township 8 South, Range 16 East and Township 7 South, Range 16 East, until the Black Butte Mountain, Elevation 45′05″; then west and northwest along the ridge line to the southwest corner of Township 5 South, Range 14 East; then north along the range line common to Range 14 East and Range 13 East; then west and northwest along the ridge line to Monument Mountain, elevation 4834′; then southwest and then northwest along the ridge line of the Little San Bernardino Mountains to Quail Mountain, elev. 5814′; then northwest along the ridge line to the Riverside-San Bernardino County line
San Bernardino County (remainder) |  | Unclassifiable/Attainment
Salton Sea Air Basin:
Imperial County (remainder) |  | Unclassifiable/Attainment
Riverside County (part) |  | Unclassifiable/Attainment
That portion of Riverside County (including the lands of the Santa Rosa Band of Cahuilla Mission Indians within Riverside County) which lies to the east of a line described as follows: Beginning at the Riverside—San Diego County boundary and running north along the range line common to Range 4 East and Range 3 East, San Bernardino Base and Meridian; then east along the Township line common to Township 8 South and Township 7 South; then north along the range line common to Range 5 East and Range 4 East; then west along the Township line common to Township 6 South and Township 7 South to the southwest corner of Section 34, Township 6 South, Range 4 East; then north along the west boundaries of Sections 34, 27, 22, 15, 10, and 3, Township 6 South, Range 4 East; then west along the Township line common to Township 5 South and Township 6 South; then north along the range line common to Range 4 East and Range 3 East; then west along the south boundaries of Sections 13, 14, 15, 16, 17, and 18, Township 5 South, Range 3 East; then north along the range line common to Range 2 East and Range 3 East;, to the Riverside-San Bernardino County line: And that portion of Riverside County which lies to the west of a line described as follows: That segment of the southwestern boundary line of Hydrologic Unit Number 18100100 within Riverside County, further described as follows: Beginning at the Riverside-Imperial County boundary and running north along the range line common to Range 17 East and Range 16 East, San Bernardino Base and Meridian; then northwest along the ridge line of the Chuckwalla Mountains, through Township 8 South, Range 16 East and Township 7 South, Range 16 East, until the Black Butte Mountain, elevation 4504′; then west and northwest along the ridge line to the southwest corner of Township 5 South, Range 14 East; then north along the range line common to Range 14 East and Range 13 East; then west and northwest along the ridge line to Monument Mountain, elevation 4834′; then southwest and then northwest along the ridge line of the Little San Bernardino Mountains to Quail Mountain, elev. 5814′; then northwest along the ridge line to the Riverside-San Bernardino County line
Pechanga Band of Luiseño Mission Indians |  | Unclassifiable/Attainment
¹ Includes areas of Indian country located in each county or area, except as otherwise specified.
² This date is April 15, 2015, unless otherwise noted.

* * * * *

7. Section 81.306 is amended by adding a table entitled “Colorado—2012 Annual PM2.5 NAAQS (Primary)” following the table “Colorado—1997 Annual PM2.5 NAAQS [Primary and secondary]” to read as follows:

§ 81.306 Colorado.

* * * * *

Colorado—2012 Annual PM2.5 NAAQS
[Primary]
Designated area ¹ | Designation: Date ² | Designation: Type | Classification: Date ² | Classification: Type
State AQCR 01:
Logan County |  | Unclassifiable/Attainment
Morgan County |  | Unclassifiable/Attainment
Phillips County |  | Unclassifiable/Attainment
Sedgwick County |  | Unclassifiable/Attainment
Washington County |  | Unclassifiable/Attainment
Yuma County |  | Unclassifiable/Attainment
State AQCR 02:
Larimer County |  | Unclassifiable/Attainment
Weld County |  | Unclassifiable/Attainment
State AQCR 03:
Adams County |  | Unclassifiable/Attainment
Arapahoe County |  | Unclassifiable/Attainment
Boulder County |  | Unclassifiable/Attainment
Broomfield County |  | Unclassifiable/Attainment
Clear Creek County |  | Unclassifiable/Attainment
Denver County |  | Unclassifiable/Attainment
Douglas County |  | Unclassifiable/Attainment
Gilpin County |  | Unclassifiable/Attainment
Jefferson County |  | Unclassifiable/Attainment
State AQCR 04:
El Paso County |  | Unclassifiable/Attainment
Park County |  | Unclassifiable/Attainment
Teller County |  | Unclassifiable/Attainment
State AQCR 05:
Cheyenne County |  | Unclassifiable/Attainment
Elbert County |  | Unclassifiable/Attainment
Kit Carson County |  | Unclassifiable/Attainment
Lincoln County |  | Unclassifiable/Attainment
State AQCR 06:
Baca County |  | Unclassifiable/Attainment
Bent County |  | Unclassifiable/Attainment
Crowley County |  | Unclassifiable/Attainment
Kiowa County |  | Unclassifiable/Attainment
Otero County |  | Unclassifiable/Attainment
Prowers County |  | Unclassifiable/Attainment
State AQCR 07:
Huerfano County |  | Unclassifiable/Attainment
Las Animas County |  | Unclassifiable/Attainment
Pueblo County |  | Unclassifiable/Attainment
State AQCR 08:
Alamosa County |  | Unclassifiable/Attainment
Conejos County |  | Unclassifiable/Attainment
Costilla County |  | Unclassifiable/Attainment
Mineral County |  | Unclassifiable/Attainment
Rio Grande County |  | Unclassifiable/Attainment
Saguache County |  | Unclassifiable/Attainment
State AQCR 09:
Archuleta County |  | Unclassifiable/Attainment
Dolores County |  | Unclassifiable/Attainment
La Plata County |  | Unclassifiable/Attainment
Montezuma County |  | Unclassifiable/Attainment
San Juan County |  | Unclassifiable/Attainment
State AQCR 10:
Delta County |  | Unclassifiable/Attainment
Gunnison County |  | Unclassifiable/Attainment
Hinsdale County |  | Unclassifiable/Attainment
Montrose County |  | Unclassifiable/Attainment
Ouray County |  | Unclassifiable/Attainment
San Miguel County |  | Unclassifiable/Attainment
State AQCR 11:
Garfield County |  | Unclassifiable/Attainment
Mesa County |  | Unclassifiable/Attainment
Moffat County |  | Unclassifiable/Attainment
Rio Blanco County |  | Unclassifiable/Attainment
State AQCR 12:
Eagle County |  | Unclassifiable/Attainment
Grand County |  | Unclassifiable/Attainment
Jackson County |  | Unclassifiable/Attainment
Pitkin County |  | Unclassifiable/Attainment
Routt County |  | Unclassifiable/Attainment
Summit County |  | Unclassifiable/Attainment
State AQCR 13:
Chaffee County |  | Unclassifiable/Attainment
Custer County |  | Unclassifiable/Attainment
Fremont County |  | Unclassifiable/Attainment
Lake County |  | Unclassifiable/Attainment
¹ Includes areas of Indian country located in each county or area, except as otherwise specified.
² This date is April 15, 2015, unless otherwise noted.

* * * * *

8. Section 81.307 is amended by adding a table entitled “Connecticut—2012 Annual PM2.5 NAAQS (Primary)” following the table “Connecticut—1997 Annual PM2.5 NAAQS [Primary and secondary]” to read as follows:

§ 81.307 Connecticut.

* * * * *

Connecticut—2012 Annual PM2.5 NAAQS
[Primary]
Designated area ¹ | Designation: Date ² | Designation: Type | Classification: Date ² | Classification: Type
Statewide:
Fairfield County |  | Unclassifiable/Attainment
Hartford County |  | Unclassifiable/Attainment
Litchfield County |  | Unclassifiable/Attainment
Middlesex County |  | Unclassifiable/Attainment
New Haven County |  | Unclassifiable/Attainment
New London County |  | Unclassifiable/Attainment
Tolland County |  | Unclassifiable/Attainment
Windham County |  | Unclassifiable/Attainment
¹ Includes areas of Indian country located in each county or area, except as otherwise specified.
² This date is April 15, 2015, unless otherwise noted.

* * * * *

9. Section 81.308 is amended by adding a table entitled “Delaware—2012 Annual PM2.5 NAAQS (Primary)” following the table “Delaware—1997 Annual PM2.5 NAAQS [Primary and secondary]” to read as follows:

§ 81.308 Delaware.

* * * * *

Delaware—2012 Annual PM2.5 NAAQS
[Primary]
Designated area ¹ | Designation: Date ² | Designation: Type | Classification: Date ² | Classification: Type
Statewide:
Kent County |  | Unclassifiable/Attainment
New Castle County |  | Unclassifiable/Attainment
Sussex County |  | Unclassifiable/Attainment
¹ Includes areas of Indian country located in each county or area, except as otherwise specified.
² This date is April 15, 2015, unless otherwise noted.

* * * * *

10. Section 81.309 is amended by adding a table entitled “District of Columbia—2012 Annual PM2.5 NAAQS (Primary)” following the table “District of Columbia—1997 Annual PM2.5 NAAQS [Primary and secondary]” to read as follows:

§ 81.309 District of Columbia.

* * * * *

District of Columbia—2012 Annual PM2.5 NAAQS
[Primary]
Designated area ¹ | Designation: Date ² | Designation: Type | Classification: Date ² | Classification: Type
AQCR 047 National Capital Interstate (DC-MD-VA) (part)
District of Columbia |  | Unclassifiable/Attainment
¹ Includes areas of Indian country located in each county or area, except as otherwise specified.
² This date is April 15, 2015, unless otherwise noted.

* * * * *

11. Section 81.310 is amended by adding a table entitled “Florida—2012 Annual PM2.5 NAAQS (Primary)” following the table “Florida—1997 Annual PM2.5 NAAQS [Primary and secondary]” to read as follows:

§ 81.310 Florida.

* * * * *

Florida—2012 Annual PM2.5 NAAQS
[Primary]
Designated area ¹ | Designation: Date ² | Designation: Type | Classification: Date ² | Classification: Type
Statewide:
Alachua County
Baker County
Bay County
Bradford County
Brevard County
Broward County
Calhoun County
Charlotte County
Citrus County
Clay County
Collier County
Columbia County
DeSoto County
Dixie County
Duval County
Escambia County
Flagler County
Franklin County
Gadsden County
Gilchrist County
Glades County
Gulf County
Hamilton County
Hardee County
Hendry County
Hernando County
Highlands County
Hillsborough County
Holmes County
Indian River County
Jackson County
Jefferson County
Lafayette County
Lake County
Lee County
Leon County
Levy County
Liberty County
Madison County
Manatee County
Marion County
Martin County
Miami-Dade County
Monroe County
Nassau County
Okaloosa County
Okeechobee County
Orange County
Osceola County
Palm Beach County
Pasco County
Pinellas County
Polk County
Putnam County
St. Johns County
St. Lucie County
Santa Rosa County
Sarasota County
Seminole County
Sumter County
Suwannee County
Taylor County
Union County
Volusia County
Wakulla County
Walton County
Washington County
¹ Includes areas of Indian country located in each county or area, except as otherwise specified.
² This date is April 15, 2015, unless otherwise noted.

* * * * *

12. Section 81.311 is amended by adding a table entitled “Georgia—2012 Annual PM2.5 NAAQS (Primary)” following the table “Georgia—1997 Annual PM2.5 NAAQS [Primary and secondary]” to read as follows:

§ 81.311 Georgia.

* * * * *

Georgia—2012 Annual PM2.5 NAAQS
[Primary]
Designated area ¹ | Designation: Date ² | Designation: Type | Classification: Date ² | Classification: Type
Statewide:
Appling County |  | Unclassifiable/Attainment
Atkinson County |  | Unclassifiable/Attainment
Bacon County |  | Unclassifiable/Attainment
Baker County |  | Unclassifiable/Attainment
Baldwin County |  | Unclassifiable/Attainment
Banks County |  | Unclassifiable/Attainment
Barrow County |  | Unclassifiable/Attainment
Bartow County
Ben Hill County |  | Unclassifiable/Attainment
Berrien County |  | Unclassifiable/Attainment
Bibb County |  | Unclassifiable/Attainment
Bleckley County |  | Unclassifiable/Attainment
Brantley County |  | Unclassifiable/Attainment
Brooks County
Bryan County |  | Unclassifiable/Attainment
Bulloch County |  | Unclassifiable/Attainment
Burke County |  | Unclassifiable/Attainment
Butts County |  | Unclassifiable/Attainment
Calhoun County |  | Unclassifiable/Attainment
Camden County |  | Unclassifiable/Attainment
Candler County |  | Unclassifiable/Attainment
Carroll County |  | Unclassifiable/Attainment
Catoosa County |  | Unclassifiable/Attainment
Charlton County |  | Unclassifiable/Attainment
Chatham County
Chattahoochee County |  | Unclassifiable/Attainment
Chattooga County |  | Unclassifiable/Attainment
Cherokee County
Clarke County |  | Unclassifiable/Attainment
Clay County |  | Unclassifiable/Attainment
Clayton County
Clinch County |  | Unclassifiable/Attainment
Cobb County
Coffee County |  | Unclassifiable/Attainment
Colquitt County |  | Unclassifiable/Attainment
Columbia County
Cook County |  | Unclassifiable/Attainment
Coweta County
Crawford County |  | Unclassifiable/Attainment
Crisp County |  | Unclassifiable/Attainment
Dade County |  | Unclassifiable/Attainment
Dawson County |  | Unclassifiable/Attainment
Decatur County |  | Unclassifiable/Attainment
DeKalb County
Dodge County |  | Unclassifiable/Attainment
Dooly County |  | Unclassifiable/Attainment
Dougherty County
Douglas County
Early County |  | Unclassifiable/Attainment
Echols County |  | Unclassifiable/Attainment
Effingham County
Elbert County |  | Unclassifiable/Attainment
Emanuel County |  | Unclassifiable/Attainment
Evans County |  | Unclassifiable/Attainment
Fannin County |  | Unclassifiable/Attainment
Fayette County |  | Unclassifiable/Attainment
Floyd County |  | Unclassifiable/Attainment
Forsyth County
Franklin County |  | Unclassifiable/Attainment
Fulton County
Gilmer County |  | Unclassifiable/Attainment
Glascock County |  | Unclassifiable/Attainment
Glynn County
Gordon County |  | Unclassifiable/Attainment
Grady County |  | Unclassifiable/Attainment
Greene County |  | Unclassifiable/Attainment
Gwinnett County
Habersham County |  | Unclassifiable/Attainment
Hall County |  | Unclassifiable/Attainment
Hancock County |  | Unclassifiable/Attainment
Haralson County |  | Unclassifiable/Attainment
Harris County |  | Unclassifiable/Attainment
Hart County |  | Unclassifiable/Attainment
Heard County |  | Unclassifiable/Attainment
Henry County
Houston County |  | Unclassifiable/Attainment
Irwin County |  | Unclassifiable/Attainment
Jackson County |  | Unclassifiable/Attainment
Jasper County |  | Unclassifiable/Attainment
Jeff Davis County |  | Unclassifiable/Attainment
Jefferson County |  | Unclassifiable/Attainment
Jenkins County |  | Unclassifiable/Attainment
Johnson County |  | Unclassifiable/Attainment
Jones County |  | Unclassifiable/Attainment
Lamar County |  | Unclassifiable/Attainment
Lanier County |  | Unclassifiable/Attainment
Laurens County |  | Unclassifiable/Attainment
Lee County |  | Unclassifiable/Attainment
Liberty County |  | Unclassifiable/Attainment
Lincoln County |  | Unclassifiable/Attainment
Long County |  | Unclassifiable/Attainment
Lowndes County
Lumpkin County |  | Unclassifiable/Attainment
McDuffie County |  | Unclassifiable/Attainment
McIntosh County |  | Unclassifiable/Attainment
Macon County |  | Unclassifiable/Attainment
Madison County |  | Unclassifiable/Attainment
Marion County |  | Unclassifiable/Attainment
Meriwether County |  | Unclassifiable/Attainment
Miller County |  | Unclassifiable/Attainment
Mitchell County |  | Unclassifiable/Attainment
Monroe County |  | Unclassifiable/Attainment
Montgomery County |  | Unclassifiable/Attainment
Morgan County |  | Unclassifiable/Attainment
Murray County |  | Unclassifiable/Attainment
Muscogee County
Newton County |  | Unclassifiable/Attainment
Oconee County |  | Unclassifiable/Attainment
Oglethorpe County |  | Unclassifiable/Attainment
Paulding County
Peach County |  | Unclassifiable/Attainment
Pickens County |  | Unclassifiable/Attainment
Pierce County |  | Unclassifiable/Attainment
Pike County |  | Unclassifiable/Attainment
Polk County |  | Unclassifiable/Attainment
Pulaski County |  | Unclassifiable/Attainment
Putnam County |  | Unclassifiable/Attainment
Quitman County |  | Unclassifiable/Attainment
Rabun County |  | Unclassifiable/Attainment
Randolph County |  | Unclassifiable/Attainment
Richmond County
Rockdale County |  | Unclassifiable/Attainment
Schley County |  | Unclassifiable/Attainment
Screven County |  | Unclassifiable/Attainment
Seminole County |  | Unclassifiable/Attainment
Spalding County |  | Unclassifiable/Attainment
Stephens County |  | Unclassifiable/Attainment
Stewart County |  | Unclassifiable/Attainment
Sumter County |  | Unclassifiable/Attainment
Talbot County |  | Unclassifiable/Attainment
Taliaferro County |  | Unclassifiable/Attainment
Tattnall County |  | Unclassifiable/Attainment
Taylor County |  | Unclassifiable/Attainment
Telfair County |  | Unclassifiable/Attainment
Terrell County |  | Unclassifiable/Attainment
Thomas County |  | Unclassifiable/Attainment
Tift County |  | Unclassifiable/Attainment
Toombs County |  | Unclassifiable/Attainment
Towns County |  | Unclassifiable/Attainment
Treutlen County |  | Unclassifiable/Attainment
Troup County |  | Unclassifiable/Attainment
Turner County |  | Unclassifiable/Attainment
Twiggs County |  | Unclassifiable/Attainment
Union County |  | Unclassifiable/Attainment
Upson County |  | Unclassifiable/Attainment
Walker County |  | Unclassifiable/Attainment
Walton County |  | Unclassifiable/Attainment
Ware County |  | Unclassifiable/Attainment
Warren County |  | Unclassifiable/Attainment
Washington County
Wayne County |  | Unclassifiable/Attainment
Webster County |  | Unclassifiable/Attainment
Wheeler County |  | Unclassifiable/Attainment
White County |  | Unclassifiable/Attainment
Whitfield County |  | Unclassifiable/Attainment
Wilcox County |  | Unclassifiable/Attainment
Wilkes County |  | Unclassifiable/Attainment
Wilkinson County |  | Unclassifiable/Attainment
Worth County |  | Unclassifiable/Attainment
¹ Includes areas of Indian country located in each county or area, except as otherwise specified.
² This date is April 15, 2015, unless otherwise noted.

* * * * *

13. Section 81.312 is amended by adding a table entitled “Hawaii—2012 Annual PM2.5 NAAQS (Primary)” following the table “Hawaii—1997 Annual PM2.5 NAAQS [Primary and secondary]” to read as follows:

§ 81.312 Hawaii.

* * * * *

Hawaii—2012 Annual PM2.5 NAAQS
[Primary]
Designated area ¹ | Designation: Date ² | Designation: Type | Classification: Date ² | Classification: Type
Statewide:
Hawaii County |  | Unclassifiable/Attainment
Honolulu County |  | Unclassifiable/Attainment
Kalawao County |  | Unclassifiable/Attainment
Kauai County |  | Unclassifiable/Attainment
Maui County |  | Unclassifiable/Attainment
¹ Includes areas of Indian country located in each county or area, except as otherwise specified.
² This date is April 15, 2015 unless otherwise noted.

* * * * *

14. Section 81.313 is amended by adding a table entitled “Idaho—2012 Annual PM2.5 NAAQS (Primary)” following the table “Idaho—1997 Annual PM2.5 NAAQS [Primary and secondary]” to read as follows:

§ 81.313 Idaho.

* * * * *

Idaho—2012 Annual PM2.5 NAAQS
[Primary]
Designated area ¹ | Designation: Date ² | Designation: Type | Classification: Date ² | Classification: Type
West Silver Valley, ID:
Shoshone County (part) |  | Nonattainment |  | Moderate.
That portion of Shoshone County, which is described as follows: T50N, R02E, Sections 14, 15, 22-27, 29-36; T49N, R01E, Sections 2, 11-14, 23-26, 35, 36 and Sections 10,15, 22, 27, 34 east of Kootenai County boundary; T49N, R02E, Sections 1-36; T49N, R03E, Sections 7, 13-36; T49N, R04E, Sections 19, 30, 31; T48N, R01E, Sections 1, 2, 11-14, 22-27, 34-36 and Sections 3, 10, 15 east of Kootenai County boundary; T48N, R02E, Sections 1-36; T48N, R03E, Sections 2-10, 16-20, 30, 31; T48N, R03E, Section 1, NWNW, SWNW, NWSW, SWSW; T48N, R03E, Section 11, NW ¼, NE ¼, NWSW, NESW, NWSE, NESE; T48N, R03E, Section 12, NWNW, SWNW, NWSW; T47N, R01E, Sections 1-3, 10-15, 22-27; T47N, R02E, Sections 1-23, 28-30; T47N, R03E, Sections 5-8, 17, and 18.
AQCR 61 Eastern Idaho Intrastate:
Bannock County |  | Unclassifiable/Attainment
Bear Lake County |  | Unclassifiable/Attainment
Bingham County |  | Unclassifiable/Attainment
Bonneville County |  | Unclassifiable/Attainment
Butte County |  | Unclassifiable/Attainment
Caribou County |  | Unclassifiable/Attainment
Clark County |  | Unclassifiable/Attainment
Franklin County |  | Unclassifiable/Attainment
Fremont County |  | Unclassifiable/Attainment
Jefferson County |  | Unclassifiable/Attainment
Madison County |  | Unclassifiable/Attainment
Oneida County |  | Unclassifiable/Attainment
Power County |  | Unclassifiable/Attainment
Teton County |  | Unclassifiable/Attainment
AQCR 62 E Washington-N Idaho Interstate:
Benewah County |  | Unclassifiable/Attainment
Kootenai County |  | Unclassifiable/Attainment
Latah County |  | Unclassifiable/Attainment
Nez Perce County |  | Unclassifiable/Attainment
Shoshone County (remainder) |  | Unclassifiable/Attainment
AQCR 63 Idaho Intrastate:
Adams County |  | Unclassifiable/Attainment
Blaine County |  | Unclassifiable/Attainment
Boise County |  | Unclassifiable/Attainment
Bonner County |  | Unclassifiable/Attainment
Boundary County |  | Unclassifiable/Attainment
Camas County |  | Unclassifiable/Attainment
Cassia County |  | Unclassifiable/Attainment
Clearwater County |  | Unclassifiable/Attainment
Custer County |  | Unclassifiable/Attainment
Elmore County |  | Unclassifiable/Attainment
Gem County |  | Unclassifiable/Attainment
Gooding County |  | Unclassifiable/Attainment
Idaho County |  | Unclassifiable/Attainment
Jerome County |  | Unclassifiable/Attainment
Lemhi County |  | Unclassifiable/Attainment
Lewis County |  | Unclassifiable/Attainment
Lincoln County |  | Unclassifiable/Attainment
Minidoka County |  | Unclassifiable/Attainment
Owyhee County |  | Unclassifiable/Attainment
Payette County |  | Unclassifiable/Attainment
Twin Falls County |  | Unclassifiable/Attainment
Valley County |  | Unclassifiable/Attainment
Washington County |  | Unclassifiable/Attainment
AQCR 64 Metropolitan Boise Interstate:
Ada County |  | Unclassifiable/Attainment
Canyon County |  | Unclassifiable/Attainment
¹ Includes areas of Indian country located in each county or area, except as otherwise specified.
² This date is April 15, 2015, unless otherwise noted.

* * * * *

15. Section 81.314 is amended by adding a table entitled “Illinois—2012 Annual PM2.5 NAAQS (Primary)” following the table “Illinois—1997 Annual PM2.5 NAAQS [Primary and secondary]” to read as follows:

§ 81.314 Illinois.

* * * * *

Illinois—2012 24-Hour PM2.5 NAAQS
[Primary]
Designated area ¹ | Designation: Date ² | Designation: Type | Classification: Date ² | Classification: Type
Chicago, IL-IN:
Cook County |  | Unclassifiable
DuPage County |  | Unclassifiable
Grundy County (part) |  | Unclassifiable
Goose Lake and Aux Sable Townships
Kane County |  | Unclassifiable
Kendall County (part) |  | Unclassifiable
Oswego Township
Lake County |  | Unclassifiable
McHenry County |  | Unclassifiable
Will County |  | Unclassifiable
Davenport-Moline-Rock Island, IL:
Rock Island County |  | Unclassifiable
Henry County |  | Unclassifiable
Mercer County |  | Unclassifiable
St. Louis, MO-IL:
Madison County |  | Unclassifiable
Monroe County |  | Unclassifiable
Randolph County (part) |  | Unclassifiable
Baldwin Village
St. Clair County |  | Unclassifiable
Rest of State:
Adams County |  | Unclassifiable
Alexander County |  | Unclassifiable
Bond County |  | Unclassifiable
Boone County |  | Unclassifiable
Brown County |  | Unclassifiable
Bureau County |  | Unclassifiable
Calhoun County |  | Unclassifiable
Carroll County |  | Unclassifiable
Cass County |  | Unclassifiable
Champaign County |  | Unclassifiable
Christian County |  | Unclassifiable
Clark County |  | Unclassifiable
Clay County |  | Unclassifiable
Clinton County |  | Unclassifiable
Coles County |  | Unclassifiable
Crawford County |  | Unclassifiable
Cumberland County |  | Unclassifiable
DeKalb County |  | Unclassifiable
De Witt County |  | Unclassifiable
Douglas County |  | Unclassifiable
Edgar County |  | Unclassifiable
Edwards County |  | Unclassifiable
Effingham County |  | Unclassifiable
Fayette County |  | Unclassifiable
Ford County |  | Unclassifiable
Franklin County |  | Unclassifiable
Fulton County |  | Unclassifiable
Gallatin County |  | Unclassifiable
Greene County |  | Unclassifiable
Grundy County (remainder) |  | Unclassifiable
Hamilton County |  | Unclassifiable
Hancock County |  | Unclassifiable
Hardin County |  | Unclassifiable
Henderson County |  | Unclassifiable
Iroquois County |  | Unclassifiable
Jackson County |  | Unclassifiable
Jasper County |  | Unclassifiable
Jefferson County |  | Unclassifiable
Jersey County |  | Unclassifiable
Jo Daviess County |  | Unclassifiable
Johnson County |  | Unclassifiable
Kankakee County |  | Unclassifiable
Kendall County (remainder) |  | Unclassifiable
Knox County |  | Unclassifiable
La Salle County |  | Unclassifiable
Lawrence County |  | Unclassifiable
Lee County |  | Unclassifiable
Livingston County |  | Unclassifiable
Logan County |  | Unclassifiable
McDonough County |  | Unclassifiable
McLean County |  | Unclassifiable
Macon County |  | Unclassifiable
Macoupin County |  | Unclassifiable
Marion County |  | Unclassifiable
Marshall County |  | Unclassifiable
Mason County |  | Unclassifiable
Massac County |  | Unclassifiable
Menard County |  | Unclassifiable
Montgomery County |  | Unclassifiable
Morgan County |  | Unclassifiable
Moultrie County |  | Unclassifiable
Ogle County |  | Unclassifiable
Peoria County |  | Unclassifiable
Perry County |  | Unclassifiable
Piatt County |  | Unclassifiable
Pike County |  | Unclassifiable
Pope County |  | Unclassifiable
Pulaski County |  | Unclassifiable
Putnam County |  | Unclassifiable
Randolph County (remainder) |  | Unclassifiable
Richland County |  | Unclassifiable
Saline County |  | Unclassifiable
Sangamon County |  | Unclassifiable
Schuyler County |  | Unclassifiable
Scott County |  | Unclassifiable
Shelby County |  | Unclassifiable
Stark County |  | Unclassifiable
Stephenson County |  | Unclassifiable
Tazewell County |  | Unclassifiable
Union County |  | Unclassifiable
Vermilion County |  | Unclassifiable
Wabash County |  | Unclassifiable
Warren County |  | Unclassifiable
Washington County |  | Unclassifiable
Wayne County |  | Unclassifiable
White County |  | Unclassifiable
Whiteside County |  | Unclassifiable
Williamson County |  | Unclassifiable
Winnebago County |  | Unclassifiable
Woodford County |  | Unclassifiable
¹ Includes areas of Indian country located in each county or area, except as otherwise specified.
² This date is April 15, 2015, unless otherwise noted.

* * * * *

16. Section 81.315 is amended by adding a table entitled “Indiana—2012 Annual PM2.5 NAAQS (Primary)” following the table “Indiana—1997 Annual PM2.5 NAAQS [Primary and secondary]” to read as follows:

§ 81.315 Indiana.

* * * * *

Indiana—2012 Annual PM2.5 NAAQS
[Primary]
Designated area ¹ | Designation: Date ² | Designation: Type | Classification: Date ² | Classification: Type
Louisville, KY-IN:
Clark County |  | NonAttainment | Moderate
Floyd County |  | NonAttainment | Moderate
Chicago Area, IL-IN:
Lake County |  | Unclassifiable
Porter County |  | Unclassifiable
Rest of State:
Adams County |  | Unclassifiable/Attainment
Allen County |  | Unclassifiable/Attainment
Bartholomew County |  | Unclassifiable/Attainment
Benton County |  | Unclassifiable/Attainment
Blackford County |  | Unclassifiable/Attainment
Boone County |  | Unclassifiable/Attainment
Brown County |  | Unclassifiable/Attainment
Carroll County |  | Unclassifiable/Attainment
Cass County |  | Unclassifiable/Attainment
Clay County |  | Unclassifiable/Attainment
Clinton County |  | Unclassifiable/Attainment
Crawford County |  | Unclassifiable/Attainment
Daviess County |  | Unclassifiable/Attainment
De Kalb County |  | Unclassifiable/Attainment
Dearborn County |  | Unclassifiable/Attainment
Decatur County |  | Unclassifiable/Attainment
Delaware County |  | Unclassifiable/Attainment
Dubois County |  | Unclassifiable/Attainment
Elkhart County |  | Unclassifiable/Attainment
Fayette County |  | Unclassifiable/Attainment
Fountain County |  | Unclassifiable/Attainment
Franklin County |  | Unclassifiable/Attainment
Fulton County |  | Unclassifiable/Attainment
Gibson County |  | Unclassifiable/Attainment
Grant County |  | Unclassifiable/Attainment
Greene County |  | Unclassifiable/Attainment
Hamilton County |  | Unclassifiable/Attainment
Hancock County |  | Unclassifiable/Attainment
Harrison County |  | Unclassifiable/Attainment
Hendricks County |  | Unclassifiable/Attainment
Henry County |  | Unclassifiable/Attainment
Howard County |  | Unclassifiable/Attainment
Huntington County |  | Unclassifiable/Attainment
Jackson County |  | Unclassifiable/Attainment
Jasper County |  | Unclassifiable/Attainment
Jay County |  | Unclassifiable/Attainment
Jefferson County |  | Unclassifiable/Attainment
Jennings County |  | Unclassifiable/Attainment
Johnson County |  | Unclassifiable/Attainment
Knox County |  | Unclassifiable/Attainment
Kosciusko County |  | Unclassifiable/Attainment
LaGrange County |  | Unclassifiable/Attainment
La Porte County |  | Unclassifiable/Attainment
Lawrence County |  | Unclassifiable/Attainment
Madison County |  | Unclassifiable/Attainment
Marion County |  | Unclassifiable/Attainment
Marshall County |  | Unclassifiable/Attainment
Martin County |  | Unclassifiable/Attainment
Miami County |  | Unclassifiable/Attainment
Monroe County |  | Unclassifiable/Attainment
Montgomery County |  | Unclassifiable/Attainment
Morgan County |  | Unclassifiable/Attainment
Newton County |  | Unclassifiable/Attainment
Noble County |  | Unclassifiable/Attainment
Ohio County |  | Unclassifiable/Attainment
Orange County |  | Unclassifiable/Attainment
Owen County |  | Unclassifiable/Attainment
Parke County |  | Unclassifiable/Attainment
Perry County |  | Unclassifiable/Attainment
Pike County |  | Unclassifiable/Attainment
Posey County |  | Unclassifiable/Attainment
Pulaski County |  | Unclassifiable/Attainment
Putnam County |  | Unclassifiable/Attainment
Randolph County |  | Unclassifiable/Attainment
Ripley County |  | Unclassifiable/Attainment
Rush County |  | Unclassifiable/Attainment
Scott County |  | Unclassifiable/Attainment
Shelby County |  | Unclassifiable/Attainment
Spencer County |  | Unclassifiable/Attainment
St. Joseph County |  | Unclassifiable/Attainment
Starke County |  | Unclassifiable/Attainment
Steuben County |  | Unclassifiable/Attainment
Sullivan County |  | Unclassifiable/Attainment
Switzerland County |  | Unclassifiable/Attainment
Tippecanoe County |  | Unclassifiable/Attainment
Tipton County |  | Unclassifiable/Attainment
Union County |  | Unclassifiable/Attainment
Vanderburgh County |  | Unclassifiable/Attainment
Vermillion County |  | Unclassifiable/Attainment
Vigo County |  | Unclassifiable/Attainment
Wabash County |  | Unclassifiable/Attainment
Warren County |  | Unclassifiable/Attainment
Warrick County |  | Unclassifiable/Attainment
Washington County |  | Unclassifiable/Attainment
Wayne County |  | Unclassifiable/Attainment
Wells County |  | Unclassifiable/Attainment
White County |  | Unclassifiable/Attainment
Whitley County |  | Unclassifiable/Attainment
¹ Includes areas of Indian country located in each county or area, except as otherwise specified.
² This date is April 15, 2015, unless otherwise noted.

* * * * *

17. Section 81.316 is amended by adding a table entitled “Iowa—2012 Annual PM2.5 NAAQS (Primary)” following the table “Iowa—1997 Annual PM2.5 NAAQS [Primary and secondary]” to read as follows:

§ 81.316 Iowa.

* * * * *

Iowa—2012 Annual PM2.5 NAAQS
[Primary]
Designated area ¹ | Designation: Date ² | Designation: Type | Classification: Date ² | Classification: Type
Statewide:
Adair County |  | Unclassifiable/Attainment
Adams County |  | Unclassifiable/Attainment
Allamakee County |  | Unclassifiable/Attainment
Appanoose County |  | Unclassifiable/Attainment
Audubon County |  | Unclassifiable/Attainment
Benton County |  | Unclassifiable/Attainment
Black Hawk County |  | Unclassifiable/Attainment
Boone County |  | Unclassifiable/Attainment
Bremer County |  | Unclassifiable/Attainment
Buchanan County |  | Unclassifiable/Attainment
Buena Vista County |  | Unclassifiable/Attainment
Butler County |  | Unclassifiable/Attainment
Calhoun County |  | Unclassifiable/Attainment
Carroll County |  | Unclassifiable/Attainment
Cass County |  | Unclassifiable/Attainment
Cedar County |  | Unclassifiable/Attainment
Cerro Gordo County |  | Unclassifiable/Attainment
Cherokee County |  | Unclassifiable/Attainment
Chickasaw County |  | Unclassifiable/Attainment
Clarke County |  | Unclassifiable/Attainment
Clay County |  | Unclassifiable/Attainment
Clayton County |  | Unclassifiable/Attainment
Clinton County |  | Unclassifiable/Attainment
Crawford County |  | Unclassifiable/Attainment
Dallas County |  | Unclassifiable/Attainment
Davis County |  | Unclassifiable/Attainment
Decatur County |  | Unclassifiable/Attainment
Delaware County |  | Unclassifiable/Attainment
Des Moines County |  | Unclassifiable/Attainment
Dickinson County |  | Unclassifiable/Attainment
Dubuque County |  | Unclassifiable/Attainment
Emmet County |  | Unclassifiable/Attainment
Fayette County |  | Unclassifiable/Attainment
Floyd County |  | Unclassifiable/Attainment
Franklin County |  | Unclassifiable/Attainment
Fremont County |  | Unclassifiable/Attainment
Greene County |  | Unclassifiable/Attainment
Grundy County |  | Unclassifiable/Attainment
Guthrie County |  | Unclassifiable/Attainment
Hamilton County |  | Unclassifiable/Attainment
Hancock County |  | Unclassifiable/Attainment
Hardin County |  | Unclassifiable/Attainment
Harrison County |  | Unclassifiable/Attainment
Henry County |  | Unclassifiable/Attainment
Howard County |  | Unclassifiable/Attainment
Humboldt County |  | Unclassifiable/Attainment
Ida County |  | Unclassifiable/Attainment
Iowa County |  | Unclassifiable/Attainment
Jackson County |  | Unclassifiable/Attainment
Jasper County |  | Unclassifiable/Attainment
Jefferson County |  | Unclassifiable/Attainment
Johnson County |  | Unclassifiable/Attainment
Jones County |  | Unclassifiable/Attainment
Keokuk County |  | Unclassifiable/Attainment
Kossuth County |  | Unclassifiable/Attainment
Lee County |  | Unclassifiable/Attainment
Linn County |  | Unclassifiable/Attainment
Louisa County |  | Unclassifiable/Attainment
Lucas County |  | Unclassifiable/Attainment
Lyon County |  | Unclassifiable/Attainment
Madison County |  | Unclassifiable/Attainment
Mahaska County |  | Unclassifiable/Attainment
Marion County |  | Unclassifiable/Attainment
Marshall County |  | Unclassifiable/Attainment
Mills County |  | Unclassifiable/Attainment
Mitchell County |  | Unclassifiable/Attainment
Monona County |  | Unclassifiable/Attainment
Monroe County |  | Unclassifiable/Attainment
Montgomery County |  | Unclassifiable/Attainment
Muscatine County |  | Unclassifiable/Attainment
O'Brien County |  | Unclassifiable/Attainment
Osceola County |  | Unclassifiable/Attainment
Page County |  | Unclassifiable/Attainment
Palo Alto County |  | Unclassifiable/Attainment
Plymouth County |  | Unclassifiable/Attainment
Pocahontas County |  | Unclassifiable/Attainment
Polk County |  | Unclassifiable/Attainment
Pottawattamie County |  | Unclassifiable/Attainment
Poweshiek County |  | Unclassifiable/Attainment
Ringgold County |  | Unclassifiable/Attainment
Sac County |  | Unclassifiable/Attainment
Scott County |  | Unclassifiable/Attainment
Shelby County |  | Unclassifiable/Attainment
Sioux County |  | Unclassifiable/Attainment
Story County |  | Unclassifiable/Attainment
Tama County |  | Unclassifiable/Attainment
Taylor County |  | Unclassifiable/Attainment
Union County |  | Unclassifiable/Attainment
Van Buren County |  | Unclassifiable/Attainment
Wapello County |  | Unclassifiable/Attainment
Warren County |  | Unclassifiable/Attainment
Washington County |  | Unclassifiable/Attainment
Wayne County |  | Unclassifiable/Attainment
Webster County |  | Unclassifiable/Attainment
Winnebago County |  | Unclassifiable/Attainment
Winneshiek County |  | Unclassifiable/Attainment
Woodbury County |  | Unclassifiable/Attainment
Worth County |  | Unclassifiable/Attainment
Wright County |  | Unclassifiable/Attainment
¹ Includes areas of Indian country located in each county or area, except as otherwise specified.
² This date is April 15, 2015, unless otherwise noted.

* * * * *

18. Section 81.317 is amended by adding a table entitled “Kansas—2012 Annual PM2.5 NAAQS (Primary)” following the table “Kansas—1997 Annual PM2.5 NAAQS [Primary and secondary]” to read as follows:

§ 81.317 Kansas.

* * * * *

Kansas—2012 Annual PM2.5 NAAQS
[Primary]
Designated area ¹ | Designation: Date ² | Designation: Type | Classification: Date ² | Classification: Type
Statewide:
Allen County |  | Unclassifiable/Attainment
Anderson County |  | Unclassifiable/Attainment
Atchison County |  | Unclassifiable/Attainment
Barber County |  | Unclassifiable/Attainment
Barton County |  | Unclassifiable/Attainment
Bourbon County |  | Unclassifiable/Attainment
Brown County |  | Unclassifiable/Attainment
Butler County |  | Unclassifiable/Attainment
Chase County |  | Unclassifiable/Attainment
Chautauqua County |  | Unclassifiable/Attainment
Cherokee County |  | Unclassifiable/Attainment
Cheyenne County |  | Unclassifiable/Attainment
Clark County |  | Unclassifiable/Attainment
Clay County |  | Unclassifiable/Attainment
Cloud County |  | Unclassifiable/Attainment
Coffey County |  | Unclassifiable/Attainment
Comanche County |  | Unclassifiable/Attainment
Cowley County |  | Unclassifiable/Attainment
Crawford County |  | Unclassifiable/Attainment
Decatur County |  | Unclassifiable/Attainment
Dickinson County |  | Unclassifiable/Attainment
Doniphan County |  | Unclassifiable/Attainment
Douglas County |  | Unclassifiable/Attainment
Edwards County |  | Unclassifiable/Attainment
Elk County |  | Unclassifiable/Attainment
Ellis County |  | Unclassifiable/Attainment
Ellsworth County |  | Unclassifiable/Attainment
Finney County |  | Unclassifiable/Attainment
Ford County |  | Unclassifiable/Attainment
Franklin County |  | Unclassifiable/Attainment
Geary County |  | Unclassifiable/Attainment
Gove County |  | Unclassifiable/Attainment
Graham County |  | Unclassifiable/Attainment
Grant County |  | Unclassifiable/Attainment
Gray County |  | Unclassifiable/Attainment
Greeley County |  | Unclassifiable/Attainment
Greenwood County |  | Unclassifiable/Attainment
Hamilton County |  | Unclassifiable/Attainment
Harper County |  | Unclassifiable/Attainment
Harvey County |  | Unclassifiable/Attainment
Haskell County |  | Unclassifiable/Attainment
Hodgeman County |  | Unclassifiable/Attainment
Jackson County |  | Unclassifiable/Attainment
Jefferson County |  | Unclassifiable/Attainment
Jewell County |  | Unclassifiable/Attainment
Johnson County |  | Unclassifiable/Attainment
Kearny County |  | Unclassifiable/Attainment
Kingman County |  | Unclassifiable/Attainment
Kiowa County |  | Unclassifiable/Attainment
Labette County |  | Unclassifiable/Attainment
Lane County |  | Unclassifiable/Attainment
Leavenworth County |  | Unclassifiable/Attainment
Lincoln County |  | Unclassifiable/Attainment
Linn County |  | Unclassifiable/Attainment
Logan County |  | Unclassifiable/Attainment
Lyon County |  | Unclassifiable/Attainment
McPherson County |  | Unclassifiable/Attainment
Marion County |  | Unclassifiable/Attainment
Marshall County |  | Unclassifiable/Attainment
Meade County |  | Unclassifiable/Attainment
Miami County |  | Unclassifiable/Attainment
Mitchell County |  | Unclassifiable/Attainment
Montgomery County |  | Unclassifiable/Attainment
Morris County |  | Unclassifiable/Attainment
Morton County |  | Unclassifiable/Attainment
Nemaha County |  | Unclassifiable/Attainment
Neosho County |  | Unclassifiable/Attainment
Ness County |  | Unclassifiable/Attainment
Norton County |  | Unclassifiable/Attainment
Osage County |  | Unclassifiable/Attainment
Osborne County |  | Unclassifiable/Attainment
Ottawa County |  | Unclassifiable/Attainment
Pawnee County |  | Unclassifiable/Attainment
Phillips County |  | Unclassifiable/Attainment
Pottawatomie County |  | Unclassifiable/Attainment
Pratt County |  | Unclassifiable/Attainment
Rawlins County |  | Unclassifiable/Attainment
Reno County |  | Unclassifiable/Attainment
Republic County |  | Unclassifiable/Attainment
Rice County |  | Unclassifiable/Attainment
Riley County |  | Unclassifiable/Attainment
Rooks County |  | Unclassifiable/Attainment
Rush County |  | Unclassifiable/Attainment
Russell County |  | Unclassifiable/Attainment
Saline County |  | Unclassifiable/Attainment
Scott County |  | Unclassifiable/Attainment
Sedgwick County |  | Unclassifiable/Attainment
Seward County |  | Unclassifiable/Attainment
Shawnee County |  | Unclassifiable/Attainment
Sheridan County |  | Unclassifiable/Attainment
Sherman County |  | Unclassifiable/Attainment
Smith County |  | Unclassifiable/Attainment
Stafford County |  | Unclassifiable/Attainment
Stanton County |  | Unclassifiable/Attainment
Stevens County |  | Unclassifiable/Attainment
Sumner County |  | Unclassifiable/Attainment
Thomas County |  | Unclassifiable/Attainment
Trego County |  | Unclassifiable/Attainment
Wabaunsee County |  | Unclassifiable/Attainment
Wallace County |  | Unclassifiable/Attainment
Washington County |  | Unclassifiable/Attainment
Wichita County |  | Unclassifiable/Attainment
Wilson County |  | Unclassifiable/Attainment
Woodson County |  | Unclassifiable/Attainment
Wyandotte County |  | Unclassifiable/Attainment
¹ Includes areas of Indian country located in each county or area, except as otherwise specified.
² This date is April 15, 2015, unless otherwise noted.

* * * * *

19. Section 81.318 is amended by adding a table entitled “Kentucky—2012 Annual PM2.5 NAAQS (Primary)” following the table “Kentucky—1997 Annual PM2.5 NAAQS [Primary and secondary]” to read as follows:

§ 81.318 Kentucky.

Kentucky—2012 Annual PM2.5 NAAQS
[Primary]
Designated area ¹ | Designation: Date ² | Designation: Type | Classification: Date ² | Classification: Type
Cincinnati-Hamilton, OH-KY:
Boone County (part) |  | Nonattainment |  | Moderate.
2010 Census tracts: 701, 702, 703.01, 703.05, 703.07, 703.08, 703.09, 703.11, 703.12, 703.13, 703.14, 704.01, 704.02, 705.02, 705.03, 705.04, 706.05, 706.06, 706.07, 9801
Campbell County (part) |  | Nonattainment |  | Moderate.
2010 Census tracts: 501, 504, 505, 506, 511.01, 511.02, 512, 513, 519.01, 519.03, 519.04 521, 522, 523.01, 523.02, 524, 525, 528, 529, 531, 532, 533.01, 533.02
Kenton County (part) |  | Nonattainment |  | Moderate.
2010 Census tracts: 603, 607, 609, 610, 611, 612, 613, 614, 616, 636.03, 636.04, 636.05, 636.06, 638, 640, 641, 642, 643, 644, 645, 646, 647, 648, 649, 650, 651, 652, 653, 654, 655.01, 655.02, 656, 657, 658, 659, 668, 669, 670, 671
Louisville, KY-IN:
Bullitt County (part) |  | Nonattainment |  | Moderate.
2010 Census tracts: 201.01, 201.02, 201.03, 202.01, 202.02. 203, 204, 205, 206.01, 206.02, 207.01, 207.02, 208, 211.01 and 211.02
Jefferson County |  | Nonattainment |  | Moderate.
Rest of State:
Adair County |  | Unclassifiable/Attainment
Allen County |  | Unclassifiable/Attainment
Anderson County |  | Unclassifiable/Attainment
Ballard County |  | Unclassifiable/Attainment
Barren County |  | Unclassifiable/Attainment
Bath County |  | Unclassifiable/Attainment
Bell County |  | Unclassifiable/Attainment
Boone (remainder) |  | Unclassifiable/Attainment
Bourbon County |  | Unclassifiable/Attainment
Boyd County |  | Unclassifiable/Attainment
Boyle County |  | Unclassifiable/Attainment
Bracken County |  | Unclassifiable/Attainment
Breathitt County |  | Unclassifiable/Attainment
Breckinridge County |  | Unclassifiable/Attainment
Bullitt County (remainder) |  | Unclassifiable/Attainment
Butler County |  | Unclassifiable/Attainment
Caldwell County |  | Unclassifiable/Attainment
Calloway County |  | Unclassifiable/Attainment
Campbell County (remainder) |  | Unclassifiable/Attainment
Carlisle County |  | Unclassifiable/Attainment
Carroll County |  | Unclassifiable/Attainment
Carter County |  | Unclassifiable/Attainment
Casey County |  | Unclassifiable/Attainment
Christian County |  | Unclassifiable/Attainment
Clark County |  | Unclassifiable/Attainment
Clay County |  | Unclassifiable/Attainment
Clinton County |  | Unclassifiable/Attainment
Crittenden County |  | Unclassifiable/Attainment
Cumberland County |  | Unclassifiable/Attainment
Daviess County |  | Unclassifiable/Attainment
Edmonson County |  | Unclassifiable/Attainment
Elliott County |  | Unclassifiable/Attainment
Estill County |  | Unclassifiable/Attainment
Fayette County |  | Unclassifiable/Attainment
Fleming County |  | Unclassifiable/Attainment
Floyd County |  | Unclassifiable/Attainment
Franklin County |  | Unclassifiable/Attainment
Fulton County |  | Unclassifiable/Attainment
Gallatin County |  | Unclassifiable/Attainment
Garrard County |  | Unclassifiable/Attainment
Grant County |  | Unclassifiable/Attainment
Graves County |  | Unclassifiable/Attainment
Grayson County |  | Unclassifiable/Attainment
Green County |  | Unclassifiable/Attainment
Greenup County |  | Unclassifiable/Attainment
Hancock County |  | Unclassifiable/Attainment
Hardin County |  | Unclassifiable/Attainment
Harlan County |  | Unclassifiable/Attainment
Harrison County |  | Unclassifiable/Attainment
Hart County |  | Unclassifiable/Attainment
Henderson County |  | Unclassifiable/Attainment
Henry County |  | Unclassifiable/Attainment
Hickman County |  | Unclassifiable/Attainment
Hopkins County |  | Unclassifiable/Attainment
Jackson County |  | Unclassifiable/Attainment
Jessamine County |  | Unclassifiable/Attainment
Johnson County |  | Unclassifiable/Attainment
Kenton County (remainder) |  | Unclassifiable/Attainment
Knott County |  | Unclassifiable/Attainment
Knox County |  | Unclassifiable/Attainment
Larue County |  | Unclassifiable/Attainment
Laurel County |  | Unclassifiable/Attainment
Lawrence County |  | Unclassifiable/Attainment
Lee County |  | Unclassifiable/Attainment
Leslie County |  | Unclassifiable/Attainment
Letcher County |  | Unclassifiable/Attainment
Lewis County |  | Unclassifiable/Attainment
Lincoln County |  | Unclassifiable/Attainment
Livingston County |  | Unclassifiable/Attainment
Logan County |  | Unclassifiable/Attainment
Lyon County |  | Unclassifiable/Attainment
McCracken County |  | Unclassifiable/Attainment
McCreary County |  | Unclassifiable/Attainment
McLean County |  | Unclassifiable/Attainment
Madison County |  | Unclassifiable/Attainment
Magoffin County |  | Unclassifiable/Attainment
Marion County |  | Unclassifiable/Attainment
Marshall County |  | Unclassifiable/Attainment
Martin County |  | Unclassifiable/Attainment
Mason County |  | Unclassifiable/Attainment
Meade County |  | Unclassifiable/Attainment
Menifee County |  | Unclassifiable/Attainment
Mercer County |  | Unclassifiable/Attainment
Metcalfe County |  | Unclassifiable/Attainment
Monroe County |  | Unclassifiable/Attainment
Montgomery County |  | Unclassifiable/Attainment
Morgan County |  | Unclassifiable/Attainment
Muhlenberg County |  | Unclassifiable/Attainment
Nelson County |  | Unclassifiable/Attainment
Nicholas County |  | Unclassifiable/Attainment
Ohio County |  | Unclassifiable/Attainment
Oldham County |  | Unclassifiable/Attainment
Owen County |  | Unclassifiable/Attainment
Owsley County |  | Unclassifiable/Attainment
Pendleton County |  | Unclassifiable/Attainment
Perry County |  | Unclassifiable/Attainment
Pike County |  | Unclassifiable/Attainment
Powell County |  | Unclassifiable/Attainment
Pulaski County |  | Unclassifiable/Attainment
Robertson County |  | Unclassifiable/Attainment
Rockcastle County |  | Unclassifiable/Attainment
Rowan County |  | Unclassifiable/Attainment
Russell County |  | Unclassifiable/Attainment
Scott County |  | Unclassifiable/Attainment
Shelby County |  | Unclassifiable/Attainment
Simpson County |  | Unclassifiable/Attainment
Spencer County |  | Unclassifiable/Attainment
Taylor County |  | Unclassifiable/Attainment
Todd County |  | Unclassifiable/Attainment
Trigg County |  | Unclassifiable/Attainment
Trimble County |  | Unclassifiable/Attainment
Union County |  | Unclassifiable/Attainment
Warren County |  | Unclassifiable/Attainment
Washington County |  | Unclassifiable/Attainment
Wayne County |  | Unclassifiable/Attainment
Webster County |  | Unclassifiable/Attainment
Whitley County |  | Unclassifiable/Attainment
Wolfe County |  | Unclassifiable/Attainment
Woodford County |  | Unclassifiable/Attainment
¹ Includes areas of Indian country located in each county or area, except as otherwise specified.
² This date is April 15, 2015, unless otherwise noted.

* * * * *

20. Section 81.319 is amended by adding a table entitled “Louisiana—2012 Annual PM2.5 NAAQS (Primary)” following the table “Louisiana—1997 Annual PM2.5 NAAQS [Primary and secondary]” to read as follows:

§ 81.319 Louisiana.

* * * * *

Louisiana—2012 Annual PM2.5 NAAQS
[Primary]
Designated area ¹ | Designation: Date ² | Designation: Type | Classification: Date ² | Classification: Type
AQCR 019 Monroe-El Dorado Interstate:
Caldwell Parish |  | Unclassifiable/Attainment
Catahoula Parish |  | Unclassifiable/Attainment
Concordia Parish |  | Unclassifiable/Attainment
East Carroll Parish |  | Unclassifiable/Attainment
Franklin Parish |  | Unclassifiable/Attainment
La Salle Parish |  | Unclassifiable/Attainment
Madison Parish |  | Unclassifiable/Attainment
Morehouse Parish |  | Unclassifiable/Attainment
Ouachita Parish |  | Unclassifiable/Attainment
Richland Parish |  | Unclassifiable/Attainment
Tensas Parish |  | Unclassifiable/Attainment
Union Parish |  | Unclassifiable/Attainment
West Carroll Parish |  | Unclassifiable/Attainment
AQCR 022 Shreveport-Texarkana-Tyler Interstate:
Bienville Parish |  | Unclassifiable/Attainment
Bossier Parish |  | Unclassifiable/Attainment
Caddo Parish |  | Unclassifiable/Attainment
Claiborne Parish |  | Unclassifiable/Attainment
De Soto Parish |  | Unclassifiable/Attainment
Jackson Parish |  | Unclassifiable/Attainment
Lincoln Parish |  | Unclassifiable/Attainment
Natchitoches Parish |  | Unclassifiable/Attainment
Red River Parish |  | Unclassifiable/Attainment
Sabine Parish |  | Unclassifiable/Attainment
Webster Parish |  | Unclassifiable/Attainment
Winn Parish |  | Unclassifiable/Attainment
AQCR 106 S. Louisiana-S.E. Texas Interstate:
Acadia Parish |  | Unclassifiable/Attainment
Allen Parish |  | Unclassifiable/Attainment
Ascension Parish |  | Unclassifiable/Attainment
Assumption Parish |  | Unclassifiable/Attainment
Avoyelles Parish |  | Unclassifiable/Attainment
Beauregard Parish |  | Unclassifiable/Attainment
Calcasieu Parish |  | Unclassifiable/Attainment
Cameron Parish |  | Unclassifiable/Attainment
East Baton Rouge Parish |  | Unclassifiable/Attainment
East Feliciana Parish |  | Unclassifiable/Attainment
Evangeline Parish |  | Unclassifiable/Attainment
Grant Parish |  | Unclassifiable/Attainment
Iberia Parish |  | Unclassifiable/Attainment
Iberville Parish |  | Unclassifiable/Attainment
Jefferson Davis Parish |  | Unclassifiable/Attainment
Jefferson Parish |  | Unclassifiable/Attainment
Lafayette Parish |  | Unclassifiable/Attainment
Lafourche Parish |  | Unclassifiable/Attainment
Livingston Parish |  | Unclassifiable/Attainment
Orleans Parish |  | Unclassifiable/Attainment
Plaquemines Parish |  | Unclassifiable/Attainment
Pointe Coupee Parish |  | Unclassifiable/Attainment
Rapides Parish |  | Unclassifiable/Attainment
St. Bernard Parish |  | Unclassifiable/Attainment
St. Charles Parish |  | Unclassifiable/Attainment
St. Helena Parish |  | Unclassifiable/Attainment
St. James Parish |  | Unclassifiable/Attainment
St. John the Baptist Parish |  | Unclassifiable/Attainment
St. Landry Parish |  | Unclassifiable/Attainment
St. Martin Parish |  | Unclassifiable/Attainment
St. Tammany Parish |  | Unclassifiable/Attainment
Tangipahoa Parish |  | Unclassifiable/Attainment
Terrebonne Parish |  | Unclassifiable/Attainment
Vermilion Parish |  | Unclassifiable/Attainment
Vernon Parish |  | Unclassifiable/Attainment
Washington Parish |  | Unclassifiable/Attainment
West Baton Rouge Parish |  | Unclassifiable/Attainment
West Feliciana Parish |  | Unclassifiable/Attainment
¹ Includes areas of Indian country located in each county or area, except as otherwise specified.
² This date is April 15, 2015, unless otherwise noted.

* * * * *

21. Section 81.320 is amended by adding a table entitled “Maine—2012 Annual PM2.5 NAAQS (Primary)” following the table “Maine—1997 Annual PM2.5 NAAQS [Primary and secondary]” to read as follows:

§ 81.320 Maine.

* * * * *

Maine—2012 Annual PM2.5 NAAQS
[Primary]
Designated area ¹ | Designation: Date ² | Designation: Type | Classification: Date ² | Classification: Type
Statewide:
Androscoggin County |  | Unclassifiable/Attainment
Aroostook County |  | Unclassifiable/Attainment
Cumberland County |  | Unclassifiable/Attainment
Franklin County |  | Unclassifiable/Attainment
Hancock County |  | Unclassifiable/Attainment
Kennebec County |  | Unclassifiable/Attainment
Knox County |  | Unclassifiable/Attainment
Lincoln County |  | Unclassifiable/Attainment
Oxford County |  | Unclassifiable/Attainment
Penobscot County |  | Unclassifiable/Attainment
Piscataquis County |  | Unclassifiable/Attainment
Sagadahoc County |  | Unclassifiable/Attainment
Somerset County |  | Unclassifiable/Attainment
Waldo County |  | Unclassifiable/Attainment
Washington County |  | Unclassifiable/Attainment
York County |  | Unclassifiable/Attainment
¹ Includes areas of Indian country located in each county or area, except as otherwise specified.
² This date is April 15, 2015, unless otherwise noted.

* * * * *

22. Section 81.321 is amended by adding a table entitled “Maryland—2012 Annual PM2.5 NAAQS (Primary)” following the table “Maryland—1997 Annual PM2.5 NAAQS [Primary and secondary]” to read as follows:

§ 81.321 Maryland.

* * * * *

Maryland—2012 Annual PM2.5 NAAQS
[Primary]
Designated area ¹ | Designation: Date ² | Designation: Type | Classification: Date ² | Classification: Type
AQCR 047 National Capital Interstate (DC-MD-VA) (part):
Montgomery County |  | Unclassifiable/Attainment
Prince George's County |  | Unclassifiable/Attainment
Metropolitan Baltimore Intrastate AQCR:
Anne Arundel County |  | Unclassifiable/Attainment
Baltimore County |  | Unclassifiable/Attainment
City of Baltimore |  | Unclassifiable/Attainment
Carroll County |  | Unclassifiable/Attainment
Harford County |  | Unclassifiable/Attainment
Howard County |  | Unclassifiable/Attainment
AQCR 112 Central Maryland Intrastate:
Frederick County |  | Unclassifiable/Attainment
AQCR 113 Cumberland-Keyser Interstate:
Allegany County |  | Unclassifiable/Attainment
Garrett County |  | Unclassifiable/Attainment
Washington County |  | Unclassifiable/Attainment
AQCR 114 Eastern Shore Intrastate:
Caroline County |  | Unclassifiable/Attainment
Cecil County |  | Unclassifiable/Attainment
Dorchester County |  | Unclassifiable/Attainment
Kent County |  | Unclassifiable/Attainment
Queen Anne's County |  | Unclassifiable/Attainment
Somerset County |  | Unclassifiable/Attainment
Talbot County |  | Unclassifiable/Attainment
Wicomico County |  | Unclassifiable/Attainment
Worcester County |  | Unclassifiable/Attainment
AQCR 116 Southern Maryland Intrastate:
Calvert County |  | Unclassifiable/Attainment
Charles County |  | Unclassifiable/Attainment
St. Mary's County |  | Unclassifiable/Attainment
¹ Includes areas of Indian country located in each county or area, except as otherwise specified.
² This date is April 15, 2015, unless otherwise noted.

* * * * *

23. Section 81.322 is amended by adding a table entitled “Massachusetts—2012 Annual PM2.5 NAAQS (Primary)” following the table “Massachusetts—1997 Annual PM2.5 NAAQS [Primary and secondary]” to read as follows:

§ 81.322 Massachusetts.

* * * * *

Massachusetts—2012 Annual PM2.5 NAAQS
[Primary]
Designated area ¹ | Designation: Date ² | Designation: Type | Classification: Date ² | Classification: Type
Statewide:
Barnstable County |  | Unclassifiable/Attainment
Berkshire County |  | Unclassifiable/Attainment
Bristol County |  | Unclassifiable/Attainment
Dukes County |  | Unclassifiable/Attainment
Essex County |  | Unclassifiable/Attainment
Franklin County |  | Unclassifiable/Attainment
Hampden County |  | Unclassifiable/Attainment
Hampshire County |  | Unclassifiable/Attainment
Middlesex County |  | Unclassifiable/Attainment
Nantucket County |  | Unclassifiable/Attainment
Norfolk County |  | Unclassifiable/Attainment
Plymouth County |  | Unclassifiable/Attainment
Suffolk County |  | Unclassifiable/Attainment
Worcester County |  | Unclassifiable/Attainment
¹ Includes areas of Indian country located in each county or area, except as otherwise specified.
² This date is April 15, 2015, unless otherwise noted.

* * * * *

24. Section 81.323 is amended by adding a table entitled “Michigan—2012 Annual PM2.5 NAAQS (Primary)” following the table “Michigan—1997 Annual PM2.5 NAAQS [Primary and secondary]” to read as follows:

§ 81.323 Michigan.

* * * * *

Michigan—2012 Annual PM2.5 NAAQS
[Primary]
Designated area ¹ | Designation: Date ² | Designation: Type | Classification: Date ² | Classification: Type
Statewide:
Alcona County |  | Unclassifiable/Attainment
Alger County |  | Unclassifiable/Attainment
Allegan County |  | Unclassifiable/Attainment
Alpena County |  | Unclassifiable/Attainment
Antrim County |  | Unclassifiable/Attainment
Arenac County |  | Unclassifiable/Attainment
Baraga County |  | Unclassifiable/Attainment
Barry County |  | Unclassifiable/Attainment
Bay County |  | Unclassifiable/Attainment
Benzie County |  | Unclassifiable/Attainment
Berrien County |  | Unclassifiable/Attainment
Branch County |  | Unclassifiable/Attainment
Calhoun County |  | Unclassifiable/Attainment
Cass County |  | Unclassifiable/Attainment
Charlevoix County |  | Unclassifiable/Attainment
Cheboygan County |  | Unclassifiable/Attainment
Chippewa County |  | Unclassifiable/Attainment
Clare County |  | Unclassifiable/Attainment
Clinton County |  | Unclassifiable/Attainment
Crawford County |  | Unclassifiable/Attainment
Delta County |  | Unclassifiable/Attainment
Dickinson County |  | Unclassifiable/Attainment
Eaton County |  | Unclassifiable/Attainment
Emmet County |  | Unclassifiable/Attainment
Genesee County |  | Unclassifiable/Attainment
Gladwin County |  | Unclassifiable/Attainment
Gogebic County |  | Unclassifiable/Attainment
Grand Traverse County |  | Unclassifiable/Attainment
Gratiot County |  | Unclassifiable/Attainment
Hillsdale County |  | Unclassifiable/Attainment
Houghton County |  | Unclassifiable/Attainment
Huron County |  | Unclassifiable/Attainment
Ingham County |  | Unclassifiable/Attainment
Ionia County |  | Unclassifiable/Attainment
Iosco County |  | Unclassifiable/Attainment
Iron County |  | Unclassifiable/Attainment
Isabella County |  | Unclassifiable/Attainment
Jackson County |  | Unclassifiable/Attainment
Kalamazoo County |  | Unclassifiable/Attainment
Kalkaska County |  | Unclassifiable/Attainment
Kent County |  | Unclassifiable/Attainment
Keweenaw County |  | Unclassifiable/Attainment
Lake County |  | Unclassifiable/Attainment
Lapeer County |  | Unclassifiable/Attainment
Leelanau County |  | Unclassifiable/Attainment
Lenawee County |  | Unclassifiable/Attainment
Livingston County |  | Unclassifiable/Attainment
Luce County |  | Unclassifiable/Attainment
Mackinac County |  | Unclassifiable/Attainment
Macomb County |  | Unclassifiable/Attainment
Manistee County |  | Unclassifiable/Attainment
Marquette County |  | Unclassifiable/Attainment
Mason County |  | Unclassifiable/Attainment
Mecosta County |  | Unclassifiable/Attainment
Menominee County |  | Unclassifiable/Attainment
Midland County |  | Unclassifiable/Attainment
Missaukee County |  | Unclassifiable/Attainment
Monroe County |  | Unclassifiable/Attainment
Montcalm County |  | Unclassifiable/Attainment
Montmorency County |  | Unclassifiable/Attainment
Muskegon County |  | Unclassifiable/Attainment
Newaygo County |  | Unclassifiable/Attainment
Oakland County |  | Unclassifiable/Attainment
Oceana County |  | Unclassifiable/Attainment
Ogemaw County |  | Unclassifiable/Attainment
Ontonagon County |  | Unclassifiable/Attainment
Osceola County |  | Unclassifiable/Attainment
Oscoda County |  | Unclassifiable/Attainment
Otsego County |  | Unclassifiable/Attainment
Ottawa County |  | Unclassifiable/Attainment
Presque Isle County |  | Unclassifiable/Attainment
Roscommon County |  | Unclassifiable/Attainment
Saginaw County |  | Unclassifiable/Attainment
St. Clair County |  | Unclassifiable/Attainment
St. Joseph County |  | Unclassifiable/Attainment
Sanilac County |  | Unclassifiable/Attainment
Schoolcraft County |  | Unclassifiable/Attainment
Shiawassee County |  | Unclassifiable/Attainment
Tuscola County |  | Unclassifiable/Attainment
Van Buren County |  | Unclassifiable/Attainment
Washtenaw County |  | Unclassifiable/Attainment
Wayne County |  | Unclassifiable/Attainment
Wexford County |  | Unclassifiable/Attainment
¹ Includes areas of Indian country located in each county or area, except as otherwise specified.
² This date is April 15, 2015, unless otherwise noted.

* * * * *

25. Section 81.324 is amended by adding a table entitled “Minnesota—2012 Annual PM2.5 NAAQS (Primary)” following the table “Minnesota—1997 Annual PM2.5 NAAQS [Primary and secondary]” to read as follows:

§ 81.324 Minnesota.

* * * * *

Minnesota—2012 Annual PM2.5 NAAQS
[Primary]
Designated area ¹ | Designation: Date ² | Designation: Type | Classification: Date ² | Classification: Type
Statewide:
Aitkin County |  | Unclassifiable/Attainment
Anoka County |  | Unclassifiable/Attainment
Becker County |  | Unclassifiable/Attainment
Beltrami County |  | Unclassifiable/Attainment
Benton County |  | Unclassifiable/Attainment
Big Stone County |  | Unclassifiable/Attainment
Blue Earth County |  | Unclassifiable/Attainment
Brown County |  | Unclassifiable/Attainment
Carlton County |  | Unclassifiable/Attainment
Carver County |  | Unclassifiable/Attainment
Cass County |  | Unclassifiable/Attainment
Chippewa County |  | Unclassifiable/Attainment
Chisago County |  | Unclassifiable/Attainment
Clay County |  | Unclassifiable/Attainment
Clearwater County |  | Unclassifiable/Attainment
Cook County |  | Unclassifiable/Attainment
Cottonwood County |  | Unclassifiable/Attainment
Crow Wing County |  | Unclassifiable/Attainment
Dakota County |  | Unclassifiable/Attainment
Dodge County |  | Unclassifiable/Attainment
Douglas County |  | Unclassifiable/Attainment
Faribault County |  | Unclassifiable/Attainment
Fillmore County |  | Unclassifiable/Attainment
Freeborn County |  | Unclassifiable/Attainment
Goodhue County |  | Unclassifiable/Attainment
Grant County |  | Unclassifiable/Attainment
Hennepin County |  | Unclassifiable/Attainment
Houston County |  | Unclassifiable/Attainment
Hubbard County |  | Unclassifiable/Attainment
Isanti County |  | Unclassifiable/Attainment
Itasca County |  | Unclassifiable/Attainment
Jackson County |  | Unclassifiable/Attainment
Kanabec County |  | Unclassifiable/Attainment
Kandiyohi County |  | Unclassifiable/Attainment
Kittson County |  | Unclassifiable/Attainment
Koochiching County |  | Unclassifiable/Attainment
Lac qui Parle County |  | Unclassifiable/Attainment
Lake County |  | Unclassifiable/Attainment
Lake of the Woods County |  | Unclassifiable/Attainment
Le Sueur County |  | Unclassifiable/Attainment
Lincoln County |  | Unclassifiable/Attainment
Lyon County |  | Unclassifiable/Attainment
McLeod County |  | Unclassifiable/Attainment
Mahnomen County |  | Unclassifiable/Attainment
Marshall County |  | Unclassifiable/Attainment
Martin County |  | Unclassifiable/Attainment
Meeker County |  | Unclassifiable/Attainment
Mille Lacs County |  | Unclassifiable/Attainment
Morrison County |  | Unclassifiable/Attainment
Mower County |  | Unclassifiable/Attainment
Murray County |  | Unclassifiable/Attainment
Nicollet County |  | Unclassifiable/Attainment
Nobles County |  | Unclassifiable/Attainment
Norman County |  | Unclassifiable/Attainment
Olmsted County |  | Unclassifiable/Attainment
Otter Tail County |  | Unclassifiable/Attainment
Pennington County |  | Unclassifiable/Attainment
Pine County |  | Unclassifiable/Attainment
Pipestone County |  | Unclassifiable/Attainment
Polk County |  | Unclassifiable/Attainment
Pope County |  | Unclassifiable/Attainment
Ramsey County |  | Unclassifiable/Attainment
Red Lake County |  | Unclassifiable/Attainment
Redwood County |  | Unclassifiable/Attainment
Renville County |  | Unclassifiable/Attainment
Rice County |  | Unclassifiable/Attainment
Rock County |  | Unclassifiable/Attainment
Roseau County |  | Unclassifiable/Attainment
St. Louis County |  | Unclassifiable/Attainment
Scott County |  | Unclassifiable/Attainment
Sherburne County |  | Unclassifiable/Attainment
Sibley County |  | Unclassifiable/Attainment
Stearns County |  | Unclassifiable/Attainment
Steele County |  | Unclassifiable/Attainment
Stevens County |  | Unclassifiable/Attainment
Swift County |  | Unclassifiable/Attainment
Todd County |  | Unclassifiable/Attainment
Traverse County |  | Unclassifiable/Attainment
Wabasha County |  | Unclassifiable/Attainment
Wadena County |  | Unclassifiable/Attainment
Waseca County |  | Unclassifiable/Attainment
Washington County |  | Unclassifiable/Attainment
Watonwan County |  | Unclassifiable/Attainment
Wilkin County |  | Unclassifiable/Attainment
Winona County |  | Unclassifiable/Attainment
Wright County |  | Unclassifiable/Attainment
Yellow Medicine County |  | Unclassifiable/Attainment
¹ Includes areas of Indian country located in each county or area, except as otherwise specified.
² This date is April 15, 2015, unless otherwise noted.

* * * * *

26. Section 81.325 is amended by adding a table entitled “Mississippi—2012 Annual PM2.5 NAAQS (Primary)” following the table “Mississippi—1997 Annual PM2.5 NAAQS [Primary and secondary]” to read as follows:

§ 81.325 Mississippi.

* * * * *

Mississippi—2012 Annual PM2.5 NAAQS
[Primary]
Designated area ¹ | Designation: Date ² | Designation: Type | Classification: Date ² | Classification: Type
Statewide:
Adams County |  | Unclassifiable/Attainment
Alcorn County |  | Unclassifiable/Attainment
Amite County |  | Unclassifiable/Attainment
Attala County |  | Unclassifiable/Attainment
Benton County |  | Unclassifiable/Attainment
Bolivar County |  | Unclassifiable/Attainment
Calhoun County |  | Unclassifiable/Attainment
Carroll County |  | Unclassifiable/Attainment
Chickasaw County |  | Unclassifiable/Attainment
Choctaw County |  | Unclassifiable/Attainment
Claiborne County |  | Unclassifiable/Attainment
Clarke County |  | Unclassifiable/Attainment
Clay County |  | Unclassifiable/Attainment
Coahoma County |  | Unclassifiable/Attainment
Copiah County |  | Unclassifiable/Attainment
Covington County |  | Unclassifiable/Attainment
DeSoto County |  | Unclassifiable/Attainment
Forrest County |  | Unclassifiable/Attainment
Franklin County |  | Unclassifiable/Attainment
George County |  | Unclassifiable/Attainment
Greene County |  | Unclassifiable/Attainment
Grenada County |  | Unclassifiable/Attainment
Hancock County |  | Unclassifiable/Attainment
Harrison County |  | Unclassifiable/Attainment
Hinds County |  | Unclassifiable/Attainment
Holmes County |  | Unclassifiable/Attainment
Humphreys County |  | Unclassifiable/Attainment
Issaquena County |  | Unclassifiable/Attainment
Itawamba County |  | Unclassifiable/Attainment
Jackson County |  | Unclassifiable/Attainment
Jasper County |  | Unclassifiable/Attainment
Jefferson County |  | Unclassifiable/Attainment
Jefferson Davis County |  | Unclassifiable/Attainment
Jones County |  | Unclassifiable/Attainment
Kemper County |  | Unclassifiable/Attainment
Lafayette County |  | Unclassifiable/Attainment
Lamar County |  | Unclassifiable/Attainment
Lauderdale County |  | Unclassifiable/Attainment
Lawrence County |  | Unclassifiable/Attainment
Leake County |  | Unclassifiable/Attainment
Lee County |  | Unclassifiable/Attainment
Leflore County |  | Unclassifiable/Attainment
Lincoln County |  | Unclassifiable/Attainment
Lowndes County |  | Unclassifiable/Attainment
Madison County |  | Unclassifiable/Attainment
Marion County |  | Unclassifiable/Attainment
Marshall County |  | Unclassifiable/Attainment
Monroe County |  | Unclassifiable/Attainment
Montgomery County |  | Unclassifiable/Attainment
Neshoba County |  | Unclassifiable/Attainment
Newton County |  | Unclassifiable/Attainment
Noxubee County |  | Unclassifiable/Attainment
Oktibbeha County |  | Unclassifiable/Attainment
Panola County |  | Unclassifiable/Attainment
Pearl River County |  | Unclassifiable/Attainment
Perry County |  | Unclassifiable/Attainment
Pike County |  | Unclassifiable/Attainment
Pontotoc County |  | Unclassifiable/Attainment
Prentiss County |  | Unclassifiable/Attainment
Quitman County |  | Unclassifiable/Attainment
Rankin County |  | Unclassifiable/Attainment
Scott County |  | Unclassifiable/Attainment
Sharkey County |  | Unclassifiable/Attainment
Simpson County |  | Unclassifiable/Attainment
Smith County |  | Unclassifiable/Attainment
Stone County |  | Unclassifiable/Attainment
Sunflower County |  | Unclassifiable/Attainment
Tallahatchie County |  | Unclassifiable/Attainment
Tate County |  | Unclassifiable/Attainment
Tippah County |  | Unclassifiable/Attainment
Tishomingo County |  | Unclassifiable/Attainment
Tunica County |  | Unclassifiable/Attainment
Union County |  | Unclassifiable/Attainment
Walthall County |  | Unclassifiable/Attainment
Warren County |  | Unclassifiable/Attainment
Washington County |  | Unclassifiable/Attainment
Wayne County |  | Unclassifiable/Attainment
Webster County |  | Unclassifiable/Attainment
Wilkinson County |  | Unclassifiable/Attainment
Winston County |  | Unclassifiable/Attainment
Yalobusha County |  | Unclassifiable/Attainment
Yazoo County |  | Unclassifiable/Attainment
¹ Includes areas of Indian country located in each county or area, except as otherwise specified.
² This date is April 15, 2015, unless otherwise noted.

* * * * *

27. Section 81.326 is amended by adding a table entitled “Missouri—2012 Annual PM2.5 NAAQS (Primary)” following the table “Missouri—1997 Annual PM2.5 NAAQS [Primary and secondary]” to read as follows:

§ 81.326 Missouri.

* * * * *

Missouri—2012 Annual PM2.5 NAAQS
[Primary]
Designated area ¹ | Designation: Date ² | Designation: Type | Classification: Date ² | Classification: Type
St. Louis Area, MO-IL:
Franklin County |  | Unclassifiable
Jefferson County |  | Unclassifiable
St. Charles County |  | Unclassifiable
St. Louis County |  | Unclassifiable
St. Louis City |  | Unclassifiable
Rest of State:
Adair County |  | Unclassifiable/Attainment
Andrew County |  | Unclassifiable/Attainment
Atchison County |  | Unclassifiable/Attainment
Audrain County |  | Unclassifiable/Attainment
Barry County |  | Unclassifiable/Attainment
Barton County |  | Unclassifiable/Attainment
Bates County |  | Unclassifiable/Attainment
Benton County |  | Unclassifiable/Attainment
Bollinger County |  | Unclassifiable/Attainment
Boone County |  | Unclassifiable/Attainment
Buchanan County |  | Unclassifiable/Attainment
Butler County |  | Unclassifiable/Attainment
Caldwell County |  | Unclassifiable/Attainment
Callaway County |  | Unclassifiable/Attainment
Camden County |  | Unclassifiable/Attainment
Cape Girardeau County |  | Unclassifiable/Attainment
Carroll County |  | Unclassifiable/Attainment
Carter County |  | Unclassifiable/Attainment
Cass County |  | Unclassifiable/Attainment
Cedar County |  | Unclassifiable/Attainment
Chariton County |  | Unclassifiable/Attainment
Christian County |  | Unclassifiable/Attainment
Clark County |  | Unclassifiable/Attainment
Clay County |  | Unclassifiable/Attainment
Clinton County |  | Unclassifiable/Attainment
Cole County |  | Unclassifiable/Attainment
Cooper County |  | Unclassifiable/Attainment
Crawford County |  | Unclassifiable/Attainment
Dade County |  | Unclassifiable/Attainment
Dallas County |  | Unclassifiable/Attainment
Daviess County |  | Unclassifiable/Attainment
DeKalb County |  | Unclassifiable/Attainment
Dent County |  | Unclassifiable/Attainment
Douglas County |  | Unclassifiable/Attainment
Dunklin County |  | Unclassifiable/Attainment
Gasconade County |  | Unclassifiable/Attainment
Gentry County |  | Unclassifiable/Attainment
Greene County |  | Unclassifiable/Attainment
Grundy County |  | Unclassifiable/Attainment
Harrison County |  | Unclassifiable/Attainment
Henry County |  | Unclassifiable/Attainment
Hickory County |  | Unclassifiable/Attainment
Holt County |  | Unclassifiable/Attainment
Howard County |  | Unclassifiable/Attainment
Howell County |  | Unclassifiable/Attainment
Iron County |  | Unclassifiable/Attainment
Jackson County |  | Unclassifiable/Attainment
Jasper County |  | Unclassifiable/Attainment
Johnson County |  | Unclassifiable/Attainment
Knox County |  | Unclassifiable/Attainment
Laclede County |  | Unclassifiable/Attainment
Lafayette County |  | Unclassifiable/Attainment
Lawrence County |  | Unclassifiable/Attainment
Lewis County |  | Unclassifiable/Attainment
Lincoln County |  | Unclassifiable/Attainment
Linn County |  | Unclassifiable/Attainment
Livingston County |  | Unclassifiable/Attainment
McDonald County |  | Unclassifiable/Attainment
Macon County |  | Unclassifiable/Attainment
Madison County |  | Unclassifiable/Attainment
Maries County |  | Unclassifiable/Attainment
Marion County |  | Unclassifiable/Attainment
Mercer County |  | Unclassifiable/Attainment
Miller County |  | Unclassifiable/Attainment
Mississippi County |  | Unclassifiable/Attainment
Moniteau County |  | Unclassifiable/Attainment
Monroe County |  | Unclassifiable/Attainment
Montgomery County |  | Unclassifiable/Attainment
Morgan County |  | Unclassifiable/Attainment
New Madrid County |  | Unclassifiable/Attainment
Newton County |  | Unclassifiable/Attainment
Nodaway County |  | Unclassifiable/Attainment
Oregon County |  | Unclassifiable/Attainment
Osage County |  | Unclassifiable/Attainment
Ozark County |  | Unclassifiable/Attainment
Pemiscot County |  | Unclassifiable/Attainment
Perry County |  | Unclassifiable/Attainment
Pettis County |  | Unclassifiable/Attainment
Phelps County |  | Unclassifiable/Attainment
Pike County |  | Unclassifiable/Attainment
Platte County |  | Unclassifiable/Attainment
Polk County |  | Unclassifiable/Attainment
Pulaski County |  | Unclassifiable/Attainment
Putnam County |  | Unclassifiable/Attainment
Ralls County |  | Unclassifiable/Attainment
Randolph County |  | Unclassifiable/Attainment
Ray County |  | Unclassifiable/Attainment
Reynolds County |  | Unclassifiable/Attainment
Ripley County |  | Unclassifiable/Attainment
St Clair County |  | Unclassifiable/Attainment
St Genevieve County |  | Unclassifiable/Attainment
St Francois County |  | Unclassifiable/Attainment
Saline County |  | Unclassifiable/Attainment
Schuyler County |  | Unclassifiable/Attainment
Scotland County |  | Unclassifiable/Attainment
Scott County |  | Unclassifiable/Attainment
Shannon County |  | Unclassifiable/Attainment
Shelby County |  | Unclassifiable/Attainment
Stoddard County |  | Unclassifiable/Attainment
Stone County |  | Unclassifiable/Attainment
Sullivan County |  | Unclassifiable/Attainment
Taney County |  | Unclassifiable/Attainment
Texas County |  | Unclassifiable/Attainment
Vernon County |  | Unclassifiable/Attainment
Warren County |  | Unclassifiable/Attainment
Washington County |  | Unclassifiable/Attainment
Wayne County |  | Unclassifiable/Attainment
Webster County |  | Unclassifiable/Attainment
Worth County |  | Unclassifiable/Attainment
Wright County |  | Unclassifiable/Attainment
¹ Includes areas of Indian country located in each county or area, except as otherwise specified.
² This date is April 15, 2015, unless otherwise noted.

* * * * *

28. Section 81.327 is amended by adding a table entitled “Montana—2012 Annual PM2.5 NAAQS (Primary)” following the table “Montana—1997 Annual PM2.5 NAAQS [Primary and secondary]” to read as follows:

§ 81.327 Montana.

* * * * *

Montana—2012 Annual PM2.5 NAAQS
[Primary]
Designated area ¹ | Designation: Date ² | Designation: Type | Classification: Date ² | Classification: Type
Statewide:
Beaverhead County |  | Unclassifiable/Attainment
Big Horn County |  | Unclassifiable/Attainment
Blaine County |  | Unclassifiable/Attainment
Broadwater County |  | Unclassifiable/Attainment
Carbon County |  | Unclassifiable/Attainment
Carter County |  | Unclassifiable/Attainment
Cascade County |  | Unclassifiable/Attainment
Chouteau County |  | Unclassifiable/Attainment
Custer County |  | Unclassifiable/Attainment
Daniels County |  | Unclassifiable/Attainment
Dawson County |  | Unclassifiable/Attainment
Deer Lodge County |  | Unclassifiable/Attainment
Fallon County |  | Unclassifiable/Attainment
Fergus County |  | Unclassifiable/Attainment
Flathead County |  | Unclassifiable/Attainment
Gallatin County |  | Unclassifiable/Attainment
Garfield County |  | Unclassifiable/Attainment
Glacier County |  | Unclassifiable/Attainment
Golden Valley County |  | Unclassifiable/Attainment
Granite County |  | Unclassifiable/Attainment
Hill County |  | Unclassifiable/Attainment
Jefferson County |  | Unclassifiable/Attainment
Judith Basin County |  | Unclassifiable/Attainment
Lake County |  | Unclassifiable/Attainment
Lewis and Clark County |  | Unclassifiable/Attainment
Liberty County |  | Unclassifiable/Attainment
Lincoln County |  | Unclassifiable/Attainment
McCone County |  | Unclassifiable/Attainment
Madison County |  | Unclassifiable/Attainment
Meagher County |  | Unclassifiable/Attainment
Mineral County |  | Unclassifiable/Attainment
Missoula County |  | Unclassifiable/Attainment
Musselshell County |  | Unclassifiable/Attainment
Park County |  | Unclassifiable/Attainment
Petroleum County |  | Unclassifiable/Attainment
Phillips County |  | Unclassifiable/Attainment
Pondera County |  | Unclassifiable/Attainment
Powder River County |  | Unclassifiable/Attainment
Powell County |  | Unclassifiable/Attainment
Prairie County |  | Unclassifiable/Attainment
Ravalli County |  | Unclassifiable/Attainment
Richland County |  | Unclassifiable/Attainment
Roosevelt County |  | Unclassifiable/Attainment
Rosebud County |  | Unclassifiable/Attainment
Sanders County |  | Unclassifiable/Attainment
Sheridan County |  | Unclassifiable/Attainment
Silver Bow County |  | Unclassifiable/Attainment
Stillwater County |  | Unclassifiable/Attainment
Sweet Grass County |  | Unclassifiable/Attainment
Teton County |  | Unclassifiable/Attainment
Toole County |  | Unclassifiable/Attainment
Treasure County |  | Unclassifiable/Attainment
Valley County |  | Unclassifiable/Attainment
Wheatland County |  | Unclassifiable/Attainment
Wibaux County |  | Unclassifiable/Attainment
Yellowstone County |  | Unclassifiable/Attainment
¹ Includes areas of Indian country located in each county or area, except as otherwise specified.
² This date is April 15, 2015, unless otherwise noted.

* * * * *

29. Section 81.328 is amended by adding a table entitled “Nebraska—2012 Annual PM2.5 NAAQS (Primary)” following the table “Nebraska—1997 Annual PM2.5 NAAQS [Primary and secondary]” to read as follows:

§ 81.328 Nebraska.

* * * * *

Nebraska—2012 Annual PM2.5 NAAQS
[Primary]
Designated area ¹ | Designation: Date ² | Designation: Type | Classification: Date ² | Classification: Type
Statewide:
Adams County |  | Unclassifiable/Attainment
Antelope County |  | Unclassifiable/Attainment
Arthur County |  | Unclassifiable/Attainment
Banner County |  | Unclassifiable/Attainment
Blaine County |  | Unclassifiable/Attainment
Boone County |  | Unclassifiable/Attainment
Box Butte County |  | Unclassifiable/Attainment
Boyd County |  | Unclassifiable/Attainment
Brown County |  | Unclassifiable/Attainment
Buffalo County |  | Unclassifiable/Attainment
Burt County |  | Unclassifiable/Attainment
Butler County |  | Unclassifiable/Attainment
Cass County |  | Unclassifiable/Attainment
Cedar County |  | Unclassifiable/Attainment
Chase County |  | Unclassifiable/Attainment
Cherry County |  | Unclassifiable/Attainment
Cheyenne County |  | Unclassifiable/Attainment
Clay County |  | Unclassifiable/Attainment
Colfax County |  | Unclassifiable/Attainment
Cuming County |  | Unclassifiable/Attainment
Custer County |  | Unclassifiable/Attainment
Dakota County |  | Unclassifiable/Attainment
Dawes County |  | Unclassifiable/Attainment
Dawson County |  | Unclassifiable/Attainment
Deuel County |  | Unclassifiable/Attainment
Dixon County |  | Unclassifiable/Attainment
Dodge County |  | Unclassifiable/Attainment
Douglas County |  | Unclassifiable/Attainment
Dundy County |  | Unclassifiable/Attainment
Fillmore County |  | Unclassifiable/Attainment
Franklin County |  | Unclassifiable/Attainment
Frontier County |  | Unclassifiable/Attainment
Furnas County |  | Unclassifiable/Attainment
Gage County |  | Unclassifiable/Attainment
Garden County |  | Unclassifiable/Attainment
Garfield County |  | Unclassifiable/Attainment
Gosper County |  | Unclassifiable/Attainment
Grant County |  | Unclassifiable/Attainment
Greeley County |  | Unclassifiable/Attainment
Hall County |  | Unclassifiable/Attainment
Hamilton County |  | Unclassifiable/Attainment
Harlan County |  | Unclassifiable/Attainment
Hayes County |  | Unclassifiable/Attainment
Hitchcock County |  | Unclassifiable/Attainment
Holt County |  | Unclassifiable/Attainment
Hooker County |  | Unclassifiable/Attainment
Howard County |  | Unclassifiable/Attainment
Jefferson County |  | Unclassifiable/Attainment
Johnson County |  | Unclassifiable/Attainment
Kearney County |  | Unclassifiable/Attainment
Keith County |  | Unclassifiable/Attainment
Keya Paha County |  | Unclassifiable/Attainment
Kimball County |  | Unclassifiable/Attainment
Knox County |  | Unclassifiable/Attainment
Lancaster County |  | Unclassifiable/Attainment
Lincoln County |  | Unclassifiable/Attainment
Logan County |  | Unclassifiable/Attainment
Loup County |  | Unclassifiable/Attainment
McPherson County |  | Unclassifiable/Attainment
Madison County |  | Unclassifiable/Attainment
Merrick County |  | Unclassifiable/Attainment
Morrill County |  | Unclassifiable/Attainment
Nance County |  | Unclassifiable/Attainment
Nemaha County |  | Unclassifiable/Attainment
Nuckolls County |  | Unclassifiable/Attainment
Otoe County |  | Unclassifiable/Attainment
Pawnee County |  | Unclassifiable/Attainment
Perkins County |  | Unclassifiable/Attainment
Phelps County |  | Unclassifiable/Attainment
Pierce County |  | Unclassifiable/Attainment
Platte County |  | Unclassifiable/Attainment
Polk County |  | Unclassifiable/Attainment
Red Willow County |  | Unclassifiable/Attainment
Richardson County |  | Unclassifiable/Attainment
Rock County |  | Unclassifiable/Attainment
Saline County |  | Unclassifiable/Attainment
Sarpy County |  | Unclassifiable/Attainment
Saunders County |  | Unclassifiable/Attainment
Scotts Bluff County |  | Unclassifiable/Attainment
Seward County |  | Unclassifiable/Attainment
Sheridan County |  | Unclassifiable/Attainment
Sherman County |  | Unclassifiable/Attainment
Sioux County |  | Unclassifiable/Attainment
Stanton County |  | Unclassifiable/Attainment
Thayer County |  | Unclassifiable/Attainment
Thomas County |  | Unclassifiable/Attainment
Thurston County |  | Unclassifiable/Attainment
Valley County |  | Unclassifiable/Attainment
Washington County |  | Unclassifiable/Attainment
Wayne County |  | Unclassifiable/Attainment
Webster County |  | Unclassifiable/Attainment
Wheeler County |  | Unclassifiable/Attainment
York County |  | Unclassifiable/Attainment
¹ Includes areas of Indian country located in each county or area, except as otherwise specified.
² This date is April 15, 2015, unless otherwise noted.

* * * * *

30. Section 81.329 is amended by adding a table entitled “Nevada—2012 Annual PM2.5 NAAQS (Primary)” following the table “Nevada—1997 Annual PM2.5 NAAQS [Primary and secondary]” to read as follows:

§ 81.329 Nevada.

* * * * *

Nevada—2012 Annual PM2.5 NAAQS
[Primary]
Designated area ¹ | Designation: Date ² | Designation: Type | Classification: Date ² | Classification: Type
Statewide ³ |  | Unclassifiable/Attainment
¹ Includes areas of Indian country located in each county or area, except as otherwise specified.
² This date is April 15, 2015, unless otherwise noted.
³ Statewide refers to hydrographic areas as shown on the State of Nevada Division of Water Resources' map titled “Water Resources and Inter-basin Flows” (September 1971), as revised to include a division of Carson Desert (area 101) into two areas, a smaller area 101 and area 101A, and a division of Boulder Flat (area 61) into an Upper Unit 61 and a Lower Unit 61. See also 67 FR 12474 (March 19, 2002).

* * * * *

31. Section 81.330 is amended by adding a table entitled “New Hampshire—2012 Annual PM2.5 NAAQS (Primary)” following the table “New Hampshire—1997 Annual PM2.5 NAAQS [Primary and secondary]” to read as follows:

§ 81.330 New Hampshire.

* * * * *

New Hampshire—2012 Annual PM2.5 NAAQS
[Primary]
Designated area ¹ | Designation: Date ² | Designation: Type | Classification: Date ² | Classification: Type
Statewide:
Belknap County |  | Unclassifiable/Attainment
Carroll County |  | Unclassifiable/Attainment
Cheshire County |  | Unclassifiable/Attainment
Coos County |  | Unclassifiable/Attainment
Grafton County |  | Unclassifiable/Attainment
Hillsborough County |  | Unclassifiable/Attainment
Merrimack County |  | Unclassifiable/Attainment
Rockingham County |  | Unclassifiable/Attainment
Strafford County |  | Unclassifiable/Attainment
Sullivan County |  | Unclassifiable/Attainment
¹ Includes areas of Indian country located in each county or area, except as otherwise specified.
² This date is April 15, 2015, unless otherwise noted.

* * * * *

32. Section 81.331 is amended by adding a table entitled “New Jersey—2012 Annual PM2.5 NAAQS (Primary)” following the table “New Jersey—1997 Annual PM2.5 NAAQS [Primary and secondary]” to read as follows:

§ 81.331 New Jersey.

* * * * *

New Jersey—2012 Annual PM2.5 NAAQS
[Primary]
Designated area ¹ | Designation: Date ² | Designation: Type | Classification: Date ² | Classification: Type
New York-N. New Jersey-Long Island, NY-NJ-CT:
Bergen County |  | Unclassifiable/Attainment
Essex County |  | Unclassifiable/Attainment
Hudson County |  | Unclassifiable/Attainment
Mercer County |  | Unclassifiable/Attainment
Middlesex County |  | Unclassifiable/Attainment
Monmouth County |  | Unclassifiable/Attainment
Morris County |  | Unclassifiable/Attainment
Passaic County |  | Unclassifiable/Attainment
Somerset County |  | Unclassifiable/Attainment
Union County |  | Unclassifiable/Attainment
Philadelphia-Wilmington, PA-NJ-DE:
Burlington County |  | Unclassifiable/Attainment
Camden County |  | Unclassifiable/Attainment
Gloucester County |  | Unclassifiable/Attainment
New York-N. New Jersey-Long Island, NY-NJ-CT:
Hunterdon County |  | Unclassifiable/Attainment
Sussex County |  | Unclassifiable/Attainment
Warren County |  | Unclassifiable/Attainment
Atlantic City, NJ:
Atlantic County |  | Unclassifiable/Attainment
Cape May County |  | Unclassifiable/Attainment
Cumberland County |  | Unclassifiable/Attainment
Ocean County |  | Unclassifiable/Attainment
Salem County |  | Unclassifiable/Attainment
¹ Includes areas of Indian country located in each county or area, except as otherwise specified.
² This date is April 15, 2015, unless otherwise noted.

* * * * *

33. Section 81.332 is amended by adding a table entitled “New Mexico—2012 Annual PM2.5 NAAQS (Primary)” following the table “New Mexico—1997 Annual PM2.5 NAAQS [Primary and secondary]” to read as follows:

§ 81.332 New Mexico.

* * * * *

New Mexico—2012 Annual PM2.5 NAAQS
[Primary]
Designated area ¹ | Designation: Date ² | Designation: Type | Classification: Date ² | Classification: Type
AQCR 012 New Mexico-Southern Border Intrastate:
Grant County |  | Unclassifiable/Attainment
Hidalgo County |  | Unclassifiable/Attainment
Luna County |  | Unclassifiable/Attainment
AQCR 014 Four Corners Interstate (see 40 CFR 81.121):
McKinley County (part) |  | Unclassifiable/Attainment
Río Arriba County (part) |  | Unclassifiable/Attainment
Sandoval County (part) |  | Unclassifiable/Attainment
San Juan County |  | Unclassifiable/Attainment
Valencia County (part) |  | Unclassifiable/Attainment
AQCR 152 Albuquerque-Mid Rio Grande Intrastate:
Bernalillo County |  | Unclassifiable/Attainment
Sandoval County (part) see 40 CFR 81.83 |  | Unclassifiable/Attainment
Valencia County (part) see 40 CFR 81.83 |  | Unclassifiable/Attainment
AQCR 153 El Paso-Las Cruces-Alamogordo:
Doña Ana County (part) |  | Unclassifiable/Attainment
(Sunland Park Area) The area bounded by the New Mexico-Texas State line on the east, New Mexico-Mexico international line on the south, the range 3E-Range 2E line on the west, and the N3200 latitude line on the north.
Doña Ana County (remainder) |  | Unclassifiable/Attainment
Lincoln County |  | Unclassifiable/Attainment
Otero County |  | Unclassifiable/Attainment
Sierra County |  | Unclassifiable/Attainment
AQCR 154 Northeastern Plains Intrastate:
Colfax County |  | Unclassifiable/Attainment
Guadalupe County |  | Unclassifiable/Attainment
Harding County |  | Unclassifiable/Attainment
Mora County |  | Unclassifiable/Attainment
San Miguel County |  | Unclassifiable/Attainment
Torrance County |  | Unclassifiable/Attainment
Union County |  | Unclassifiable/Attainment
AQCR 155 Pecos-Permian Basin Intrastate:
Chaves County |  | Unclassifiable/Attainment
Curry County |  | Unclassifiable/Attainment
De Baca County |  | Unclassifiable/Attainment
Eddy County |  | Unclassifiable/Attainment
Lea County |  | Unclassifiable/Attainment
Quay County |  | Unclassifiable/Attainment
Roosevelt County |  | Unclassifiable/Attainment
AQCR 156 SW Mountains-Augustine Plains:
Catron County |  | Unclassifiable/Attainment
Cibola County |  | Unclassifiable/Attainment
McKinley County (part) see 40 CFR 81.241 |  | Unclassifiable/Attainment
Socorro County |  | Unclassifiable/Attainment
Valencia County (part) see 40 CFR 81.241 |  | Unclassifiable/Attainment
AQCR 157 Upper Rio Grande Valley Intrastate:
Los Alamos County |  | Unclassifiable/Attainment
Río Arriba County (part) see 40 CFR 81.239 |  | Unclassifiable/Attainment
Santa Fe County |  | Unclassifiable/Attainment
Taos County |  | Unclassifiable/Attainment
¹ Includes areas of Indian country located in each county or area, except as otherwise specified.
² This date is April 15, 2015, unless otherwise noted.

* * * * *

34. Section 81.333 is amended by adding a table entitled “New York—2012 Annual PM2.5 NAAQS (Primary)” following the table “New York—1997 Annual PM2.5 NAAQS [Primary and secondary]” to read as follows:

§ 81.333 New York.

* * * * *

New York—2012 Annual PM2.5 NAAQS
[Primary]
Designated area ¹ | Designation: Date ² | Designation: Type | Classification: Date ² | Classification: Type
Albany-Schenectady-Troy, NY:
Albany County |  | Unclassifiable/Attainment
Greene County |  | Unclassifiable/Attainment
Montgomery County |  | Unclassifiable/Attainment
Rensselaer County |  | Unclassifiable/Attainment
Saratoga County |  | Unclassifiable/Attainment
Schenectady County |  | Unclassifiable/Attainment
Schoharie County |  | Unclassifiable/Attainment
Buffalo-Niagara Falls, NY:
Erie County |  | Unclassifiable/Attainment
Niagara County |  | Unclassifiable/Attainment
Essex County, NY:
Essex County |  | Unclassifiable/Attainment
Jamestown, NY:
Chautauqua County |  | Unclassifiable/Attainment
Jefferson County, NY:
Jefferson County |  | Unclassifiable/Attainment
New York-N. New Jersey-Long Island, NY-NJ-CT:
Bronx County |  | Unclassifiable/Attainment
Kings County |  | Unclassifiable/Attainment
Nassau County |  | Unclassifiable/Attainment
New York County |  | Unclassifiable/Attainment
Orange County |  | Unclassifiable/Attainment
Queens County |  | Unclassifiable/Attainment
Richmond County |  | Unclassifiable/Attainment
Rockland County |  | Unclassifiable/Attainment
Suffolk County |  | Unclassifiable/Attainment
Westchester County |  | Unclassifiable/Attainment
Poughkeepsie, NY:
Dutchess County |  | Unclassifiable/Attainment
Putnam County |  | Unclassifiable/Attainment
Rochester, NY:
Genesee County |  | Unclassifiable/Attainment
Livingston County |  | Unclassifiable/Attainment
Monroe County |  | Unclassifiable/Attainment
Ontario County |  | Unclassifiable/Attainment
Orleans County |  | Unclassifiable/Attainment
Wayne County |  | Unclassifiable/Attainment
Syracuse, NY:
Cayuga County |  | Unclassifiable/Attainment
Madison County |  | Unclassifiable/Attainment
Onondaga County |  | Unclassifiable/Attainment
Oswego County |  | Unclassifiable/Attainment
AQCR 158 Central New York Intrastate (remainder of):
Cortland County |  | Unclassifiable/Attainment
Herkimer County |  | Unclassifiable/Attainment
Lewis County |  | Unclassifiable/Attainment
Oneida County |  | Unclassifiable/Attainment
AQCR 159 Champlain Valley Interstate (remainder of):
Clinton County |  | Unclassifiable/Attainment
Franklin County |  | Unclassifiable/Attainment
Hamilton County |  | Unclassifiable/Attainment
St. Lawrence County |  | Unclassifiable/Attainment
Warren County |  | Unclassifiable/Attainment
Washington County |  | Unclassifiable/Attainment
AQCR 160 Finger Lake Intrastate:
Seneca County |  | Unclassifiable/Attainment
Wyoming County |  | Unclassifiable/Attainment
Yates County |  | Unclassifiable/Attainment
AQCR 161 Hudson Valley Intrastate (remainder of):
Columbia County |  | Unclassifiable/Attainment
Fulton County |  | Unclassifiable/Attainment
Ulster County |  | Unclassifiable/Attainment
AQCR 163 Southern Tier East Intrastate:
Broome County |  | Unclassifiable/Attainment
Chenango County |  | Unclassifiable/Attainment
Delaware County |  | Unclassifiable/Attainment
Otsego County |  | Unclassifiable/Attainment
Sullivan County |  | Unclassifiable/Attainment
Tioga County |  | Unclassifiable/Attainment
AQCR 164 Southern Tier West Intrastate:
Allegany County |  | Unclassifiable/Attainment
Cattaraugus County |  | Unclassifiable/Attainment
Chemung County |  | Unclassifiable/Attainment
Schuyler County |  | Unclassifiable/Attainment
Steuben County |  | Unclassifiable/Attainment
Tompkins County |  | Unclassifiable/Attainment
¹ Includes areas of Indian country located in each county or area, except as otherwise specified.
² This date is April 15, 2015, unless otherwise noted.

* * * * *

35. Section 81.334 is amended by adding a table entitled “North Carolina—2012 Annual PM2.5 NAAQS (Primary)” following the table “North Carolina—1997 Annual PM2.5 NAAQS [Primary and secondary]” to read as follows:

§ 81.334 North Carolina.

* * * * *

North Carolina—2012 Annual PM2.5 NAAQS
[Primary]
Designated area ¹ | Designation: Date ² | Designation: Type | Classification: Date ² | Classification: Type
Statewide:
Alamance County |  | Unclassifiable/Attainment
Alexander County |  | Unclassifiable/Attainment
Alleghany County |  | Unclassifiable/Attainment
Anson County |  | Unclassifiable/Attainment
Ashe County |  | Unclassifiable/Attainment
Avery County |  | Unclassifiable/Attainment
Beaufort County |  | Unclassifiable/Attainment
Bertie County |  | Unclassifiable/Attainment
Bladen County |  | Unclassifiable/Attainment
Brunswick County |  | Unclassifiable/Attainment
Buncombe County |  | Unclassifiable/Attainment
Burke County |  | Unclassifiable/Attainment
Cabarrus County |  | Unclassifiable/Attainment
Caldwell County |  | Unclassifiable/Attainment
Camden County |  | Unclassifiable/Attainment
Carteret County |  | Unclassifiable/Attainment
Caswell County |  | Unclassifiable/Attainment
Catawba County |  | Unclassifiable/Attainment
Chatham County |  | Unclassifiable/Attainment
Cherokee County |  | Unclassifiable/Attainment
Chowan County |  | Unclassifiable/Attainment
Clay County |  | Unclassifiable/Attainment
Cleveland County |  | Unclassifiable/Attainment
Columbus County |  | Unclassifiable/Attainment
Craven County |  | Unclassifiable/Attainment
Cumberland County |  | Unclassifiable/Attainment
Currituck County |  | Unclassifiable/Attainment
Dare County |  | Unclassifiable/Attainment
Davidson County |  | Unclassifiable/Attainment
Davie County |  | Unclassifiable/Attainment
Duplin County |  | Unclassifiable/Attainment
Durham County |  | Unclassifiable/Attainment
Edgecombe County |  | Unclassifiable/Attainment
Forsyth County |  | Unclassifiable/Attainment
Franklin County |  | Unclassifiable/Attainment
Gaston County |  | Unclassifiable/Attainment
Gates County |  | Unclassifiable/Attainment
Graham County |  | Unclassifiable/Attainment
Granville County |  | Unclassifiable/Attainment
Greene County |  | Unclassifiable/Attainment
Guilford County |  | Unclassifiable/Attainment
Halifax County |  | Unclassifiable/Attainment
Harnett County |  | Unclassifiable/Attainment
Haywood County |  | Unclassifiable/Attainment
Henderson County |  | Unclassifiable/Attainment
Hertford County |  | Unclassifiable/Attainment
Hoke County |  | Unclassifiable/Attainment
Hyde County |  | Unclassifiable/Attainment
Iredell County |  | Unclassifiable/Attainment
Jackson County |  | Unclassifiable/Attainment
Johnston County |  | Unclassifiable/Attainment
Jones County |  | Unclassifiable/Attainment
Lee County |  | Unclassifiable/Attainment
Lenoir County |  | Unclassifiable/Attainment
Lincoln County |  | Unclassifiable/Attainment
McDowell County |  | Unclassifiable/Attainment
Macon County |  | Unclassifiable/Attainment
Madison County |  | Unclassifiable/Attainment
Martin County |  | Unclassifiable/Attainment
Mecklenburg County |  | Unclassifiable/Attainment
Mitchell County |  | Unclassifiable/Attainment
Montgomery County |  | Unclassifiable/Attainment
Moore County |  | Unclassifiable/Attainment
Nash County |  | Unclassifiable/Attainment
New Hanover County |  | Unclassifiable/Attainment
Northampton County |  | Unclassifiable/Attainment
Onslow County |  | Unclassifiable/Attainment
Orange County |  | Unclassifiable/Attainment
Pamlico County |  | Unclassifiable/Attainment
Pasquotank County |  | Unclassifiable/Attainment
Pender County |  | Unclassifiable/Attainment
Perquimans County |  | Unclassifiable/Attainment
Person County |  | Unclassifiable/Attainment
Pitt County |  | Unclassifiable/Attainment
Polk County |  | Unclassifiable/Attainment
Randolph County |  | Unclassifiable/Attainment
Richmond County |  | Unclassifiable/Attainment
Robeson County |  | Unclassifiable/Attainment
Rockingham County |  | Unclassifiable/Attainment
Rowan County |  | Unclassifiable/Attainment
Rutherford County |  | Unclassifiable/Attainment
Sampson County |  | Unclassifiable/Attainment
Scotland County |  | Unclassifiable/Attainment
Stanly County |  | Unclassifiable/Attainment
Stokes County |  | Unclassifiable/Attainment
Surry County |  | Unclassifiable/Attainment
Swain County |  | Unclassifiable/Attainment
Transylvania County |  | Unclassifiable/Attainment
Tyrrell County |  | Unclassifiable/Attainment
Union County |  | Unclassifiable/Attainment
Vance County |  | Unclassifiable/Attainment
Wake County |  | Unclassifiable/Attainment
Warren County |  | Unclassifiable/Attainment
Washington County |  | Unclassifiable/Attainment
Watauga County |  | Unclassifiable/Attainment
Wayne County |  | Unclassifiable/Attainment
Wilkes County |  | Unclassifiable/Attainment
Wilson County |  | Unclassifiable/Attainment
Yadkin County |  | Unclassifiable/Attainment
Yancey County |  | Unclassifiable/Attainment
¹ Includes areas of Indian country located in each county or area, except as otherwise specified.
² This date is April 15, 2015, unless otherwise noted.

* * * * *

36. Section 81.335 is amended by adding a table entitled “North Dakota—2012 Annual PM2.5 NAAQS (Primary)” following the table “North Dakota—1997 Annual PM2.5 NAAQS [Primary and secondary]” to read as follows:

§ 81.335 North Dakota.

* * * * *

North Dakota—2012 Annual PM2.5 NAAQS
[Primary]
Designated area ¹ | Designation: Date ² | Designation: Type | Classification: Date ² | Classification: Type
AQCR 130 Metropolitan Fargo-Moorhead Interstate:
Cass County |  | Unclassifiable/Attainment
Rest of State, AQCR 172:
Adams County |  | Unclassifiable/Attainment
Barnes County |  | Unclassifiable/Attainment
Benson County |  | Unclassifiable/Attainment
Billings County |  | Unclassifiable/Attainment
Bottineau County |  | Unclassifiable/Attainment
Bowman County |  | Unclassifiable/Attainment
Burke County |  | Unclassifiable/Attainment
Burleigh County |  | Unclassifiable/Attainment
Cavalier County |  | Unclassifiable/Attainment
Dickey County |  | Unclassifiable/Attainment
Divide County |  | Unclassifiable/Attainment
Dunn County |  | Unclassifiable/Attainment
Eddy County |  | Unclassifiable/Attainment
Emmons County |  | Unclassifiable/Attainment
Foster County |  | Unclassifiable/Attainment
Golden Valley County |  | Unclassifiable/Attainment
Grand Forks County |  | Unclassifiable/Attainment
Grant County |  | Unclassifiable/Attainment
Griggs County |  | Unclassifiable/Attainment
Hettinger County |  | Unclassifiable/Attainment
Kidder County |  | Unclassifiable/Attainment
LaMoure County |  | Unclassifiable/Attainment
Logan County |  | Unclassifiable/Attainment
McHenry County |  | Unclassifiable/Attainment
McIntosh County |  | Unclassifiable/Attainment
McKenzie County |  | Unclassifiable/Attainment
McLean County |  | Unclassifiable/Attainment
Mercer County |  | Unclassifiable/Attainment
Morton County |  | Unclassifiable/Attainment
Mountrail County |  | Unclassifiable/Attainment
Nelson County |  | Unclassifiable/Attainment
Oliver County |  | Unclassifiable/Attainment
Pembina County |  | Unclassifiable/Attainment
Pierce County |  | Unclassifiable/Attainment
Ramsey County |  | Unclassifiable/Attainment
Ransom County |  | Unclassifiable/Attainment
Renville County |  | Unclassifiable/Attainment
Richland County |  | Unclassifiable/Attainment
Rolette County |  | Unclassifiable/Attainment
Sargent County |  | Unclassifiable/Attainment
Sheridan County |  | Unclassifiable/Attainment
Sioux County |  | Unclassifiable/Attainment
Slope County |  | Unclassifiable/Attainment
Stark County |  | Unclassifiable/Attainment
Steele County |  | Unclassifiable/Attainment
Stutsman County |  | Unclassifiable/Attainment
Towner County |  | Unclassifiable/Attainment
Traill County |  | Unclassifiable/Attainment
Walsh County |  | Unclassifiable/Attainment
Ward County |  | Unclassifiable/Attainment
Wells County |  | Unclassifiable/Attainment
Williams County |  | Unclassifiable/Attainment
¹ Includes areas of Indian country located in each county or area, except as otherwise specified.
² This date is April 15, 2015, unless otherwise noted.

* * * * *

37. Section 81.336 is amended by adding a table entitled “Ohio—2012 Annual PM2.5 NAAQS (Primary)” following the table “Ohio—1997 Annual PM2.5 NAAQS [Primary and secondary]” to read as follows:

§ 81.336 Ohio.

* * * * *

Ohio—2012 Annual PM2.5 NAAQS
[Primary]
Designated area ¹ | Designation: Date ² | Designation: Type | Classification: Date ² | Classification: Type
Canton-Massillon, OH:
Stark County |  | Nonattainment |  | Moderate.
Summit County |  | Nonattainment |  | Moderate.
Wayne County (part) |  | Nonattainment |  | Moderate.
Baughman Township, Chippewa Township, Green Township, Milton Township, and Norton City
Cincinnati-Hamilton, OH:
Butler County |  | Nonattainment |  | Moderate.
Clermont County |  | Nonattainment |  | Moderate.
Hamilton County |  | Nonattainment |  | Moderate.
Warren County (part) |  | Nonattainment |  | Moderate.
Clearcreek Township, Deerfield Township, Franklin Township, Hamilton Township, Turtlecreek Township, Union Township, Lebanon City, Loveland City, and Mason City
Cleveland, OH:
Cuyahoga County |  | Nonattainment |  | Moderate.
Lorain County |  | Nonattainment |  | Moderate.
Rest of State:
Adams County |  | Unclassifiable/Attainment
Allen County |  | Unclassifiable/Attainment
Ashland County |  | Unclassifiable/Attainment
Ashtabula County |  | Unclassifiable/Attainment
Athens County |  | Unclassifiable/Attainment
Auglaize County |  | Unclassifiable/Attainment
Belmont County |  | Unclassifiable/Attainment
Brown County |  | Unclassifiable/Attainment
Carroll County |  | Unclassifiable/Attainment
Champaign County |  | Unclassifiable/Attainment
Clark County |  | Unclassifiable/Attainment
Clinton County |  | Unclassifiable/Attainment
Columbiana County |  | Unclassifiable/Attainment
Coshocton County |  | Unclassifiable/Attainment
Crawford County |  | Unclassifiable/Attainment
Darke County |  | Unclassifiable/Attainment
Defiance County |  | Unclassifiable/Attainment
Delaware County |  | Unclassifiable/Attainment
Erie County |  | Unclassifiable/Attainment
Fairfield County |  | Unclassifiable/Attainment
Fayette County |  | Unclassifiable/Attainment
Franklin County |  | Unclassifiable/Attainment
Fulton County |  | Unclassifiable/Attainment
Gallia County |  | Unclassifiable/Attainment
Geauga County |  | Unclassifiable/Attainment
Greene County |  | Unclassifiable/Attainment
Guernsey County |  | Unclassifiable/Attainment
Hancock County |  | Unclassifiable/Attainment
Hardin County |  | Unclassifiable/Attainment
Harrison County |  | Unclassifiable/Attainment
Henry County |  | Unclassifiable/Attainment
Highland County |  | Unclassifiable/Attainment
Hocking County |  | Unclassifiable/Attainment
Holmes County |  | Unclassifiable/Attainment
Huron County |  | Unclassifiable/Attainment
Jackson County |  | Unclassifiable/Attainment
Jefferson County |  | Unclassifiable/Attainment
Knox County |  | Unclassifiable/Attainment
Lake County |  | Unclassifiable/Attainment
Lawrence County |  | Unclassifiable/Attainment
Licking County |  | Unclassifiable/Attainment
Logan County |  | Unclassifiable/Attainment
Lucas County |  | Unclassifiable/Attainment
Madison County |  | Unclassifiable/Attainment
Mahoning County |  | Unclassifiable/Attainment
Marion County |  | Unclassifiable/Attainment
Medina County |  | Unclassifiable/Attainment
Meigs County |  | Unclassifiable/Attainment
Mercer County |  | Unclassifiable/Attainment
Miami County |  | Unclassifiable/Attainment
Monroe County |  | Unclassifiable/Attainment
Montgomery County |  | Unclassifiable/Attainment
Morgan County |  | Unclassifiable/Attainment
Morrow County |  | Unclassifiable/Attainment
Muskingum County |  | Unclassifiable/Attainment
Noble County |  | Unclassifiable/Attainment
Ottawa County |  | Unclassifiable/Attainment
Paulding County |  | Unclassifiable/Attainment
Perry County |  | Unclassifiable/Attainment
Pickaway County |  | Unclassifiable/Attainment
Pike County |  | Unclassifiable/Attainment
Portage County |  | Unclassifiable/Attainment
Preble County |  | Unclassifiable/Attainment
Putnam County |  | Unclassifiable/Attainment
Richland County |  | Unclassifiable/Attainment
Ross County |  | Unclassifiable/Attainment
Sandusky County |  | Unclassifiable/Attainment
Scioto County |  | Unclassifiable/Attainment
Seneca County |  | Unclassifiable/Attainment
Shelby County |  | Unclassifiable/Attainment
Trumbull County |  | Unclassifiable/Attainment
Tuscarawas County |  | Unclassifiable/Attainment
Union County |  | Unclassifiable/Attainment
Van Wert County |  | Unclassifiable/Attainment
Vinton County |  | Unclassifiable/Attainment
Warren County (remainder) |  | Unclassifiable/Attainment
Washington County |  | Unclassifiable/Attainment
Wayne County (remainder) |  | Unclassifiable/Attainment
Williams County |  | Unclassifiable/Attainment
Wood County |  | Unclassifiable/Attainment
Wyandot County |  | Unclassifiable/Attainment
¹ Includes areas of Indian country located in each county or area, except as otherwise specified.
² This date is April 15, 2015, unless otherwise noted.

* * * * *

38. Section 81.337 is amended by adding a table entitled “Oklahoma—2012 Annual PM2.5 NAAQS (Primary)” following the table “Oklahoma—1997 Annual PM2.5 NAAQS [Primary and secondary]” to read as follows:

§ 81.337 Oklahoma.

* * * * *

Oklahoma—2012 Annual PM2.5 NAAQS
[Primary]
Designated area ¹ | Designation: Date ² | Designation: Type | Classification: Date ² | Classification: Type
AQCR 017 Metropolitan Fort Smith Interstate:
Adair County |  | Unclassifiable/Attainment
Cherokee County |  | Unclassifiable/Attainment
Le Flore County |  | Unclassifiable/Attainment
Sequoyah County |  | Unclassifiable/Attainment
AQCR 022 Shreveport-Texarkana-Tyler Intrastate:
McCurtain County |  | Unclassifiable/Attainment
AQCR 184 Central Oklahoma Intrastate:
Canadian County |  | Unclassifiable/Attainment
Cleveland County |  | Unclassifiable/Attainment
Grady County |  | Unclassifiable/Attainment
Kingfisher County |  | Unclassifiable/Attainment
Lincoln County |  | Unclassifiable/Attainment
Logan County |  | Unclassifiable/Attainment
McClain County |  | Unclassifiable/Attainment
Oklahoma County |  | Unclassifiable/Attainment
Pottawatomie County |  | Unclassifiable/Attainment
AQCR 185 North Central Oklahoma Intrastate:
Garfield County |  | Unclassifiable/Attainment
Grant County |  | Unclassifiable/Attainment
Kay County |  | Unclassifiable/Attainment
Noble County |  | Unclassifiable/Attainment
Payne County |  | Unclassifiable/Attainment
AQCR 186 Northeastern Oklahoma Intrastate:
Craig County |  | Unclassifiable/Attainment
Creek County |  | Unclassifiable/Attainment
Delaware County |  | Unclassifiable/Attainment
Mayes County |  | Unclassifiable/Attainment
Muskogee County |  | Unclassifiable/Attainment
Nowata County |  | Unclassifiable/Attainment
Okmulgee County |  | Unclassifiable/Attainment
Osage County |  | Unclassifiable/Attainment
Ottawa County |  | Unclassifiable/Attainment
Pawnee County |  | Unclassifiable/Attainment
Rogers County |  | Unclassifiable/Attainment
Tulsa County |  | Unclassifiable/Attainment
Wagoner County |  | Unclassifiable/Attainment
Washington County |  | Unclassifiable/Attainment
AQCR 187 Northwestern Oklahoma Intrastate:
Alfalfa County |  | Unclassifiable/Attainment
Beaver County |  | Unclassifiable/Attainment
Blaine County |  | Unclassifiable/Attainment
Cimarron County |  | Unclassifiable/Attainment
Custer County |  | Unclassifiable/Attainment
Dewey County |  | Unclassifiable/Attainment
Ellis County |  | Unclassifiable/Attainment
Harper County |  | Unclassifiable/Attainment
Major County |  | Unclassifiable/Attainment
Roger Mills County |  | Unclassifiable/Attainment
Texas County |  | Unclassifiable/Attainment
Woods County |  | Unclassifiable/Attainment
Woodward County |  | Unclassifiable/Attainment
AQCR 188 Southeastern Oklahoma Intrastate:
Atoka County |  | Unclassifiable/Attainment
Bryan County |  | Unclassifiable/Attainment
Carter County |  | Unclassifiable/Attainment
Choctaw County |  | Unclassifiable/Attainment
Coal County |  | Unclassifiable/Attainment
Garvin County |  | Unclassifiable/Attainment
Haskell County |  | Unclassifiable/Attainment
Hughes County |  | Unclassifiable/Attainment
Johnston County |  | Unclassifiable/Attainment
Latimer County |  | Unclassifiable/Attainment
Love County |  | Unclassifiable/Attainment
McIntosh County |  | Unclassifiable/Attainment
Marshall County |  | Unclassifiable/Attainment
Murray County |  | Unclassifiable/Attainment
Okfuskee County |  | Unclassifiable/Attainment
Pittsburg County |  | Unclassifiable/Attainment
Pontotoc County |  | Unclassifiable/Attainment
Pushmataha County |  | Unclassifiable/Attainment
Seminole County |  | Unclassifiable/Attainment
AQCR 189 Southwestern Oklahoma Intrastate:
Beckham County |  | Unclassifiable/Attainment
Caddo County |  | Unclassifiable/Attainment
Comanche County |  | Unclassifiable/Attainment
Cotton County |  | Unclassifiable/Attainment
Greer County |  | Unclassifiable/Attainment
Harmon County |  | Unclassifiable/Attainment
Jackson County |  | Unclassifiable/Attainment
Jefferson County |  | Unclassifiable/Attainment
Kiowa County |  | Unclassifiable/Attainment
Stephens County |  | Unclassifiable/Attainment
Tillman County |  | Unclassifiable/Attainment
Washita County |  | Unclassifiable/Attainment
¹ Includes areas of Indian country located in each county or area, except as otherwise specified.
² This date is April 15, 2015, unless otherwise noted.

* * * * *

39. Section 81.338 is amended by adding a table entitled “Oregon—2012 Annual PM2.5 NAAQS (Primary)” following the table “Oregon—1997 Annual PM2.5 NAAQS [Primary and secondary]” to read as follows:

§ 81.338 Oregon.

* * * * *

Oregon—2012 Annual PM2.5 NAAQS
[Primary]
Designated area ¹ | Designation: Date ² | Designation: Type | Classification: Date ² | Classification: Type
AQCR 190 Central Oregon Intrastate
Crook County |  | Unclassifiable/Attainment
Deschutes County |  | Unclassifiable/Attainment
Hood River County |  | Unclassifiable/Attainment
Jefferson County |  | Unclassifiable/Attainment
Klamath County |  | Unclassifiable/Attainment
Lake County |  | Unclassifiable/Attainment
Sherman County |  | Unclassifiable/Attainment
Wasco County |  | Unclassifiable/Attainment
AQCR 191 Eastern Oregon Intrastate
Baker County |  | Unclassifiable/Attainment
Gilliam County |  | Unclassifiable/Attainment
Grant County |  | Unclassifiable/Attainment
Harney County |  | Unclassifiable/Attainment
Malheur County |  | Unclassifiable/Attainment
Morrow County |  | Unclassifiable/Attainment
Umatilla County |  | Unclassifiable/Attainment
Union County |  | Unclassifiable/Attainment
Wallowa County |  | Unclassifiable/Attainment
Wheeler County |  | Unclassifiable/Attainment
AQCR 192 Northwest Oregon Intrastate
Clatsop County |  | Unclassifiable/Attainment
Lincoln County |  | Unclassifiable/Attainment
Tillamook County |  | Unclassifiable/Attainment
AQCR 193 Portland Interstate (Oregon Portion)
Benton County |  | Unclassifiable/Attainment
Clackamas County |  | Unclassifiable/Attainment
Columbia County |  | Unclassifiable/Attainment
Lane County |  | Unclassifiable/Attainment
Linn County |  | Unclassifiable/Attainment
Marion County |  | Unclassifiable/Attainment
Multnomah County |  | Unclassifiable/Attainment
Polk County |  | Unclassifiable/Attainment
Washington County |  | Unclassifiable/Attainment
Yamhill County |  | Unclassifiable/Attainment
AQCR 194 Southwest Oregon Intrastate
Coos County |  | Unclassifiable/Attainment
Curry County |  | Unclassifiable/Attainment
Douglas County |  | Unclassifiable/Attainment
Jackson County |  | Unclassifiable/Attainment
Josephine County |  | Unclassifiable/Attainment
¹ Includes areas of Indian country located in each county or area, except as otherwise specified.
² This date is April 15, 2015, unless otherwise noted.

* * * * *

40. Section 81.339 is amended by adding a table entitled “Pennsylvania—2012 Annual PM2.5 NAAQS (Primary)” following the table “Pennsylvania—1997 Annual PM2.5 NAAQS [Primary and secondary]” to read as follows:

§ 81.339 Pennsylvania.

* * * * *

Pennsylvania—2012 Annual PM2.5 NAAQS
[Primary]
Designated area¹ | Designation: Date² | Designation: Type | Classification: Date² | Classification: Type
Allegheny County, PA:
Allegheny County |  | Nonattainment |  | Moderate.
Allentown, PA:
Lehigh County |  | Nonattainment |  | Moderate.
Northampton County |  | Nonattainment |  | Moderate.
Delaware County, PA:
Delaware County |  | Nonattainment |  | Moderate.
Johnstown, PA:
Cambria County |  | Nonattainment |  | Moderate.
Indiana County (part) |  | Nonattainment |  | Moderate.
Townships of West Wheatfield, Center, East Wheatfield, and Armagh Borough and Homer City Borough
Lebanon County, PA:
Lebanon County |  | Nonattainment |  | Moderate.
Rest of State:
AQCR 151 Northeast Pennsylvania-Upper Delaware Valley Interstate:
Berks County |  | Unclassifiable/Attainment
Bradford County |  | Unclassifiable/Attainment
Carbon County |  | Unclassifiable/Attainment
Lackawanna County |  | Unclassifiable/Attainment
Luzerne County |  | Unclassifiable/Attainment
Monroe County |  | Unclassifiable/Attainment
Pike County |  | Unclassifiable/Attainment
Schuylkill County |  | Unclassifiable/Attainment
Sullivan County |  | Unclassifiable/Attainment
Susquehanna County |  | Unclassifiable/Attainment
Tioga County |  | Unclassifiable/Attainment
Wayne County |  | Unclassifiable/Attainment
Wyoming County |  | Unclassifiable/Attainment
AQCR 178 Northwest Pennsylvania-Youngstown Interstate:
Cameron County |  | Unclassifiable/Attainment
Clarion County |  | Unclassifiable/Attainment
Clearfield County |  | Unclassifiable/Attainment
Crawford County |  | Unclassifiable/Attainment
Elk County |  | Unclassifiable/Attainment
Erie County |  | Unclassifiable/Attainment
Forest County |  | Unclassifiable/Attainment
Jefferson County |  | Unclassifiable/Attainment
Lawrence County |  | Unclassifiable/Attainment
McKean County |  | Unclassifiable/Attainment
Mercer County |  | Unclassifiable/Attainment
Potter County |  | Unclassifiable/Attainment
Venango County |  | Unclassifiable/Attainment
Warren County |  | Unclassifiable/Attainment
AQCR 45 Metropolitan Philadelphia Intrastate:
Bucks County |  | Unclassifiable/Attainment
Chester County |  | Unclassifiable/Attainment
Montgomery County |  | Unclassifiable/Attainment
Philadelphia County |  | Unclassifiable/Attainment
AQCR 195 Central Pennsylvania Intrastate:
Bedford County |  | Unclassifiable/Attainment
Blair County |  | Unclassifiable/Attainment
Centre County |  | Unclassifiable/Attainment
Clinton County |  | Unclassifiable/Attainment
Columbia County |  | Unclassifiable/Attainment
Fulton County |  | Unclassifiable/Attainment
Huntingdon County |  | Unclassifiable/Attainment
Juniata County |  | Unclassifiable/Attainment
Lycoming County |  | Unclassifiable/Attainment
Mifflin County |  | Unclassifiable/Attainment
Montour County |  | Unclassifiable/Attainment
Northumberland County |  | Unclassifiable/Attainment
Snyder County |  | Unclassifiable/Attainment
Somerset County |  | Unclassifiable/Attainment
Union County |  | Unclassifiable/Attainment
AQCR 196 South Central Pennsylvania Intrastate:
Adams County |  | Unclassifiable/Attainment
Cumberland County |  | Unclassifiable/Attainment
Dauphin County |  | Unclassifiable/Attainment
Franklin County |  | Unclassifiable/Attainment
Lancaster County |  | Unclassifiable/Attainment
Perry County |  | Unclassifiable/Attainment
York County |  | Unclassifiable/Attainment
AQCR 197 Southwest Pennsylvania Intrastate:
Allegheny County (remainder) |  | Unclassifiable/Attainment
Armstrong County |  | Unclassifiable/Attainment
Beaver County |  | Unclassifiable/Attainment
Butler County |  | Unclassifiable/Attainment
Fayette County |  | Unclassifiable/Attainment
Greene County |  | Unclassifiable/Attainment
Indiana County (remainder) |  | Unclassifiable/Attainment
Washington County |  | Unclassifiable/Attainment
Westmoreland County |  | Unclassifiable/Attainment
¹ Includes areas of Indian country located in each county or area, except as otherwise specified.
² This date is April 15, 2015, unless otherwise noted.

* * * * *

41. Section 81.340 is amended by adding a table entitled “Rhode Island—2012 Annual PM2.5 NAAQS (Primary)” following the table “Rhode Island—1997 Annual PM2.5 NAAQS [Primary and secondary]” to read as follows:

§ 81.340 Rhode Island.

* * * * *

Rhode Island—2012 Annual PM2.5 NAAQS
[Primary]
Designated area ¹ | Designation: Date ² | Designation: Type | Classification: Date ² | Classification: Type
Statewide:
Bristol County |  | Unclassifiable/Attainment
Kent County |  | Unclassifiable/Attainment
Newport County |  | Unclassifiable/Attainment
Providence County |  | Unclassifiable/Attainment
Washington County |  | Unclassifiable/Attainment
¹ Includes areas of Indian country located in each county or area, except as otherwise specified.
² This date is April 15, 2015, unless otherwise noted.

* * * * *

42. Section 81.341 is amended by adding a table entitled “South Carolina—2012 Annual PM2.5 NAAQS (Primary)” following the table “South Carolina—1997 Annual PM2.5 NAAQS [Primary and secondary]” to read as follows:

§ 81.341 South Carolina.

* * * * *

South Carolina—2012 Annual PM2.5 NAAQS
[Primary]
Designated area ¹ | Designation: Date ² | Designation: Type | Classification: Date ² | Classification: Type
Statewide:
Abbeville County |  | Unclassifiable/Attainment
Aiken County
Allendale County |  | Unclassifiable/Attainment
Anderson County |  | Unclassifiable/Attainment
Bamberg County |  | Unclassifiable/Attainment
Barnwell County |  | Unclassifiable/Attainment
Beaufort County |  | Unclassifiable/Attainment
Berkeley County |  | Unclassifiable/Attainment
Calhoun County |  | Unclassifiable/Attainment
Charleston County |  | Unclassifiable/Attainment
Cherokee County |  | Unclassifiable/Attainment
Chester County |  | Unclassifiable/Attainment
Chesterfield County |  | Unclassifiable/Attainment
Clarendon County |  | Unclassifiable/Attainment
Colleton County |  | Unclassifiable/Attainment
Darlington County |  | Unclassifiable/Attainment
Dillon County |  | Unclassifiable/Attainment
Dorchester County |  | Unclassifiable/Attainment
Edgefield County |  | Unclassifiable/Attainment
Fairfield County |  | Unclassifiable/Attainment
Florence County |  | Unclassifiable/Attainment
Georgetown County |  | Unclassifiable/Attainment
Greenwood County |  | Unclassifiable/Attainment
Greenville County |  | Unclassifiable/Attainment
Hampton County |  | Unclassifiable/Attainment
Horry County |  | Unclassifiable/Attainment
Jasper County |  | Unclassifiable/Attainment
Kershaw County |  | Unclassifiable/Attainment
Lancaster County |  | Unclassifiable/Attainment
Laurens County |  | Unclassifiable/Attainment
Lee County |  | Unclassifiable/Attainment
Lexington County |  | Unclassifiable/Attainment
McCormick County |  | Unclassifiable/Attainment
Marion County |  | Unclassifiable/Attainment
Marlboro County |  | Unclassifiable/Attainment
Newberry County |  | Unclassifiable/Attainment
Oconee County |  | Unclassifiable/Attainment
Orangeburg County |  | Unclassifiable/Attainment
Pickens County |  | Unclassifiable/Attainment
Richland County |  | Unclassifiable/Attainment
Saluda County |  | Unclassifiable/Attainment
Spartanburg County |  | Unclassifiable/Attainment
Sumter County |  | Unclassifiable/Attainment
Union County |  | Unclassifiable/Attainment
Williamsburg County |  | Unclassifiable/Attainment
York County |  | Unclassifiable/Attainment
¹ Includes areas of Indian country located in each county or area, except as otherwise specified.
² This date is April 15, 2015, unless otherwise noted.

* * * * *

43. Section 81.342 is amended by adding a table entitled “South Dakota—2012 Annual PM2.5 NAAQS (Primary)” following the table “South Dakota—1997 Annual PM2.5 NAAQS [Primary and secondary]” to read as follows:

§ 81.342 South Dakota.

* * * * *

South Dakota—2012 Annual PM2.5 NAAQS
[Primary]
Designated area ¹ | Designation: Date ² | Designation: Type | Classification: Date ² | Classification: Type
Statewide:
Aurora County |  | Unclassifiable/Attainment
Beadle County |  | Unclassifiable/Attainment
Bennett County |  | Unclassifiable/Attainment
Bon Homme County |  | Unclassifiable/Attainment
Brookings County |  | Unclassifiable/Attainment
Brown County |  | Unclassifiable/Attainment
Brule County |  | Unclassifiable/Attainment
Buffalo County |  | Unclassifiable/Attainment
Butte County |  | Unclassifiable/Attainment
Campbell County |  | Unclassifiable/Attainment
Charles Mix County |  | Unclassifiable/Attainment
Clark County |  | Unclassifiable/Attainment
Clay County |  | Unclassifiable/Attainment
Codington County |  | Unclassifiable/Attainment
Corson County |  | Unclassifiable/Attainment
Custer County |  | Unclassifiable/Attainment
Davison County |  | Unclassifiable/Attainment
Day County |  | Unclassifiable/Attainment
Deuel County |  | Unclassifiable/Attainment
Dewey County |  | Unclassifiable/Attainment
Douglas County |  | Unclassifiable/Attainment
Edmunds County |  | Unclassifiable/Attainment
Fall River County |  | Unclassifiable/Attainment
Faulk County |  | Unclassifiable/Attainment
Grant County |  | Unclassifiable/Attainment
Gregory County |  | Unclassifiable/Attainment
Haakon County |  | Unclassifiable/Attainment
Hamlin County |  | Unclassifiable/Attainment
Hand County |  | Unclassifiable/Attainment
Hanson County |  | Unclassifiable/Attainment
Harding County |  | Unclassifiable/Attainment
Hughes County |  | Unclassifiable/Attainment
Hutchinson County |  | Unclassifiable/Attainment
Hyde County |  | Unclassifiable/Attainment
Jackson County |  | Unclassifiable/Attainment
Jerauld County |  | Unclassifiable/Attainment
Jones County |  | Unclassifiable/Attainment
Kingsbury County |  | Unclassifiable/Attainment
Lake County |  | Unclassifiable/Attainment
Lawrence County |  | Unclassifiable/Attainment
Lincoln County |  | Unclassifiable/Attainment
Lyman County |  | Unclassifiable/Attainment
McCook County |  | Unclassifiable/Attainment
McPherson County |  | Unclassifiable/Attainment
Marshall County |  | Unclassifiable/Attainment
Meade County |  | Unclassifiable/Attainment
Mellette County |  | Unclassifiable/Attainment
Miner County |  | Unclassifiable/Attainment
Minnehaha County |  | Unclassifiable/Attainment
Moody County |  | Unclassifiable/Attainment
Pennington County |  | Unclassifiable/Attainment
Perkins County |  | Unclassifiable/Attainment
Potter County |  | Unclassifiable/Attainment
Roberts County |  | Unclassifiable/Attainment
Sanborn County |  | Unclassifiable/Attainment
Shannon County |  | Unclassifiable/Attainment
Spink County |  | Unclassifiable/Attainment
Stanley County |  | Unclassifiable/Attainment
Sully Count |  | Unclassifiable/Attainment
Todd County |  | Unclassifiable/Attainment
Tripp County |  | Unclassifiable/Attainment
Turner County |  | Unclassifiable/Attainment
Union County |  | Unclassifiable/Attainment
Walworth County |  | Unclassifiable/Attainment
Yankton County |  | Unclassifiable/Attainment
Ziebach County |  | Unclassifiable/Attainment
¹ Includes areas of Indian country located in each county or area, except as otherwise specified.
² This date is April 15, 2015, unless otherwise noted.

* * * * *

44. Section 81.343 is amended by adding a table entitled “Tennessee—2012 Annual PM2.5 NAAQS (Primary)” following the table “Tennessee—1997 Annual PM2.5 NAAQS [Primary and secondary]” to read as follows:

§ 81.343 Tennessee.

* * * * *

Tennessee—2012 Annual PM2.5 NAAQS
[Primary]
Designated area ¹ | Designation: Date ² | Designation: Type | Classification: Date ² | Classification: Type
Statewide:
Anderson County
Bedford County
Benton County
Bledsoe County
Blount County
Bradley County
Campbell County
Cannon County
Carroll County
Carter County
Cheatham County
Chester County
Claiborne County
Clay County
Cocke County
Coffee County
Crockett County
Cumberland County
Davidson County
Decatur County
DeKalb County
Dickson County
Dyer County
Fayette County
Fentress County
Franklin County
Gibson County
Giles County
Grainger County
Greene County
Grundy County
Hamblen County
Hamilton County |  | Unclassifiable/Attainment
Hancock County
Hardeman County
Hardin County
Hawkins County
Haywood County
Henderson County
Henry County
Hickman County
Houston County
Humphreys County
Jackson County
Jefferson County
Johnson County
Knox County
Lake County
Lauderdale County
Lawrence County
Lewis County
Lincoln County
Loudon County
McMinn County
McNairy County
Macon County
Madison County
Marion County |  | Unclassifiable/Attainment
Marshall County
Maury County
Meigs County
Monroe County
Montgomery County
Moore County
Morgan County
Obion County
Overton County
Perry County
Pickett County
Polk County
Putnam County
Rhea County
Roane County
Robertson County
Rutherford County
Scott County
Sequatchie County |  | Unclassifiable/Attainment
Sevier County
Shelby County
Smith County
Stewart County
Sullivan County
Sumner County
Tipton County
Trousdale County
Unicoi County
Union County
Van Buren County
Warren County
Washington County
Wayne County
Weakley County
White County
Williamson County
Wilson County
¹ Includes areas of Indian country located in each county or area, except as otherwise specified.
² This date is April 15, 2015, unless otherwise noted.

* * * * *

45. Section 81.344 is amended by adding a table entitled “Texas—2012 Annual PM2.5 NAAQS (Primary)” following the table “Texas—1997 Annual PM2.5 NAAQS (Primary and secondary)” to read as follows:

§ 81.344 Texas.

* * * * *

Texas—2012 Annual PM2.5 NAAQS
[Primary]
Designated area ¹ | Designation: Date ² | Designation: Type | Classification: Date ² | Classification: Type
AQCR 022 Shreveport-Texarkana-Tyler Interstate:
Anderson County |  | Unclassifiable/Attainment |  |
Bowie County |  | Unclassifiable/Attainment |  |
Camp County |  | Unclassifiable/Attainment |  |
Cass County |  | Unclassifiable/Attainment |  |
Cherokee County |  | Unclassifiable/Attainment |  |
Delta County |  | Unclassifiable/Attainment |  |
Franklin County |  | Unclassifiable/Attainment |  |
Gregg County |  | Unclassifiable/Attainment |  |
Harrison County |  | Unclassifiable/Attainment |  |
Hopkins County |  | Unclassifiable/Attainment |  |
Lamar County |  | Unclassifiable/Attainment |  |
Marion County |  | Unclassifiable/Attainment |  |
Morris County |  | Unclassifiable/Attainment |  |
Panola County |  | Unclassifiable/Attainment |  |
Rains County |  | Unclassifiable/Attainment |  |
Red River County |  | Unclassifiable/Attainment |  |
Rusk County |  | Unclassifiable/Attainment |  |
Smith County |  | Unclassifiable/Attainment |  |
Titus County |  | Unclassifiable/Attainment |  |
Upshur County |  | Unclassifiable/Attainment |  |
Van Zandt County |  | Unclassifiable/Attainment |  |
Wood County |  | Unclassifiable/Attainment |  |
AQCR 106 S Louisiana-SE Texas Interstate:
Angelina County |  | Unclassifiable/Attainment
Hardin County |  | Unclassifiable/Attainment
Houston County |  | Unclassifiable/Attainment
Jasper County |  | Unclassifiable/Attainment
Jefferson County |  | Unclassifiable/Attainment
Nacogdoches County |  | Unclassifiable/Attainment
Newton County |  | Unclassifiable/Attainment
Orange County |  | Unclassifiable/Attainment
Polk County |  | Unclassifiable/Attainment
Sabine County |  | Unclassifiable/Attainment
San Augustine County |  | Unclassifiable/Attainment
San Jacinto County |  | Unclassifiable/Attainment
Shelby County |  | Unclassifiable/Attainment
Trinity County |  | Unclassifiable/Attainment
Tyler County |  | Unclassifiable/Attainment
AQCR 153 El Paso-Las Cruces-Alamogordo Interstate:
Brewster County |  | Unclassifiable/Attainment
Culberson County |  | Unclassifiable/Attainment
El Paso County |  | Unclassifiable/Attainment
Hudspeth County |  | Unclassifiable/Attainment
Jeff Davis County |  | Unclassifiable/Attainment
Presidio County |  | Unclassifiable/Attainment
AQCR 210 Abilene-Wichita Falls Intrastate:
Archer County |  | Unclassifiable/Attainment
Baylor County |  | Unclassifiable/Attainment
Brown County |  | Unclassifiable/Attainment
Callahan County |  | Unclassifiable/Attainment
Clay County |  | Unclassifiable/Attainment
Coleman County |  | Unclassifiable/Attainment
Comanche County |  | Unclassifiable/Attainment
Cottle County |  | Unclassifiable/Attainment
Eastland County |  | Unclassifiable/Attainment
Fisher County |  | Unclassifiable/Attainment
Foard County |  | Unclassifiable/Attainment
Hardeman County |  | Unclassifiable/Attainment
Haskell County |  | Unclassifiable/Attainment
Jack County |  | Unclassifiable/Attainment
Jones County |  | Unclassifiable/Attainment
Kent County |  | Unclassifiable/Attainment
Knox County |  | Unclassifiable/Attainment
Mitchell County |  | Unclassifiable/Attainment
Montague County |  | Unclassifiable/Attainment
Nolan County |  | Unclassifiable/Attainment
Runnels County |  | Unclassifiable/Attainment
Scurry County |  | Unclassifiable/Attainment
Shackelford County |  | Unclassifiable/Attainment
Stephens County |  | Unclassifiable/Attainment
Stonewall County |  | Unclassifiable/Attainment
Taylor County |  | Unclassifiable/Attainment
Throckmorton County |  | Unclassifiable/Attainment
Wichita County |  | Unclassifiable/Attainment
Wilbarger County |  | Unclassifiable/Attainment
Young County |  | Unclassifiable/Attainment
AQCR 211 Amarillo-Lubbock Intrastate:
Armstrong County |  | Unclassifiable/Attainment
Bailey County |  | Unclassifiable/Attainment
Briscoe County |  | Unclassifiable/Attainment
Carson County |  | Unclassifiable/Attainment
Castro County |  | Unclassifiable/Attainment
Childress County |  | Unclassifiable/Attainment
Cochran County |  | Unclassifiable/Attainment
Collingsworth County |  | Unclassifiable/Attainment
Crosby County |  | Unclassifiable/Attainment
Dallam County |  | Unclassifiable/Attainment
Deaf Smith County |  | Unclassifiable/Attainment
Dickens County |  | Unclassifiable/Attainment
Donley County |  | Unclassifiable/Attainment
Floyd County |  | Unclassifiable/Attainment
Garza County |  | Unclassifiable/Attainment
Gray County |  | Unclassifiable/Attainment
Hale County |  | Unclassifiable/Attainment
Hall County |  | Unclassifiable/Attainment
Hansford County |  | Unclassifiable/Attainment
Hartley County |  | Unclassifiable/Attainment
Hemphill County |  | Unclassifiable/Attainment
Hockley County |  | Unclassifiable/Attainment
Hutchinson County |  | Unclassifiable/Attainment
King County |  | Unclassifiable/Attainment
Lamb County |  | Unclassifiable/Attainment
Lipscomb County |  | Unclassifiable/Attainment
Lubbock County |  | Unclassifiable/Attainment
Lynn County |  | Unclassifiable/Attainment
Moore County |  | Unclassifiable/Attainment
Motley County |  | Unclassifiable/Attainment
Ochiltree County |  | Unclassifiable/Attainment
Oldham County |  | Unclassifiable/Attainment
Parmer County |  | Unclassifiable/Attainment
Potter County |  | Unclassifiable/Attainment
Randall County |  | Unclassifiable/Attainment
Roberts County |  | Unclassifiable/Attainment
Sherman County |  | Unclassifiable/Attainment
Swisher County |  | Unclassifiable/Attainment
Terry County |  | Unclassifiable/Attainment
Wheeler County |  | Unclassifiable/Attainment
Yoakum County |  | Unclassifiable/Attainment
AQCR 212 Austin-Waco Intrastate:
Bastrop County |  | Unclassifiable/Attainment
Bell County |  | Unclassifiable/Attainment
Blanco County |  | Unclassifiable/Attainment
Bosque County |  | Unclassifiable/Attainment
Brazos County |  | Unclassifiable/Attainment
Burleson County |  | Unclassifiable/Attainment
Burnet County |  | Unclassifiable/Attainment
Caldwell County |  | Unclassifiable/Attainment
Coryell County |  | Unclassifiable/Attainment
Falls County |  | Unclassifiable/Attainment
Fayette County |  | Unclassifiable/Attainment
Freestone County |  | Unclassifiable/Attainment
Grimes County |  | Unclassifiable/Attainment
Hamilton County |  | Unclassifiable/Attainment
Hays County |  | Unclassifiable/Attainment
Hill County |  | Unclassifiable/Attainment
Lampasas County |  | Unclassifiable/Attainment
Lee County |  | Unclassifiable/Attainment
Leon County |  | Unclassifiable/Attainment
Limestone County |  | Unclassifiable/Attainment
Llano County |  | Unclassifiable/Attainment
McLennan County |  | Unclassifiable/Attainment
Madison County |  | Unclassifiable/Attainment
Milam County |  | Unclassifiable/Attainment
Mills County |  | Unclassifiable/Attainment
Robertson County |  | Unclassifiable/Attainment
San Saba County |  | Unclassifiable/Attainment
Travis County |  | Unclassifiable/Attainment
Washington County |  | Unclassifiable/Attainment
Williamson County |  | Unclassifiable/Attainment
AQCR 213 Brownsville-Laredo Intrastate:
Cameron County |  | Unclassifiable/Attainment
Hidalgo County |  | Unclassifiable/Attainment
Jim Hogg County |  | Unclassifiable/Attainment
Starr County |  | Unclassifiable/Attainment
Webb County |  | Unclassifiable/Attainment
Willacy County |  | Unclassifiable/Attainment
Zapata County |  | Unclassifiable/Attainment
AQCR 214 Corpus Christi-Victoria Intrastate:
Aransas County |  | Unclassifiable/Attainment
Bee County |  | Unclassifiable/Attainment
Brooks County |  | Unclassifiable/Attainment
Calhoun County |  | Unclassifiable/Attainment
DeWitt County |  | Unclassifiable/Attainment
Duval County |  | Unclassifiable/Attainment
Goliad County |  | Unclassifiable/Attainment
Gonzales County |  | Unclassifiable/Attainment
Jackson County |  | Unclassifiable/Attainment
Jim Wells County |  | Unclassifiable/Attainment
Kenedy County |  | Unclassifiable/Attainment
Kleberg County |  | Unclassifiable/Attainment
Lavaca County |  | Unclassifiable/Attainment
Live Oak County |  | Unclassifiable/Attainment
McMullen County |  | Unclassifiable/Attainment
Nueces County |  | Unclassifiable/Attainment
Refugio County |  | Unclassifiable/Attainment
San Patricio County |  | Unclassifiable/Attainment
Victoria County |  | Unclassifiable/Attainment
AQCR 215 Metro Dallas-Fort Worth Intrastate:
Collin County |  | Unclassifiable/Attainment
Cooke County |  | Unclassifiable/Attainment
Dallas County |  | Unclassifiable/Attainment
Denton County |  | Unclassifiable/Attainment
Ellis County |  | Unclassifiable/Attainment
Erath County |  | Unclassifiable/Attainment
Fannin County |  | Unclassifiable/Attainment
Grayson County |  | Unclassifiable/Attainment
Henderson County |  | Unclassifiable/Attainment
Hood County |  | Unclassifiable/Attainment
Hunt County |  | Unclassifiable/Attainment
Johnson County |  | Unclassifiable/Attainment
Kaufman County |  | Unclassifiable/Attainment
Navarro County |  | Unclassifiable/Attainment
Palo Pinto County |  | Unclassifiable/Attainment
Parker County |  | Unclassifiable/Attainment
Rockwall County |  | Unclassifiable/Attainment
Somervell County |  | Unclassifiable/Attainment
Tarrant County |  | Unclassifiable/Attainment
Wise County |  | Unclassifiable/Attainment
AQCR 216 Metro Houston-Galveston Intrastate:
Austin County |  | Unclassifiable/Attainment
Brazoria County |  | Unclassifiable/Attainment
Chambers County |  | Unclassifiable/Attainment
Colorado County |  | Unclassifiable/Attainment
Fort Bend County |  | Unclassifiable/Attainment
Galveston County |  | Unclassifiable/Attainment
Harris County |  | Unclassifiable/Attainment
Liberty County |  | Unclassifiable/Attainment
Matagorda County |  | Unclassifiable/Attainment
Montgomery County |  | Unclassifiable/Attainment
Walker County |  | Unclassifiable/Attainment
Waller County |  | Unclassifiable/Attainment
Wharton County |  | Unclassifiable/Attainment
AQCR 217 Metro San Antonio Intrastate:
Atascosa County |  | Unclassifiable/Attainment
Bandera County |  | Unclassifiable/Attainment
Bexar County |  | Unclassifiable/Attainment
Comal County |  | Unclassifiable/Attainment
Dimmit County |  | Unclassifiable/Attainment
Edwards County |  | Unclassifiable/Attainment
Frio County |  | Unclassifiable/Attainment
Guadalupe County |  | Unclassifiable/Attainment
Gillespie County |  | Unclassifiable/Attainment
Karnes County |  | Unclassifiable/Attainment
Kendall County |  | Unclassifiable/Attainment
Kerr County |  | Unclassifiable/Attainment
Kinney County |  | Unclassifiable/Attainment
La Salle County |  | Unclassifiable/Attainment
Maverick County |  | Unclassifiable/Attainment
Medina County |  | Unclassifiable/Attainment
Real County |  | Unclassifiable/Attainment
Uvalde County |  | Unclassifiable/Attainment
Val Verde County |  | Unclassifiable/Attainment
Wilson County |  | Unclassifiable/Attainment
Zavala County |  | Unclassifiable/Attainment
AQCR 218 Midland-Odessa-San Angelo Intrastate:
Andrews County |  | Unclassifiable/Attainment
Borden County |  | Unclassifiable/Attainment
Coke County |  | Unclassifiable/Attainment
Concho County |  | Unclassifiable/Attainment
Crane County |  | Unclassifiable/Attainment
Crockett County |  | Unclassifiable/Attainment
Dawson County |  | Unclassifiable/Attainment
Ector County |  | Unclassifiable/Attainment
Gaines County |  | Unclassifiable/Attainment
Glasscock County |  | Unclassifiable/Attainment
Howard County |  | Unclassifiable/Attainment
Irion County |  | Unclassifiable/Attainment
Kimble County |  | Unclassifiable/Attainment
Loving County |  | Unclassifiable/Attainment
McCulloch County |  | Unclassifiable/Attainment
Martin County |  | Unclassifiable/Attainment
Mason County |  | Unclassifiable/Attainment
Menard County |  | Unclassifiable/Attainment
Midland County |  | Unclassifiable/Attainment
Pecos County |  | Unclassifiable/Attainment
Reagan County |  | Unclassifiable/Attainment
Reeves County |  | Unclassifiable/Attainment
Schleicher County |  | Unclassifiable/Attainment
Sterling County |  | Unclassifiable/Attainment
Sutton County |  | Unclassifiable/Attainment
Terrell County |  | Unclassifiable/Attainment
Tom Green County |  | Unclassifiable/Attainment
Upton County |  | Unclassifiable/Attainment
Ward County |  | Unclassifiable/Attainment
Winkler County |  | Unclassifiable/Attainment
¹ Includes areas of Indian country located in each county or area, except as otherwise specified.
² This date is April 15, 2015, unless otherwise noted.

* * * * *

46. Section 81.345 is amended by adding a table entitled “Utah—2012 Annual PM2.5 NAAQS (Primary)” following the table “Utah—1997 Annual PM2.5 NAAQS [Primary and secondary]” to read as follows:

§ 81.345 Utah.

* * * * *

Utah—2012 Annual PM2.5 NAAQS
[Primary]
Designated area ¹ | Designation: Date ² | Designation: Type | Classification: Date ² | Classification: Type
Statewide:
Beaver County |  | Unclassifiable/Attainment
Box Elder County |  | Unclassifiable/Attainment
Cache County |  | Unclassifiable/Attainment
Carbon County |  | Unclassifiable/Attainment
Daggett County |  | Unclassifiable/Attainment
Davis County |  | Unclassifiable/Attainment
Duchesne County |  | Unclassifiable/Attainment
Emery County |  | Unclassifiable/Attainment
Garfield County |  | Unclassifiable/Attainment
Grand County |  | Unclassifiable/Attainment
Iron County |  | Unclassifiable/Attainment
Juab County |  | Unclassifiable/Attainment
Kane County |  | Unclassifiable/Attainment
Millard County |  | Unclassifiable/Attainment
Morgan County |  | Unclassifiable/Attainment
Piute County |  | Unclassifiable/Attainment
Rich County |  | Unclassifiable/Attainment
Salt Lake County |  | Unclassifiable/Attainment
San Juan County |  | Unclassifiable/Attainment
Sanpete County |  | Unclassifiable/Attainment
Sevier County |  | Unclassifiable/Attainment
Summit County |  | Unclassifiable/Attainment
Tooele County |  | Unclassifiable/Attainment
Uintah County |  | Unclassifiable/Attainment
Utah County |  | Unclassifiable/Attainment
Wasatch County |  | Unclassifiable/Attainment
Washington County |  | Unclassifiable/Attainment
Wayne County |  | Unclassifiable/Attainment
Weber County |  | Unclassifiable/Attainment
¹ Includes areas of Indian country located in each county or area, except as otherwise specified.
² This date is April 15, 2015, unless otherwise noted.

* * * * *

47. Section 81.346 is amended by adding a table entitled “Vermont—2012 Annual PM2.5 NAAQS (Primary)” following the table “Vermont—1997 Annual PM2.5 NAAQS [Primary and secondary]” to read as follows:

§ 81.346 Vermont.

* * * * *

Vermont—2012 Annual PM2.5 NAAQS
[Primary]
Designated area ¹ | Designation: Date ² | Designation: Type | Classification: Date ² | Classification: Type
Statewide:
Addison County |  | Unclassifiable/Attainment
Bennington County |  | Unclassifiable/Attainment
Caledonia County |  | Unclassifiable/Attainment
Chittenden County |  | Unclassifiable/Attainment
Essex County |  | Unclassifiable/Attainment
Franklin County |  | Unclassifiable/Attainment
Grand Isle County |  | Unclassifiable/Attainment
Lamoille County |  | Unclassifiable/Attainment
Orange County |  | Unclassifiable/Attainment
Orleans County |  | Unclassifiable/Attainment
Rutland County |  | Unclassifiable/Attainment
Washington County |  | Unclassifiable/Attainment
Windham County |  | Unclassifiable/Attainment
Windsor County |  | Unclassifiable/Attainment
¹ Includes areas of Indian country located in each county or area, except as otherwise specified.
² This date is April 15, 2015, unless otherwise noted.

* * * * *

48. Section 81.347 is amended by adding a table entitled “Virginia—2012 Annual PM2.5 NAAQS (Primary)” following the table “Virginia—1997 Annual PM2.5 NAAQS (Primary and secondary)” to read as follows:

§ 81.347 Virginia.

* * * * *

Virginia—2012 Annual PM2.5 NAAQS
[Primary]
Designated area ¹ | Designation: Date ² | Designation: Type | Classification: Date ² | Classification: Type
AQCR 047 National Capital Interstate (DC-MD-VA):
Arlington County |  | Unclassifiable/Attainment
Fairfax County |  | Unclassifiable/Attainment
Loudoun County |  | Unclassifiable/Attainment
Prince William County |  | Unclassifiable/Attainment
Alexandria City |  | Unclassifiable/Attainment
Fairfax City |  | Unclassifiable/Attainment
Falls Church City |  | Unclassifiable/Attainment
Manassas City |  | Unclassifiable/Attainment
Manassas Park City |  | Unclassifiable/Attainment
AQCR 207 Eastern Tennessee-SW Virginia Interstate:
Bland County |  | Unclassifiable/Attainment
Buchanan County |  | Unclassifiable/Attainment
Carroll County |  | Unclassifiable/Attainment
Dickenson County |  | Unclassifiable/Attainment
Grayson County |  | Unclassifiable/Attainment
Lee County |  | Unclassifiable/Attainment
Russell County |  | Unclassifiable/Attainment
Scott County |  | Unclassifiable/Attainment
Smyth County |  | Unclassifiable/Attainment
Tazewell County |  | Unclassifiable/Attainment
Washington County |  | Unclassifiable/Attainment
Wise County |  | Unclassifiable/Attainment
Wythe County |  | Unclassifiable/Attainment
Bristol City |  | Unclassifiable/Attainment
Galax City |  | Unclassifiable/Attainment
Norton City |  | Unclassifiable/Attainment
AQCR 222 Central Virginia Intrastate:
Amelia County |  | Unclassifiable/Attainment
Amherst County |  | Unclassifiable/Attainment
Appomattox County |  | Unclassifiable/Attainment
Bedford County |  | Unclassifiable/Attainment
Brunswick County |  | Unclassifiable/Attainment
Buckingham County |  | Unclassifiable/Attainment
Campbell County |  | Unclassifiable/Attainment
Charlotte County |  | Unclassifiable/Attainment
Cumberland County |  | Unclassifiable/Attainment
Franklin County |  | Unclassifiable/Attainment
Halifax County |  | Unclassifiable/Attainment
Henry County |  | Unclassifiable/Attainment
Lunenburg County |  | Unclassifiable/Attainment
Mecklenburg County |  | Unclassifiable/Attainment
Nottoway County |  | Unclassifiable/Attainment
Patrick County |  | Unclassifiable/Attainment
Pittsylvania County |  | Unclassifiable/Attainment
Prince Edward County |  | Unclassifiable/Attainment
Bedford City |  | Unclassifiable/Attainment
Danville City |  | Unclassifiable/Attainment
Lynchburg City |  | Unclassifiable/Attainment
Martinsville City |  | Unclassifiable/Attainment
South Boston City |  | Unclassifiable/Attainment
AQCR 223 Hampton Roads Intrastate:
Isle of Wight County |  | Unclassifiable/Attainment
James City County |  | Unclassifiable/Attainment
Nansemond County |  | Unclassifiable/Attainment
Southampton County |  | Unclassifiable/Attainment
York County |  | Unclassifiable/Attainment
Chesapeake City |  | Unclassifiable/Attainment
Franklin City |  | Unclassifiable/Attainment
Hampton City |  | Unclassifiable/Attainment
Newport News City |  | Unclassifiable/Attainment
Norfolk City |  | Unclassifiable/Attainment
Poquoson City |  | Unclassifiable/Attainment
Portsmouth City |  | Unclassifiable/Attainment
Suffolk City |  | Unclassifiable/Attainment
Virginia Beach City |  | Unclassifiable/Attainment
Williamsburg City |  | Unclassifiable/Attainment
AQCR 224 NE Virginia Intrastate:
Accomack County |  | Unclassifiable/Attainment
Albemarle County |  | Unclassifiable/Attainment
Caroline County |  | Unclassifiable/Attainment
Culpeper County |  | Unclassifiable/Attainment
Essex County |  | Unclassifiable/Attainment
Fauquier County |  | Unclassifiable/Attainment
Fluvanna County |  | Unclassifiable/Attainment
Gloucester County |  | Unclassifiable/Attainment
Greene County |  | Unclassifiable/Attainment
King and Queen County |  | Unclassifiable/Attainment
King George County |  | Unclassifiable/Attainment
King William County |  | Unclassifiable/Attainment
Lancaster County |  | Unclassifiable/Attainment
Louisa County |  | Unclassifiable/Attainment
Madison County |  | Unclassifiable/Attainment
Mathews County |  | Unclassifiable/Attainment
Middlesex County |  | Unclassifiable/Attainment
Nelson County |  | Unclassifiable/Attainment
Northampton County |  | Unclassifiable/Attainment
Northumberland County |  | Unclassifiable/Attainment
Orange County |  | Unclassifiable/Attainment
Rappahannock County |  | Unclassifiable/Attainment
Richmond County |  | Unclassifiable/Attainment
Spotsylvania County |  | Unclassifiable/Attainment
Stafford County |  | Unclassifiable/Attainment
Westmoreland County |  | Unclassifiable/Attainment
Charlottesville City |  | Unclassifiable/Attainment
City of Fredericksburg |  | Unclassifiable/Attainment
AQCR 225 State Capital Intrastate:
Charles City County |  | Unclassifiable/Attainment
Chesterfield County |  | Unclassifiable/Attainment
Dinwiddie County |  | Unclassifiable/Attainment
Goochland County |  | Unclassifiable/Attainment
Greensville County |  | Unclassifiable/Attainment
Hanover County |  | Unclassifiable/Attainment
Henrico County |  | Unclassifiable/Attainment
New Kent County |  | Unclassifiable/Attainment
Powhatan County |  | Unclassifiable/Attainment
Prince George County |  | Unclassifiable/Attainment
Surry County |  | Unclassifiable/Attainment
Sussex County |  | Unclassifiable/Attainment
Colonial Heights City |  | Unclassifiable/Attainment
Emporia City |  | Unclassifiable/Attainment
Hopewell City |  | Unclassifiable/Attainment
Petersburg City |  | Unclassifiable/Attainment
Richmond City |  | Unclassifiable/Attainment
AQCR 226 Valley of Virginia Intrastate:
Alleghany County |  | Unclassifiable/Attainment
Augusta County |  | Unclassifiable/Attainment
Bath County |  | Unclassifiable/Attainment
Botetourt County |  | Unclassifiable/Attainment
Clarke County |  | Unclassifiable/Attainment
Craig County |  | Unclassifiable/Attainment
Floyd County |  | Unclassifiable/Attainment
Frederick County |  | Unclassifiable/Attainment
Giles County |  | Unclassifiable/Attainment
Highland County |  | Unclassifiable/Attainment
Montgomery County |  | Unclassifiable/Attainment
Page County |  | Unclassifiable/Attainment
Pulaski County |  | Unclassifiable/Attainment
Roanoke County |  | Unclassifiable/Attainment
Rockbridge County |  | Unclassifiable/Attainment
Rockingham County |  | Unclassifiable/Attainment
Shenandoah County |  | Unclassifiable/Attainment
Warren County |  | Unclassifiable/Attainment
Buena Vista City |  | Unclassifiable/Attainment
Clifton Forge City |  | Unclassifiable/Attainment
Covington City |  | Unclassifiable/Attainment
Harrisonburg City |  | Unclassifiable/Attainment
Lexington City |  | Unclassifiable/Attainment
Radford City |  | Unclassifiable/Attainment
Roanoke City |  | Unclassifiable/Attainment
Salem City |  | Unclassifiable/Attainment
Staunton City |  | Unclassifiable/Attainment
Waynesboro City |  | Unclassifiable/Attainment
Winchester City |  | Unclassifiable/Attainment
¹ Includes areas of Indian country located in each county or area, except as otherwise specified.
² This date is April 15, 2015, unless otherwise noted.

* * * * *

49. Section 81.348 is amended by adding a table entitled “Washington—2012 Annual PM2.5 NAAQS (Primary)” following the table “Washington—1997 Annual PM2.5 NAAQS [Primary and secondary]” to read as follows:

§ 81.348 Washington.

* * * * *

Washington—2012 Annual PM2.5 NAAQS
[Primary]
Designated area ¹ | Designation: Date ² | Designation: Type | Classification: Date ² | Classification: Type
Statewide:
Adams County |  | Unclassifiable/Attainment
Asotin County |  | Unclassifiable/Attainment
Benton County |  | Unclassifiable/Attainment
Clark County |  | Unclassifiable/Attainment
Clallam County |  | Unclassifiable/Attainment
Columbia County |  | Unclassifiable/Attainment
Cowlitz County |  | Unclassifiable/Attainment
Douglas County |  | Unclassifiable/Attainment
Ferry County |  | Unclassifiable/Attainment
Franklin County |  | Unclassifiable/Attainment
Garfield County |  | Unclassifiable/Attainment
Grant County |  | Unclassifiable/Attainment
Grays Harbor County |  | Unclassifiable/Attainment
Island County |  | Unclassifiable/Attainment
Jefferson County |  | Unclassifiable/Attainment
King County |  | Unclassifiable/Attainment
Kitsap County |  | Unclassifiable/Attainment
Kittitas County |  | Unclassifiable/Attainment
Klickitat County |  | Unclassifiable/Attainment
Lincoln County |  | Unclassifiable/Attainment
Mason County |  | Unclassifiable/Attainment
Okanogan County |  | Unclassifiable/Attainment
Pacific County |  | Unclassifiable/Attainment
Pend Oreille County |  | Unclassifiable/Attainment
Pierce County |  | Unclassifiable/Attainment
San Juan County |  | Unclassifiable/Attainment
Skagit County |  | Unclassifiable/Attainment
Skamania County |  | Unclassifiable/Attainment
Snohomish County |  | Unclassifiable/Attainment
Spokane County |  | Unclassifiable/Attainment
Stevens County |  | Unclassifiable/Attainment
Thurston County |  | Unclassifiable/Attainment
Wahkiakum County |  | Unclassifiable/Attainment
Walla Walla County |  | Unclassifiable/Attainment
Whatcom County |  | Unclassifiable/Attainment
Whitman County |  | Unclassifiable/Attainment
Yakima County |  | Unclassifiable/Attainment
¹ Includes areas of Indian country located in each county or area, except as otherwise specified.
² This date is April 15, 2015, unless otherwise noted.

* * * * *

50. Section 81.349 is amended by adding a table entitled “West Virginia—2012 Annual PM2.5 NAAQS (Primary)” following the table “West Virginia—1997 Annual PM2.5 NAAQS [Primary and secondary]” to read as follows:

§ 81.349 West Virginia.

* * * * *

West Virginia—2012 Annual PM2.5 NAAQS
[Primary]
Designated area ¹ | Designation: Date ² | Designation: Type | Classification: Date ² | Classification: Type
Statewide:
Barbour County |  | Unclassifiable/Attainment
Berkley County |  | Unclassifiable/Attainment
Boone County |  | Unclassifiable/Attainment
Braxton County |  | Unclassifiable/Attainment
Brooke County |  | Unclassifiable/Attainment
Cabell County |  | Unclassifiable/Attainment
Calhoun County |  | Unclassifiable/Attainment
Clay County |  | Unclassifiable/Attainment
Doddridge County |  | Unclassifiable/Attainment
Fayette County |  | Unclassifiable/Attainment
Gilmer County |  | Unclassifiable/Attainment
Grant County |  | Unclassifiable/Attainment
Greenbrier County |  | Unclassifiable/Attainment
Hampshire County |  | Unclassifiable/Attainment
Hancock County |  | Unclassifiable/Attainment
Hardy County |  | Unclassifiable/Attainment
Harrison County |  | Unclassifiable/Attainment
Jackson County |  | Unclassifiable/Attainment
Jefferson County |  | Unclassifiable/Attainment
Kanawha County |  | Unclassifiable/Attainment
Lewis County |  | Unclassifiable/Attainment
Lincoln County |  | Unclassifiable/Attainment
Logan County |  | Unclassifiable/Attainment
McDowell County |  | Unclassifiable/Attainment
Mason County |  | Unclassifiable/Attainment
Marion County |  | Unclassifiable/Attainment
Marshall County |  | Unclassifiable/Attainment
Mercer County |  | Unclassifiable/Attainment
Mineral County |  | Unclassifiable/Attainment
Mingo County |  | Unclassifiable/Attainment
Monongalia County |  | Unclassifiable/Attainment
Monroe County |  | Unclassifiable/Attainment
Morgan County |  | Unclassifiable/Attainment
Nicholas County |  | Unclassifiable/Attainment
Ohio County |  | Unclassifiable/Attainment
Pendleton County |  | Unclassifiable/Attainment
Pleasants County |  | Unclassifiable/Attainment
Pocahontas County |  | Unclassifiable/Attainment
Preston County |  | Unclassifiable/Attainment
Putnam County |  | Unclassifiable/Attainment
Raleigh County |  | Unclassifiable/Attainment
Randolph County |  | Unclassifiable/Attainment
Ritchie County |  | Unclassifiable/Attainment
Roane County |  | Unclassifiable/Attainment
Summers County |  | Unclassifiable/Attainment
Taylor County |  | Unclassifiable/Attainment
Tucker County |  | Unclassifiable/Attainment
Tyler County |  | Unclassifiable/Attainment
Upshur County |  | Unclassifiable/Attainment
Wayne County |  | Unclassifiable/Attainment
Webster County |  | Unclassifiable/Attainment
Wetzel County |  | Unclassifiable/Attainment
Wirt County |  | Unclassifiable/Attainment
Wood County |  | Unclassifiable/Attainment
Wyoming County |  | Unclassifiable/Attainment
¹ Includes areas of Indian country located in each county or area, except as otherwise specified.
² This date is April 15, 2015, unless otherwise noted.

* * * * *

51. Section 81.350 is amended by adding a table entitled “Wisconsin—2012 Annual PM2.5 NAAQS (Primary)” following the table “Wisconsin—1997 Annual PM2.5 NAAQS [Primary and secondary]” to read as follows:

§ 81.350 Wisconsin.

* * * * *

Wisconsin—2012 Annual PM2.5 NAAQS
[Primary]
Designated area ¹ | Designation: Date ² | Designation: Type | Classification: Date ² | Classification: Type
Statewide:
Adams County |  | Unclassifiable/Attainment
Ashland County |  | Unclassifiable/Attainment
Barron County |  | Unclassifiable/Attainment
Bayfield County |  | Unclassifiable/Attainment
Brown County |  | Unclassifiable/Attainment
Buffalo County |  | Unclassifiable/Attainment
Burnett County |  | Unclassifiable/Attainment
Calumet County |  | Unclassifiable/Attainment
Chippewa County |  | Unclassifiable/Attainment
Clark County |  | Unclassifiable/Attainment
Columbia County |  | Unclassifiable/Attainment
Crawford County |  | Unclassifiable/Attainment
Dane County |  | Unclassifiable/Attainment
Dodge County |  | Unclassifiable/Attainment
Door County |  | Unclassifiable/Attainment
Douglas County |  | Unclassifiable/Attainment
Dunn County |  | Unclassifiable/Attainment
Eau Claire County |  | Unclassifiable/Attainment
Florence County |  | Unclassifiable/Attainment
Fond du Lac County |  | Unclassifiable/Attainment
Forest County |  | Unclassifiable/Attainment
Grant County |  | Unclassifiable/Attainment
Green County |  | Unclassifiable/Attainment
Green Lake County |  | Unclassifiable/Attainment
Iowa County |  | Unclassifiable/Attainment
Iron County |  | Unclassifiable/Attainment
Jackson County |  | Unclassifiable/Attainment
Jefferson County |  | Unclassifiable/Attainment
Juneau County |  | Unclassifiable/Attainment
Kenosha County |  | Unclassifiable/Attainment
Kewaunee County |  | Unclassifiable/Attainment
La Crosse County |  | Unclassifiable/Attainment
Lafayette County |  | Unclassifiable/Attainment
Langlade County |  | Unclassifiable/Attainment
Lincoln County |  | Unclassifiable/Attainment
Manitowoc County |  | Unclassifiable/Attainment
Marathon County |  | Unclassifiable/Attainment
Marinette County |  | Unclassifiable/Attainment
Marquette County |  | Unclassifiable/Attainment
Menominee County |  | Unclassifiable/Attainment
Milwaukee County |  | Unclassifiable/Attainment
Monroe County |  | Unclassifiable/Attainment
Oconto County |  | Unclassifiable/Attainment
Oneida County |  | Unclassifiable/Attainment
Outagamie County |  | Unclassifiable/Attainment
Ozaukee County |  | Unclassifiable/Attainment
Pepin County |  | Unclassifiable/Attainment
Pierce County |  | Unclassifiable/Attainment
Polk County |  | Unclassifiable/Attainment
Portage County |  | Unclassifiable/Attainment
Price County |  | Unclassifiable/Attainment
Racine County |  | Unclassifiable/Attainment
Richland County |  | Unclassifiable/Attainment
Rock County |  | Unclassifiable/Attainment
Rusk County |  | Unclassifiable/Attainment
St. Croix County |  | Unclassifiable/Attainment
Sauk County |  | Unclassifiable/Attainment
Sawyer County |  | Unclassifiable/Attainment
Shawano County |  | Unclassifiable/Attainment
Sheboygan County |  | Unclassifiable/Attainment
Taylor County |  | Unclassifiable/Attainment
Trempealeau County |  | Unclassifiable/Attainment
Vernon County |  | Unclassifiable/Attainment
Vilas County |  | Unclassifiable/Attainment
Walworth County |  | Unclassifiable/Attainment
Washburn County |  | Unclassifiable/Attainment
Washington County |  | Unclassifiable/Attainment
Waukesha County |  | Unclassifiable/Attainment
Waupaca County |  | Unclassifiable/Attainment
Waushara County |  | Unclassifiable/Attainment
Winnebago County |  | Unclassifiable/Attainment
Wood County |  | Unclassifiable/Attainment
¹ Includes areas of Indian country located in each county or area, except as otherwise specified.
² This date is April 15, 2015, unless otherwise noted.

* * * * *

52. Section 81.351 is amended by adding a table entitled “Wyoming—2012 Annual PM2.5 NAAQS (Primary)” following the table “Wyoming—1997 Annual PM2.5 NAAQS [Primary and secondary]” to read as follows:

§ 81.351 Wyoming.

* * * * *

Wyoming—2012 Annual PM2.5 NAAQS
[Primary]
Designated area ¹ | Designation: Date ² | Designation: Type | Classification: Date ² | Classification: Type
Statewide:
Albany County |  | Unclassifiable/Attainment
Big Horn County |  | Unclassifiable/Attainment
Campbell County |  | Unclassifiable/Attainment
Carbon County |  | Unclassifiable/Attainment
Converse County |  | Unclassifiable/Attainment
Crook County |  | Unclassifiable/Attainment
Fremont County |  | Unclassifiable/Attainment
Goshen County |  | Unclassifiable/Attainment
Hot Springs County |  | Unclassifiable/Attainment
Johnson County |  | Unclassifiable/Attainment
Laramie County |  | Unclassifiable/Attainment
Lincoln County |  | Unclassifiable/Attainment
Natrona County |  | Unclassifiable/Attainment
Niobrara County |  | Unclassifiable/Attainment
Park County |  | Unclassifiable/Attainment
Platte County |  | Unclassifiable/Attainment
Sheridan County |  | Unclassifiable/Attainment
Sublette County |  | Unclassifiable/Attainment
Sweetwater County |  | Unclassifiable/Attainment
Teton County |  | Unclassifiable/Attainment
Uinta County |  | Unclassifiable/Attainment
Washakie County |  | Unclassifiable/Attainment
Weston County |  | Unclassifiable/Attainment
¹ Includes areas of Indian country located in each county or area, except as otherwise specified.
² This date is April 15, 2015, unless otherwise noted.

* * * * *

53. Section 81.352 is amended by adding a table entitled “American Samoa—2012 Annual PM2.5 NAAQS (Primary)” following the table “American Samoa—1997 Annual PM2.5 NAAQS [Primary and secondary]” to read as follows:

§ 81.352 American Samoa.

* * * * *

American Samoa—2012 Annual PM2.5 NAAQS
[Primary]
Designated area ¹ | Designation: Date ² | Designation: Type | Classification: Date ² | Classification: Type
Territory wide:
Eastern District |  | Unclassifiable/Attainment
Manu'a District |  | Unclassifiable/Attainment
Rose Island |  | Unclassifiable/Attainment
Swains Island |  | Unclassifiable/Attainment
Western District |  | Unclassifiable/Attainment
¹ Includes areas of Indian country located in each county or area, except as otherwise specified.
² This date is April 15, 2015, unless otherwise noted.

* * * * *

54. Section 81.353 is amended by adding a table entitled “Guam—2012 Annual PM2.5 NAAQS (Primary)” following the table “Guam—1997 Annual PM2.5 NAAQS [Primary and secondary]” to read as follows:

§ 81.353 Guam.

* * * * *

Guam—2012 Annual PM2.5 NAAQS
[Primary]
Designated area ¹ | Designation: Date ² | Designation: Type | Classification: Date ² | Classification: Type
Territory wide:
Guam |  | Unclassifiable/Attainment
¹ Includes areas of Indian country located in each county or area, except as otherwise specified.
² This date is April 15, 2015, unless otherwise noted.

* * * * *

55. Section 81.354 is amended by adding a table entitled “Northern Mariana Islands—2012 Annual PM2.5 NAAQS (Primary)” following the table “Northern Mariana Islands—1997 Annual PM2.5 NAAQS [Primary and secondary]” to read as follows:

§ 81.354 Northern Mariana Islands.

* * * * *

Northern Mariana Islands—2012 Annual PM2.5 NAAQS
[Primary]
Designated area ¹ | Designation: Date ² | Designation: Type | Classification: Date ² | Classification: Type
Territory wide:
Northern Islands Municipality |  | Unclassifiable/Attainment
Rota Municipality |  | Unclassifiable/Attainment
Saipan Municipality |  | Unclassifiable/Attainment
Tinian Municipality |  | Unclassifiable/Attainment
¹ Includes areas of Indian country located in each county or area, except as otherwise specified.
² This date is April 15, 2015, unless otherwise noted.

* * * * *

56. Section 81.355 is amended by adding a table entitled “Puerto Rico—2012 Annual PM2.5 NAAQS (Primary)” following the table “Puerto Rico—1997 Annual PM2.5 NAAQS [Primary and secondary]” to read as follows:

§ 81.355 Puerto Rico.

* * * * *

Puerto Rico—2012 Annual PM2.5 NAAQS
[Primary]
Designated area ¹ | Designation: Date ² | Designation: Type | Classification: Date ² | Classification: Type
Territory wide:
Adjuntas Municipio |  | Unclassifiable
Aguada Municipio |  | Unclassifiable
Aguadilla Municipio |  | Unclassifiable
Aguas Buenas Municipio |  | Unclassifiable
Aibonito Municipio |  | Unclassifiable
Añasco Municipio |  | Unclassifiable
Arecibo Municipio |  | Unclassifiable
Arroyo Municipio |  | Unclassifiable
Barceloneta Municipio |  | Unclassifiable
Barranquitas Municipio |  | Unclassifiable
Bayamón County |  | Unclassifiable
Cabo Rojo Municipio |  | Unclassifiable
Caguas Municipio |  | Unclassifiable
Camuy Municipio |  | Unclassifiable
Canóvanas Municipio |  | Unclassifiable
Carolina Municipio |  | Unclassifiable
Cataño County |  | Unclassifiable
Cayey Municipio |  | Unclassifiable
Ceiba Municipio |  | Unclassifiable
Ciales Municipio |  | Unclassifiable
Cidra Municipio |  | Unclassifiable
Coamo Municipio |  | Unclassifiable
Comerío Municipio |  | Unclassifiable
Corozal Municipio |  | Unclassifiable
Culebra Municipio |  | Unclassifiable
Dorado Municipio |  | Unclassifiable
Fajardo Municipio |  | Unclassifiable
Florida Municipio |  | Unclassifiable
Guánica Municipio |  | Unclassifiable
Guayama Municipio |  | Unclassifiable
Guayanilla Municipio |  | Unclassifiable
Guaynabo County |  | Unclassifiable
Gurabo Municipio |  | Unclassifiable
Hatillo Municipio |  | Unclassifiable
Hormigueros Municipio |  | Unclassifiable
Humacao Municipio |  | Unclassifiable
Isabela Municipio |  | Unclassifiable
Jayuya Municipio |  | Unclassifiable
Juana Díaz Municipio |  | Unclassifiable
Juncos Municipio |  | Unclassifiable
Lajas Municipio |  | Unclassifiable
Lares Municipio |  | Unclassifiable
Las Marías Municipio |  | Unclassifiable
Las Piedras Municipio |  | Unclassifiable
Loíza Municipio |  | Unclassifiable
Luquillo Municipio |  | Unclassifiable
Manatí Municipio |  | Unclassifiable
Maricao Municipio |  | Unclassifiable
Maunabo Municipio |  | Unclassifiable
Mayagnez Municipio |  | Unclassifiable
Moca Municipio |  | Unclassifiable
Morovis Municipio |  | Unclassifiable
Naguabo Municipio |  | Unclassifiable
Naranjito Municipio |  | Unclassifiable
Orocovis Municipio |  | Unclassifiable
Patillas Municipio |  | Unclassifiable
Peñuelas Municipio |  | Unclassifiable
Ponce Municipio |  | Unclassifiable
Quebradillas Municipio |  | Unclassifiable
Rincón Municipio |  | Unclassifiable
Río Grande Municipio |  | Unclassifiable
Sabana Grande Municipio |  | Unclassifiable
Salinas Municipio |  | Unclassifiable
San Germán Municipio |  | Unclassifiable
San Juan Municipio |  | Unclassifiable
San Lorenzo Municipio |  | Unclassifiable
San Sebastián Municipio |  | Unclassifiable
Santa Isabel Municipio |  | Unclassifiable
Toa Alta Municipio |  | Unclassifiable
Toa Baja County |  | Unclassifiable
Trujillo Alto Municipio |  | Unclassifiable
Utuado Municipio |  | Unclassifiable
Vega Alta Municipio |  | Unclassifiable
Vega Baja Municipio |  | Unclassifiable
Vieques Municipio |  | Unclassifiable
Villalba Municipio |  | Unclassifiable
Yabucoa Municipio |  | Unclassifiable
Yauco Municipio |  | Unclassifiable
¹ Includes areas of Indian country located in each county or area, except as otherwise specified.
² This date is April 15, 2015, unless otherwise noted.

* * * * *

57. Section 81.356 is amended by adding a table entitled “Virgin Islands—2012 Annual PM2.5 NAAQS (Primary)” following the table “Virgin Islands—1997 Annual PM2.5 NAAQS [Primary and secondary]” to read as follows:

§ 81.356 Virgin Islands.

* * * * *

Virgin Islands—2012 Annual PM2.5 NAAQS
[Primary]
Designated area ¹ | Designation: Date ² | Designation: Type | Classification: Date ² | Classification: Type
Territory wide:
St. Croix |  | Unclassifiable
St. John |  | Unclassifiable
St. Thomas |  | Unclassifiable
¹ Includes areas of Indian country located in each county or area, except as otherwise specified.
² This date is April 15, 2015, unless otherwise noted.

* * * * *

[FR Doc. 2015-00021 Filed 1-14-15; 8:45 am]

BILLING CODE 6560-50-P